DEPARTMENT OF THE TREASURY

Customs Service

Privacy Act of 1974, as Amended: System of Records

AGENCY: U. S. Customs Service, Treasury.

ACTION: Notice of Privacy Act system of records.

SUMMARY: In accordance with the requirements of the Privacy Act of 1974, as amended, 5 U.S.C. 552a, the United States Customs Service, Treasury, is publishing its Privacy Act systems of records.

SUPPLEMENTARY INFORMATION: Pursuant to the Privacy Act of 1974 (5 U.S.C. 552a) and the Office of Management and Budget (OMB) Circular No. A-130, the United States Customs Service (Customs) has completed a review of its Privacy Act systems of records notices to identify minor changes that will more accurately describe these records.

The changes throughout the document are editorial in nature and consist principally of changes to system locations and system manager addresses.

The following systems of records have been added to the Customs inventory of Privacy Act notices since September 30, 1998:

(Published December 1, 1998, at 63 FR 66232)

CS.286—Electronic Job Application Processing System (Published April 24, 2001, at 66 FR 20717.

The following system of records has been removed from Customs inventory of Privacy Act systems:

CS.078—Disclosure of Information File (Published December 3, 1999 at 64 FR 67966)

CS.172—Parking Permits File (Published December 14, 2000, at 65 FR 78263).

Systems Covered by This Notice: This notice covers all systems of records adopted by the Bureau up to August 30, 2001.

The systems notices are reprinted in their entirety following the Table of Contents.

Dated: September 26, 2001.
W. Earl Wright, Jr.,
Chief Management and Administrative Programs Officer.

Table of Contents

CS.001—Acceptable Level of Competence, Negative Determination

CS.002—Accident Reports

CS.005—Accounts Receivable

CS.009—Acting Customs Inspector (Excepted)

CS.021—Arrest/Seizure/Search Report and Notice of Penalty File

CS.022—Attorney Case File

CS.030—Bankrupt Parties-In-Interest

CS.031—Bills Issued Files

CS.032—Biographical Files (Headquarters)

CS.040—Carrier File

CS.041—Cartmen or Lightermen

CS.042—Case and Complaint File

CS.043—Case Files (Associate Chief Counsel—Gulf Customs Management Center

CS.044—Certificates of Clearance

CS.045—Claims Act File

CS.046—Claims Case File

CS.050—Community Leader Survey

CS.053—Confidential Source Identification File

CS.054—Confidential Statements of Employment and Financial Interests

CS.056—Congressional and Public Correspondence File

CS.057—Container Station Operator Files

CS.058—Cooperating Individual Files

CS.061—Court Case File

CS.064—Credit Card File

CS.069—Customs Brokers File

CS.077—Disciplinary Action, Grievance and Appeal Case Files

CS.081—Dock Passes

CS.083—Employee Relations Case Files

CS.096—Fines, Penalties and Forfeiture Control and Information Retrieval System

CS.098—Fines, Penalties and Forfeitures Records

CS.099—Fines, Penalties and Forfeiture Records (Supplemental Petitions)

CS.100—Fines, Penalties and Forfeiture Record (Headquarters)

CS.105—Former Employees

CS.109—Handicapped Employee File

CS.122—Information Received File

CS.123—Injury Notice

CS.125—Intelligence Log

CS.127—Internal Affairs Records System

CS.129—Investigations Record System

CS.133—Justice Department Case File

CS.136—All Liquidated Damage Penalty, and Seizure Cases; Prior Violators

CS.137—List of Vessel Agents Employees

CS.138—Litigation Issue Files

CS.144—Mail Protest File

CS.148—Military Personnel and Civilian Employees' Claims Act File

CS.151—Motor Vehicle Accident Reports

CS.156—Narcotics Violator File

CS.159—Notification of Personnel Management Division—When an Employee is placed under investigation by the Office of Internal Affairs

CS.162—Organization (Customs) and Automated Position Management System (COAPMS)

CS.163—Outside Employment Requests

CS.165—Overtime Earnings

CS.170—Overtime Reports

CS.171—Pacific Basin Reporting Network

CS.186—Personnel Search

CS.190—Personnel Case File

CS.193—Operating Personnel Folder Files

CS.196—Preclearance Costs

CS.197—Private Aircraft/Vessel Inspection Reporting System

CS.201—Property File, Non-Expendable

CS.206—Regulatory Audits of Customhouse Brokers

CS.207—Reimbursable Assignment/Workticket System

CS.208—Restoration of Forfeited Annual Leave Cases

CS.209—Resumes of Professional Artists

CS.211—Sanction List

CS.212—Search/Arrest/Seizure Report

CS.213—Seized Asset and Case Tracking System (SEACATS)

CS.214—Seizure File

CS.215—Seizure Report File

CS.224—Suspect Persons Index

CS.226—Television System

CS.227—Temporary Importation under Bond (TIB) Defaulter Control System

CS.232—Tort Claims Act File

CS.234—Tort Claims Act File

CS.238—Training and Career Individual Development Plans

CS.239—Training Records

CS.244—Treasury Enforcement Communications System

CS.249—Uniform Allowance-Unit Record

CS.251—Unscheduled Overtime Report

CS.252—Valuables Shipped under Government Losses in Shipment Act

CS.258—Violator's Case Files

CS.260—Warehouse Proprietor Files

CS.262—Warnings to Importers in Lieu of Penalty

CS.268—Military Personnel and Civilian Employees' Claim Act File

CS.269—Accounts Payable Voucher File

CS.270—Background—Record File on Non-Customs Employees

CS.271—Cargo Security Record System

CS.272—Currency Declaration File (Customs Form 4790)

CS.274—Importers, Brokers, Carriers, Individuals and Sureties Master File

CS.278—Automated Commercial System (ACS)

CS.284—Personnel Verification System (PVS)

CS.285—Automated Index to Central Investigative Files

CS.286—Electronic Job Application Processing System

Appendix A—US Customs Service

Customs Service

(CS) Treasury/CS .001

SYSTEM NAME:

Acceptable Level of Competence, Negative Determination-Treasury/Customs.

SYSTEM LOCATION:

Located in Customs Headquarters Offices and in each Customs Management Center, Port, SAC, and appropriate post of duty.

Categories of individuals covered by the system: Any employee of U.S. Customs Service, who receives a negative determination regarding acceptable level of competence.

CATEGORIES OF RECORDS IN THE SYSTEM:

Employee's name, social security number, position description, grade, and correspondence containing specific reasons for negative determination.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in these records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to a congressional office in response to an inquiry made at the request of the individual to whom the record pertains; (5) provide information to unions recognized as exclusive bargaining representatives under the Civil Service Reform Act of 1978, 5 U.S.C. 7111 and 7114; (6) provide information to third parties during the course of an investigation to the extent necessary to obtain information pertinent to the investigation.

POLICIES AND PRACTICES FOR STORING, RETRIEVING, ACCESSING, RETAINING, AND DISPOSING OF RECORDS IN THE SYSTEM:

STORAGE:

Records are maintained in file folders and stored in locked file cabinets.

RETRIEVABILITY:

The records are filed by the individual's name.

SAFEGUARDS:

Stored in locked cabinets.

RETENTION AND DISPOSAL:

Records are retained until the employee leaves the Customs Service.

SYSTEM MANAGER(S) AND ADDRESS:

Director, Labor and Employee Relations Division, Office of Human Resources, Customs Headquarters, or Labor and Employee Relations Office, Customs Management Center Headquarters, or appropriate managerial official in employee's, SAC, port or post of duty offices.

NOTIFICATION PROCEDURE:

Correspondence with systems manager.

RECORD ACCESS PROCEDURES:

Correspondence with systems manager.

CONTESTING RECORD PROCEDURES:

Correspondence with systems manager.

RECORD SOURCE CATEGORIES:

Information is furnished by the employee, employee's supervisor and the Merit Systems Protection Board.

EXEMPTIONS CLAIMED FOR THE SYSTEM:

None. (See 31 CFR 1.36.)

Treasury/CS .002

SYSTEM NAME:

Accident Reports—Treasury/Customs.

SYSTEM LOCATION:

Field Mission Support, U. S. Customs Service, 555 Battery Street, Rm. 326, San Francisco, CA 94111.

CATEGORIES OF INDIVIDUALS COVERED BY THE SYSTEM:

Any employee who has had an accident on Government property or in an official vehicle since 1973.

CATEGORIES OF RECORDS IN THE SYSTEM:

Standard Government forms dealing with accidents and personal injuries.

AUTHORITY FOR MAINTENANCE OF THE SYSTEM:

5 U.S.C. 301; Treasury Department Order No. 165, Revised, as amended. Executive Order 11807 and Section 19 of Occupational Health & Safety Act of 1970; 5 U.S.C. 8101-8150, 8191-8193.

ROUTINE USES OF RECORDS MAINTAINED IN THE SYSTEM, INCLUDING CATEGORIES OF USERS AND THE PURPOSES OF SUCH USES:

These records and information in the records may be used to: (1) Disclose to employee's beneficiary in event of death following the accident or injury or to employee's agent in case of disability; (2) disclose pertinent information to appropriate Federal, State, local, or foreign agencies responsible for investigating or prosecuting the violations of, or for enforcing or implementing, a statute, rule, regulation, order, or license, where the disclosing agency becomes aware of an indication of a violation or potential violation of civil or criminal law or regulation; (3) disclose information to a Federal, State, or local agency, maintaining civil, criminal or other relevant enforcement information or other pertinent information, which has requested information relevant to or necessary to the requesting agency's or the bureau's hiring or retention of an individual, or issuance of a security clearance, license, contract, grant, or other benefit; (4) disclose information to a court, magistrate, or administrative tribunal in the course of presenting evidence, including disclosures to opposing counsel or witnesses in the course of civil discovery, litigation, or settlement negotiations, in response to a subpoena, or in connection with criminal law proceedings; (5) provide information to the news media in accordance with guidelines contained in 28 CFR 50.2 which relate to an agency's functions relating to civil and criminal proceedings; (6) provide information to third parties during the course of an investigation to the extent necessary to obtain information pertinent to the investigation.

POLICIES AND PRACTICES FOR STORING, RETRIEVING, ACCESSING, RETAINING, DISPOSING OF RECORDS IN THE SYSTEM:

STORAGE:

Each case folder is maintained in an unlocked drawer in chronological order by date.

RETRIEVABILITY:

Each case is identified by employee name and date of accident.

SAFEGUARDS:

The metal container described above is maintained within the area assigned to the Logistics Management Division within the Southeast Region Headquarters Building. During non-working hours the room in which the metal container is located is locked.

RETENTION AND DISPOSAL:

Accident Record files are retained in accordance with the Records Disposal Manual.

SYSTEM MANAGER(S) AND ADDRESS:

Management Program Technician, Field Mission Support, U. S. Customs Service, 555 Battery Street, San Francisco, CA 94111.

NOTIFICATION PROCEDURE:

See Customs appendix A.

RECORD ACCESS PROCEDURES:

See Customs appendix A.

CONTESTING RECORD PROCEDURES:

See Access, Customs appendix A.

RECORD SOURCE CATEGORIES:

Information originates with employees who have been injured and/or have been involved in accidents during the exercise of their official duties. Also included are witness reports and statements, the employees' supervisors' statements and doctors' reports.

EXEMPTIONS CLAIMED FOR THE SYSTEM:

None.

Treasury/CS .005

SYSTEM NAME:

Accounts Receivable—Treasury/Customs.

SYSTEM LOCATION:

Financial Management Division, National Finance Center, U.S. Customs Service, 6026 Lakeside Blvd., Indianapolis, IN 46278; U.S. Customs Service, Financial Management Division, Increase and Refund Section, 6 World Trade Center, New York, NY 10048; Financial Management Division, U.S. Customs Service, 423 Canal Street, New Orleans, LA 70130.

CATEGORIES OF INDIVIDUALS COVERED BY THE SYSTEM:

Persons owing money for Customs duties and services and money owed to persons for overpayment of excessive duties and services.

CATEGORIES OF RECORDS IN THE SYSTEM:

Correspondence and documentation of telephone calls with debtors and creditors or their representatives.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

Data is stored in file folders which are contained in an unlocked metal file cabinet.

RETRIEVABILITY:

The file is retrieved by the name of the individual which is kept in alphabetical order within the work area of the Collection Section.

SAFEGUARDS:

The files are located within an office that is locked during non-working hours. The building is guarded by uniformed security police and only authorized persons are permitted entry to the building.

RETENTION AND DISPOSAL:

The file is retained until collection or refund is effected and two (2) years thereafter, then destroyed.

SYSTEM MANAGER(S) AND ADDRESS:

Director, Customs Management Center, U.S. Customs Service, 6 World Trade Center, New York, NY 10048; Financial Management Division, U.S. Customs Service, Gulf Customs Management Center, 423 Canal Street, New Orleans, LA 70130.

NOTIFICATION PROCEDURE:

See Customs appendix A.

RECORD ACCESS PROCEDURES:

See Customs appendix A.

CONTESTING RECORD PROCEDURES:

See Access, Customs appendix A.

RECORD SOURCE CATEGORIES:

The information in the system is obtained from data gathered from the automated billing system and ports of entry.

EXEMPTIONS CLAIMED FOR THE SYSTEM:

None.

Treasury/CS .009

SYSTEM NAME:

Acting Customs Inspector (Excepted)—Treasury/Customs.

SYSTEM LOCATION:

Director, East Texas Customs Management Center, 2323 South Shepherd Drive, Suite 1200, Houston, TX 77019; Office of the Port Director, San Diego, CA; Offices of the Port Directors, San Ysidro, CA; Calexico, CA; Tecate, CA; Andrade, CA; San Diego Barge Office; U.S. Customhouse, P.O. Box 111, Port Director's Office, St. Albans, VT 05478.

CATEGORIES OF INDIVIDUALS COVERED BY THE SYSTEM:

Employees or members of other Federal agencies who are designated by the Port Directors as Customs Inspectors (Excepted).

CATEGORIES OF RECORDS IN THE SYSTEM:

System has name, social security number, rank or grade and duty station of the individual.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

CF 55 forms kept in manila folders in file cabinet.

RETRIEVABILITY:

Filed alphabetically.

SAFEGUARDS:

During non-working hours the offices and/or buildings in which records are located are locked.

RETENTION AND DISPOSAL:

Until individual transfers or designation is canceled. Form is then destroyed.

SYSTEM MANAGER(S) AND ADDRESS:

Director, East Texas Customs Management Center, 2323 South Shepherd Drive, Suite 1200, Houston, TX 77019; Port Directors within the San Diego Customs District (see appendix A); Port Director, U.S. Customs Service, St. Albans, VT 05478, Port Director, 1, LaPontilla St. Room 203, San Juan, PR 00901.

NOTIFICATION PROCEDURE:

See Customs appendix A.

RECORD ACCESS PROCEDURES:

See Customs appendix A.

CONTESTING RECORD PROCEDURES:

See Access, Customs appendix A.

RECORD SOURCE CATEGORIES:

Information is supplied by the individual and his or her agency.

EXEMPTIONS CLAIMED FOR THE SYSTEM:

None.

Treasury/CS .021

SYSTEM NAME:

Arrest/Seizure/Search Report and Notice of Penalty File—Treasury/Customs.

SYSTEM LOCATION:

Port Director, United States Customs Service, P.O. Box 1641, Honolulu, HI 96806.

CATEGORIES OF INDIVIDUALS COVERED BY THE SYSTEM:

Persons who are suspected of attempting to smuggle, or have smuggled, merchandise or contraband into the United States; individuals who have undervalued merchandise upon entry into the United States; vessels and aircraft which have been found to be in violation of Customs laws.

CATEGORIES OF RECORDS IN THE SYSTEM:

Names of individuals, vessels, aircraft; identifying factors; nature of violation or suspected violation; circumstances surrounding violation or suspected violation; date and place of violation or suspected violation; and on-site disposition actions.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Each report is assigned a case number and filed accordingly in a locked, metal file located in the Office of Investigations.

RETRIEVABILITY:

Each report is identified in a manual alphabetical card file by the name of the individual, vessel or aircraft.

SAFEGUARDS:

In addition to being stored in a locked metal cabinet, these records are located in a locked room, the keys of which are controlled and issued only to authorized personnel.

RETENTION AND DISPOSAL:

These records are retained for one year (1) or until action has been completed.

SYSTEM MANAGER(S) AND ADDRESS:

Office of Investigations, U.S. Customs Service, Post Office Box 1641, Honolulu, HI 96806.

Notification procedure:

See Customs appendix A.

RECORD ACCESS PROCEDURES:

See Customs appendix A.

CONTESTING RECORD PROCEDURES:

See Access, Customs appendix A.

RECORD SOURCE CATEGORIES:

See “Categories of individuals covered by the system” above. The system contains material for which sources may not need to be reported.

EXEMPTIONS CLAIMED FOR THE SYSTEM:

This system is exempt from 5 U.S.C. 552a (c)(3), (d)(1), (d)(2), (d)(3), (d)(4), (e)(1), (e)(4)(G), (H) and (I) and (f) of the Privacy Act pursuant to 5 U.S.C. 552a (k)(2). (See 31 CFR 1.36.)

Treasury/CS .022

SYSTEM NAME:

Attorney Case File—Treasury/Customs.

SYSTEM LOCATION:

The Chief Counsel, U.S. Customs Service Headquarters, 1300 Pennsylvania Avenue, NW., Washington, DC 20229; Office of the Associate Chief Counsel of each Region (for addresses see “Customs Management Center Directors” section, appendix A). Assistant Chief Counsel, Charleston, SC; Assistant Chief Counsel, San Diego, CA; Assistant Chief Counsel, Seattle, WA; Assistant Chief Counsel, 9400 Viscount Drive, Suite 102, El Paso, TX 79925; Resident Counsel, U.S. Customs Service Academy, Building 67-FLETC, Glynco, GA 31524; Assistant Chief Counsel (CIT), U.S. Customs Service, Room 258, 26 Federal Plaza, New York, NY 10007; Assistant Chief Counsel (NFC), National Logistics Finance Center, U.S. Customs Service, P.O. Box 68914, Indianapolis, IN 46278.

CATEGORIES OF INDIVIDUALS COVERED BY THE SYSTEM:

Individuals who are subject of adverse actions, equal employment opportunity complaints, unfair labor practice complaints, and grievances; individuals who are the subject of Customs license or other administrative revocation or suspension proceedings; individuals who are the subject of or have requested legal advice from the various offices; individuals requesting access to information pursuant to any statute, regulation, directive, or policy to disclose such information, including individuals who are the subject of a Federal or state administrative or judicial subpoena; individuals who have filed or may file claims under the various Federal claims acts; individuals who are parties in litigation with the United States government or subunits or employees or officers thereof, in matters which affect or involve the United States Customs Service; individuals who are seeking relief from fines and penalties and forfeitures assessed for violations of the law and regulations administered by Customs; individuals who have outstanding Customs bills submitted for collection; and individuals who have challenged contracting decisions of the agency.

CATEGORIES OF RECORDS IN THE SYSTEM:

This system of records consists of a computer database containing information designed to allow the system manager to track matters which have come into his or her office. The categories of records maintained in the file folders which are indexed by computer system are personnel actions; administrative revocation or suspension proceedings; intra-agency or inter-agency memoranda, reports of investigation, and other documents relating to the request for legal advice; claims and cases in administrative and judicial litigation; requests, information, records, documents, internal Customs Service memoranda, or memoranda from other agencies and related materials regarding the disclosure of information.

AUTHORITY FOR MAINTENANCE OF THE SYSTEM:

5 U.S.C. 301; Treasury Department Order No. 165, Revised, as amended; 28 U.S.C. 2672, et seq.; 28 CFR 14.1, et seq.; 31 CFR 3.1, et seq.; 31 U.S.C. 3701 et seq.; 31 CFR part 4; 5 U.S.C. 552, 31 CFR part 1, Reorganization Plan No. 1 of 1965; Government employee laws found in Title 5 of the United States Code; government contracting laws found in Titles 31, 40, and 41 of the United States Code; and the Customs laws and regulations found in Title 19 of the United States Code and Code of Federal Regulations, respectively.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau' s hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

The computerized indices are maintained in computer data base. Each file is maintained in a numbered file folder which is filed in an unlocked drawer in the responsible attorney's office, a metal file cabinet, or a storage room at the local system manager's location.

RETRIEVABILITY:

Through the use of the computer located at the local system manager's location, each file is retrievable by name, number and title.

SAFEGUARDS:

Access is limited to employees who have a need for such records in the course of their work. Background checks are made on employees. All facilities where records are stored have access limited to authorized personnel. During non-working hours the rooms in which the files are located are locked. During working hours, the rooms in which the files are located are under control of the staff of the local systems manager.

RETENTION AND DISPOSAL:

The file folders are retained in accordance with the Federal Records Retention Manual.

SYSTEM MANAGER(s) AND ADDRESS:

See systems location above.

NOTIFICATION PROCEDURE:

See Customs appendix A.

RECORD ACCESS PROCEDURES:

See Customs appendix A.

CONTESTING RECORD PROCEDURES:

See Access, Customs appendix A.

RECORD SOURCE CATEGORIES:

The information contained in these files originates from the subject individual, U.S. Customs employees, Reports of Investigation, Customs penalty case files, other government agencies, parties involved in administrative and judicial litigation, administrative proceedings regarding disciplinary action taken against Customs Service employees, Equal Opportunity complaints, unfair labor practice complaints, parties involved in administrative revocation or suspension proceedings, individuals or employees requesting legal advice, and from the parties requesting disclosure of information.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .030

SYSTEM NAME:

Bankrupt Parties-in-Interest—Treasury/Customs.

SYSTEM LOCATION:

U.S. Customs Service, Director, National Finance Center, PO Box 68907, Indianapolis, Indiana 46268.

CATEGORIES OF INDIVIDUALS COVERED BY THE SYSTEM:

Individuals indebted to U.S. Customs.

CATEGORIES OF RECORDS IN THE SYSTEM:

Listed by name, address, port of service, bill number, and dollar amount of delinquent receivables.

AUTHORITY FOR MAINTENANCE OF THE SYSTEM:

Pub. L. 89-508, the “Federal Claims Collection Act of 1966;” 5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to a congressional office in response to an inquiry made at the request of the individual to whom the record pertains; (5) provide information to the news media in accordance with guidelines contained in 28 CFR 50.2 which relate to an agency's functions relating to civil and criminal proceedings; (6) provide information to third parties during the course of an investigation to the extent necessary to obtain information pertinent to the investigation.

POLICIES AND PRACTICES FOR STORING, RETRIEVING, ACCESSING, RETAINING, DISPOSING OF RECORDS IN THE SYSTEM:

STORAGE:

Cases are maintained in file folders at work site.

RETRIEVABILITY:

Alphabetical order by name.

SAFEGUARDS:

These cases are placed in locked cabinets during non-working hours. The building is guarded by uniformed security police.

RETENTION AND DISPOSAL:

As satisfaction is received, cases are closed. Records are maintained per Records Control Manual FIS-4 No. 124.

System manager(s) and address:

Director, U.S. Customs, National Finance Center, 6026 Lakeside Boulevard, Indianapolis, IN 46268.

NOTIFICATION PROCEDURE:

See Customs appendix A.

RECORD ACCESS PROCEDURES:

See Customs appendix A.

CONTESTING RECORD PROCEDURES:

See Access, Customs appendix A.

RECORD SOURCE CATEGORIES:

The source of information is obtained from individuals, bankruptcy courts, Customhouse brokers, and sureties.

EXEMPTIONS CLAIMED FOR THE SYSTEM:

None.

Treasury/CS .031

SYSTEM NAME:

Bills Issued Files—Treasury/Customs.

SYSTEM LOCATION:

Director, U.S. Customs, National Finance Center, P.O. Box 68907.

CATEGORIES OF INDIVIDUALS COVERED BY THE SYSTEM:

Individuals to whom bills have been issued.

CATEGORIES OF RECORDS IN THE SYSTEM:

Correspondence received from or sent to individuals in relation to bills issued by the United States Customs Service.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency” s or the bureau” s hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to a congressional office in response to an inquiry made at the request of the individual to whom the record pertains; (5) provide information to the news media in accordance with guidelines contained in 28 CFR 50.2 which relate to an agency” s functions relating to civil and criminal proceedings; (6) provide information to third parties during the course of an investigation to the extent necessary to obtain information pertinent to the investigation.

POLICIES AND PRACTICES FOR STORING, RETRIEVING, ACCESSING, RETAINING, DISPOSING OF RECORDS IN THE SYSTEM:

STORAGE:

Individual alphabetical file folders in file cabinet.

RETRIEVABILITY:

Access by name of individual.

SAFEGUARDS:

The file cabinet is maintained in the offices of the Director, National Finance Center. During non-working hours the room/building in which the file is located is locked. Access is limited to authorized personnel.

RETENTION AND DISPOSAL:

Correspondence is maintained for a period of three (3) years then destroyed.

SYSTEM MANAGER(S) AND ADDRESS:

Director, U.S. Customs, National Finance Center, PO Box 68907, Indianapolis, Indiana 46268.

NOTIFICATION PROCEDURE:

See Customs appendix A.

RECORD ACCESS PROCEDURES:

See Customs appendix A.

CONTESTING RECORD PROCEDURES:

See Access, Customs appendix A.

RECORD SOURCE CATEGORIES:

The information consists of copies of letters or memoranda issued to or received from individuals. Records of phone calls and copies of documents related to the individual's transaction.

EXEMPTIONS CLAIMED FOR THE SYSTEM:

None.

Treasury/CS .032

SYSTEM NAME:

Biographical Files (Headquarters)—Treasury/Customs.

SYSTEM LOCATION:

Public Information Division, U.S. Customs Service Headquarters, 1300 Pennsylvania Avenue, NW, Washington, DC 20229, and the Customs Management Center Public Information offices located at the addresses listed in Customs appendix A.

CATEGORIES OF INDIVIDUALS COVERED BY THE SYSTEM:

General biographical records are maintained on all Customs employees for news release and public information purposes.

CATEGORIES OF RECORDS IN THE SYSTEM:

General biographical information including home address, date and place of birth, educational background, work experience, honors and awards, hobbies, and other information.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

Policies and Practices for Storing, Retrieving, Accessing, Retaining, Disposing of Records in the System:

STORAGE:

Information is maintained in file cabinets in the Public Information Division at Customs Headquarters.

RETRIEVABILITY:

File folders are identified by the name of the person and are filed in alphabetical order.

SAFEGUARDS:

The office in which the records are located is locked during non-working hours and the building is guarded by uniformed guards.

RETENTION AND DISPOSAL:

Files are retained during the individual's tenure as an employee of the Customs Service, after which the files are destroyed.

SYSTEM MANAGER(S) AND ADDRESS:

Director, Public Information Division, U.S. Customs Service Headquarters, 1300 Pennsylvania Avenue, NW, Washington, DC 20229.

NOTIFICATION PROCEDURE:

See Customs appendix A.

RECORD ACCESS PROCEDURES:

See Customs appendix A.

CONTESTING RECORD PROCEDURES:

See Access, Customs appendix A.

RECORD SOURCE CATEGORIES:

The individual involved, Customs personnel officers and co-workers.

EXEMPTIONS CLAIMED FOR THE SYSTEM:

None.

Treasury/CS .040

SYSTEM NAME:

Carrier File—Treasury/Customs.

SYSTEM LOCATION:

Located in the Office of the Area Port Director, Terminal Island, San Pedro, CA; Office of the Port Director, San Diego, CA; Office of the Port Director, Los Angeles International Airport, Los Angeles, CA; Office of the Port Director, Terrace and International Streets, Nogales, AZ 85621; San Ysidro, CA; Tecate, CA; Calexico, CA; Andrade, CA; San Diego Barge Office.

CATEGORIES OF INDIVIDUALS COVERED BY THE SYSTEM:

Officers or owners, employees, associates of Customs Bonded Carriers.

CATEGORIES OF RECORDS IN THE SYSTEM:

Name, date of birth, social security number, place of birth and other information relating to Officers, Associates, employees, etc., of Bonded Carriers.

AUTHORITY FOR MAINTENANCE OF THE SYSTEM:

5 U.S.C. 301; Treasury Department Order No. 165, Revised, as amended, and the Customs Regulations.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Manila folder in file cabinet.

RETRIEVABILITY:

Filed by name of company or individual.

SAFEGUARDS:

Building locked during non-working hours.

RETENTION AND DISPOSAL:

Records retained until obsolete, then destroyed by burning.

SYSTEM MANAGER(S) AND ADDRESS:

Customs Management Center Director and Service Port Directors, within the San Diego Customs District; Area Port Director, Terminal Island, San Pedro, CA; Area Port Director, Los Angeles International Airport;and Port Director, U.S. Customhouse, Nogales, AZ 85621. (See Customs appendix A.)

NOTIFICATION PROCEDURE:

See Customs appendix A.

RECORD ACCESS PROCEDURES:

See Customs appendix A.

CONTESTING RECORD PROCEDURES:

See Access, Customs appendix A.

RECORD SOURCE CATEGORIES:

Customs Bonded Carriers' employees and correspondence.

EXEMPTIONS CLAIMED FOR THE SYSTEM:

None.

Treasury/CS .041

SYSTEM NAME:

Cartmen or Lightermen—Treasury/Customs.

SYSTEM LOCATION:

Customs ports and Customs Management Centers. (See Customs appendix A.)

CATEGORIES OF INDIVIDUALS COVERED BY THE SYSTEM:

Individuals and firms who have applied for or hold a license as a bonded cartman or lighterman and individuals employed by cartman or lightermen.

CATEGORIES OF RECORDS IN THE SYSTEM:

Internal Customs Service memoranda and related materials regarding applications for licenses and identification cards, reports of investigations for approving these licenses and identification cards and card files showing outstanding identification cards and their location. Files also include fingerprint cards.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and the information in these records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

The information in this system is contained in a metal file cabinet in the office maintaining the system, or on magnetic disc.

RETRIEVABILITY:

Each case file is identified in a manual alphabetical card file by the name of the licensed cartman or lighterman and in the alphabetical file folder by the name of the licensed cartman or lighterman. Each employee's record is filed in a manual alphabetical card file cross-referenced with company names.

SAFEGUARDS:

The file is placed in a metal file cabinet at the work site. At locations where work is not performed on a 24-hour basis the work area is locked and only authorized persons are permitted in the building.

RETENTION AND DISPOSAL:

Files are reviewed at least once a year at which time canceled I.D. cards may be removed. Closed CF 3078's may also be removed, but normally are held for approximately three years in case a new application is received from the same company or transferred to another company after a new investigation.

SYSTEM MANAGER(S) AND ADDRESS:

Area Port Directors and Customs Management Center Directors. (See Customs appendix A.)

NOTIFICATION PROCEDURE:

See Customs appendix A.

RECORD ACCESS PROCEDURES:

See Customs appendix A.

CONTESTING RECORD PROCEDURES:

See Access, Customs appendix A.

RECORD SOURCE CATEGORIES:

See “Categories of individuals covered by the system” above. The system contains material for which sources may not need to be reported.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .042

SYSTEM NAME:

Case and Complaint File—Treasury/Customs.

SYSTEM LOCATION:

Office of Associate Chief Counsel (Chicago), U.S. Customs Service, 610 S. Canal St., 7th floor, Chicago, IL 60607.

CATEGORIES OF INDIVIDUALS COVERED BY THE SYSTEM:

Any individual initiating a court case or against whom a court case is brought; any individual involved in a personnel action, either initiating a grievance, discrimination complaint, or unfair labor practice complaint against the U.S. Customs Service or against whom a disciplinary or other adverse action is initiated; claimants or potential claimants under the Federal Tort Claim Act; individuals involved in accidents with U.S. Customs Service employees; U.S. Customs Service employees involved in accidents; persons seeking relief from fines, penalties and forfeitures and restoration of proceeds from the sale of seized and forfeited property; requesters under the Freedom of Information Act.

CATEGORIES OF RECORDS IN THE SYSTEM:

The System contains the individual's name, the type of case, the uniform filing guide number, the Associate Chief Counsel's office file number, by whom the matter was referred, the district where the action originated, if applicable.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to the news media in accordance with guidelines contained in 28 CFR 50.2 which relate to an agency's functions relating to civil and criminal proceedings; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

Each alphabetical card is inserted in a metal file drawer.

RETRIEVABILITY:

Each card is identified alphabetically by the individual's name described in Category of Individual and the filing is alphabetically used by last name.

SAFEGUARDS:

The metal filing drawer containing the alphabetical cards described above is maintained within the area assigned to the Office of Associate Chief Counsel (Chicago), U.S. Customs Service, 610 S. Canal St., 7th floor, Chicago, IL 60607. During non-working hours, the room in which the metal filing drawer is located is locked and access to the building is controlled at all times by uniformed guards with a check-in system for employees. Only employees of the Associate Chief Counsel's office and authorized building personnel have keys to the building.

RETENTION AND DISPOSAL:

These files are retained until there is no longer space available for them within the metal filing drawer at which time the oldest cards for closed files will be transferred to the storage area within the confines of the office. The storage area is a large area containing cardboard boxes and metal storage cabinets, unable to be locked.

SYSTEM MANAGER(S) AND ADDRESS:

Associate Chief Counsel (Chicago), U.S. Customs Service, 610 S. Canal St., 7th floor, Chicago, IL 60607.

NOTIFICATION PROCEDURE:

See Customs appendix A.

RECORD ACCESS PROCEDURES:

See Customs appendix A.

CONTESTING RECORD PROCEDURES:

See Access, Customs appendix A.

RECORD SOURCE CATEGORIES:

The information contained on these cards originates with the initiation of any action by an individual which is channeled through the Assistant Chief Counsel's office. Additional information is identifying information for locating the particular case file relating to the court case, personnel action, tort claim, relief petition, or request under the Freedom of Information Act.

EXEMPTIONS CLAIMED FOR THE SYSTEM:

None.

Treasury/CS .043

SYSTEM NAME:

Case Files (Associate Chief Counsel—Gulf Customs Management Center)—Treasury/Customs.

SYSTEM LOCATION:

The system is located at 423 Canal Street, New Orleans, LA 70130; Associate Chief Counsel—Gulf Customs Management Center, United States Customs Service.

CATEGORIES OF INDIVIDUALS COVERED BY THE SYSTEM:

(1) The first category of individuals on whom records are maintained in the system includes employees who have filed adverse actions, equal employment opportunity complaints, and grievances within the Gulf Region; employees who have filed tort claims under the Military Personnel and Civilian Employees Act; employees of the Associate Chief Counsel's staff with regard to travel, training, evaluations, and other related personnel records; and applications for employment submitted to the Office of the Associate Chief Counsel by prospective employees. (2) The second category of individuals on whom records are maintained in the system includes those individuals not employed by the agency who have filed equal employment opportunity complaints; tort claims under the Federal Tort Claims Act; tort claims filed under the Small Claims Act; individuals who have outstanding Customs bills submitted for collection; individuals, corporations, partnerships, and proprietorships who have filed supplemental petitions on fines, penalties, and forfeitures within the Gulf Region; files relating to individuals, corporations, partnerships, and proprietorships upon whom criminal case reports are prepared pending litigation and prosecution for violation of 19 U.S.C. 1305, 18 U.S.C. 542, 18 U.S.C. 545, 18 U.S.C. 549, 18 U.S.C. 1001, 18 U.S.C. 496, and 18 U.S.C. 371; on individuals, corporations, partnerships, and proprietorships who have filed supplemental petitions submitted in civil and technical violations for 19 U.S.C. 1592, 19 U.S.C. 1453, 19 U.S.C. 1448, 19 U.S.C. 1584, irregular deliveries, shortages and overages; and miscellaneous civil and technical violations.

CATEGORIES OF RECORDS IN THE SYSTEM:

The categories of records maintained in the system are personnel actions; tort claims; collection efforts; supplemental petitions for fines, penalties, and forfeitures cases in the Gulf Region; criminal case reports for pending litigation and prosecution of cases in the Gulf Region; supplemental petitions for civil and technical violations committed within the Gulf Region; and employment applications for positions in the Office of the Associate Chief Counsel, Gulf Region.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency;s functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

The records are currently maintained in alphabetical file folders which are filed in two steel filing cabinets in the Office of the Assistant Chief Counsel (New Orleans), and they are maintained under lock and key outside the ordinary business hours.

RETRIEVABILITY:

Records maintained by the Office of the Assistant Chief Counsel (New Orleans), are retrievable by identifying the character of the record (i.e., adverse action, grievance, tort claim, criminal case), then by comparable statute or regulation, and then alphabetically by name and identifier. In addition, each case file is similarly identified on the alphabetical file folder within the steel filing cabinet.

SAFEGUARDS:

The steel filing cabinets described above are maintained within the area assigned to the Office of the Assistant Chief Counsel (New Orleans), 423 Canal Street, New Orleans, LA 70130. During non-working hours the room in which the locked steel cabinets are located is locked, and access to the building is controlled at all times by uniformed guards. The policies and practices of the Office of the Assistant Chief Counsel regarding access controls are that only members of the staff of the Office of the Assistant Chief Counsel have access to the records maintained by the office.

RETENTION AND DISPOSAL:

Individual records are placed into a file of closed cases by category as stated above, and within each category by name. The oldest closed cases are forwarded to the Federal Records Center in accordance with the Treasury Records Control Manual.

SYSTEM MANAGER(s) AND ADDRESS:

The agency official responsible for the system of records maintained by the Office of the Assistant Chief Counsel is the Assistant Chief Counsel (New Orleans), 423 Canal Street, New Orleans, LA 70130.

Notification procedure:

See appendix A.

Record access procedures:

See Customs appendix A.

Contesting record procedures:

See Access, Customs appendix A.

Record source categories:

The categories of sources of records in this system are the individual himself and files compiled by the United States Customs Services by using employers, other government agency resources, financial institutions, educational institutions attended, and previous employers. Additional information in these files is also derived from reports of investigation regarding the enforcement of civil or criminal statutes, administrative proceedings regarding disciplinary action taken against Customs Service employees, equal opportunity complaints, investigations of tort claims, the processing of interoffice memoranda information requested under the Freedom of Information Act, and the investigation regarding the collection of debts due the Government.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .044

SYSTEM NAME:

Certificates of Clearance_Treasury/Customs.

SYSTEM LOCATION:

North Atlantic Customs Management Center, 10 Causeway Street, Boston, MA 02222.

CATEGORIES OF INDIVIDUALS COVERED BY THE SYSTEM:

All employees of the North Atlantic Region, Boston, MA, who have transferred, retired or resigned.

CATEGORIES OF RECORDS IN THE SYSTEM:

Documented detailed information on an “in-house” prepared form indicating that the employee has returned all Government property in his/her personal possession and that the employee has cleared all debts owing to Customs such as unearned uniform allowances and travel advances.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

Storage:

Data is stored in file folders by Port and name of employee in a metal file cabinet in the work area of the Payment Section.

Retrievability:

The file is retrievable by Port and name of employee.

Safeguards:

The file is located within an office that is locked during non-working hours. The building is guarded by uniformed security police and only authorized persons are permitted entry to the building.

Retention and disposal:

The files are kept for 10 years and then destroyed.

System manager(s) and address:

Director, North Atlantic Customs Management Center, 10 Causeway Street, Boston, MA 02222.

Notification procedure:

See Customs appendix A.

RECORD ACCESS PROCEDURES:

See Customs appendix A.

Contesting record procedures:

See Access, Customs appendix A.

Record source categories:

The information contained in the system originates at the District where the individual is employed.

Exemptions claimed for the system:

None.

Treasury/CS .045

System name:

Claims Act File—Treasury/Customs.

System location:

Office of the Associate Chief Counsel (Los Angeles), U.S. Customs Service, One World Trade Center, Suite 741, P.O. Box 32709, Long Beach, CA 90832.

Categories of individuals covered by the system:

Current or former Customs employees who have filed, or may file claims under the Military Personnel and Civilian Employees' Claim Act of 1964 for damage to or loss of personal property incident to their service.

CATEGORIES OF RECORDS IN THE SYSTEM:

Documents relating to the administrative handling of the claim and documents submitted by the claimant in support of the claim.

Authority for maintenance of the system:

31 U.S.C. 240-243; 31 CFR part 4; Treasury Department Administrative Circular No. 131, August 19, 1965.

Routine uses of records maintained in the system, including categories of users and the purposes of such uses:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

Each case file is inserted numerically in a file folder which is filed in an unlocked drawer within a metal container.

RETRIEVABILITY:

Each case file is identified numerically in the file folder within the metal container by the name of the person who has filed or may file a claim.

SAFEGUARDS:

The metal container described above is maintained within the area assigned to the Office of the Associate Chief Counsel within the New Federal Building. During non-working hours the room in which the metal container is located is locked, and access to the building is controlled at all times by uniformed guards.

RETENTION AND DISPOSAL:

These files are retained indefinitely or until there is no longer any space available for them within the metal container, at which time the oldest closed files are transferred to the Federal Records Center.

SYSTEM MANAGER(s) AND ADDRESS:

Associate Chief Counsel (Los Angeles), U.S. Customs Service, One World Trade Center, Suite 741, PO Box 32709, Long Beach, CA 90832.

NOTIFICATION PROCEDURE:

See Customs appendix A.

RECORD ACCESS PROCEDURES:

See Customs appendix A.

CONTESTING RECORD PROCEDURES:

See Access, Customs appendix A.

RECORD SOURCE CATEGORIES:

The information contained in these files originates with a Treasury Department Form No. 3079, Civilian Employee Claim For Loss or Damage to Personal Property, which is completed and filed with the Customs Service by the claimant. Additional information contained in these files may be separately provided by the claimant or by the claimant's supervisor. Where a claim is not filed, the information is limited to the investigative reports of damage to or loss of personal property of a Customs employee.

EXEMPTIONS CLAIMED FOR THE SYSTEM:

None.

Treasury/CS .046

SYSTEM NAME:

Claims Case File—Treasury/Customs.

SYSTEM LOCATION:

Assistant Chief Counsel (Boston), 10 Causeway Street, Boston, MA 02222; Office of the Assistant Chief Counsel (San Francisco), 555 Battery Street, San Francisco, CA 94111; Office of the Associate Chief Counsel (Houston), U.S. Customs Service, 2323 South Shepherd Drive, Suite 1246, Houston, TX 77019.

CATEGORIES OF INDIVIDUALS COVERED BY THE SYSTEM:

Parties who have filed claims for damage or injury against the Government, or against whom the Government has a claim for damage or injury in matters which affect or involve the U.S. Customs Service; private individuals or Government employees who are involved in the incident which gave rise to the claim.

CATEGORIES OF RECORDS IN THE SYSTEM:

Reports relative to the circumstances of the claim (including accident reports provided by Customs personnel, agents' investigative reports, correspondence between Customs and the claimant or his representative); reports relative to an individual’s ability to pay a claim for damages.

AUTHORITY FOR MAINTENANCE OF THE SYSTEM:

28 U.S.C. 2672 et seq.; 28 CFR part 14; 31 CFR part 3; 5 U.S.C. 301; Reorganization Plan No. 1 of 1950; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency’s or the bureau’s hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Records maintained in file folders.

RETRIEVABILITY:

Records indexed by name of individual making a claim or against whom a claim is made, cross-referenced file with name of Government employee, if any, involved.

SAFEGUARDS:

Open case files maintained in file cabinets with access by Assistant Chief Counsel and his staff only; closed case files maintained in locked cabinet with keys retained by Assistant Chief Counsel and staff only.

RETENTION AND DISPOSAL:

Retained until there is no longer any space available within metal cabinets, at which time the oldest files are transferred to the Federal Records Center.

SYSTEM MANAGER(S) AND ADDRESS:

Assistant Chief Counsel (Boston), 10 Causeway Street, Boston, MA 02222; Office of the Assistant Chief Counsel (San Francisco), 555 Battery Street, San Francisco, CA 94111; Office of the Associate Chief Counsel (Houston), U.S. Customs Service, 2323 South Shepherd Drive, Suite 1246, Houston, TX 77019.

NOTIFICATION PROCEDURE:

See Customs appendix A.

RECORD ACCESS PROCEDURES:

See Customs appendix A.

CONTESTING RECORD PROCEDURES:

See Access, Customs appendix A.

RECORD SOURCE CATEGORIES:

The information contained in these files is received from U.S. Customs employees, reports of investigation, credit checks, private individuals involved in the claims, other Government agencies and other individuals with pertinent information.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .050

SYSTEM NAME:

Community Leader Survey—Treasury/Customs.

SYSTEM LOCATION:

Equal Employment Opportunity Officer, U.S. Customs Service, East Texas Customs Management Center, 2323 South Shepherd Drive., Suite 1200, Houston, TX 77019.

CATEGORIES OF INDIVIDUALS COVERED BY THE SYSTEM:

The names, titles, and organization of persons who may be construed to be occupying a community leadership role and who may be in a position to furnish information or have some influence in regard to the equal employment opportunity program area.

CATEGORIES OF RECORDS IN THE SYSTEM:

These records consist of a card index of the names, titles, and organization of community leaders.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

An alphabetical card listing filed in a metal file cabinet.

RETRIEVABILITY:

Listed and filed alphabetically.

SAFEGUARDS:

The metal file cabinet described above is maintained within the area assigned to the Equal Employment Opportunity Officer. During non-working hours this office area is locked and access to the building is controlled at all times by uniformed guards.

RETENTION AND DISPOSAL:

To be useful, this information file must be kept current. Non-current files will be destroyed locally.

SYSTEM MANAGER(S) AND ADDRESS:

Equal Employment Opportunity Officer, U.S. Customs Service, East Texas Customs Management Center, 2323 South Shepherd Drive., Suite 1200, Houston, TX 77019.

NOTIFICATION PROCEDURE:

See Customs appendix A.

RECORD ACCESS PROCEDURES:

See Customs appendix A.

CONTESTING RECORD PROCEDURES:

See Access, Customs appendix A.

RECORD SOURCE CATEGORIES:

The information included in these files is developed from local agencies (city, county, state, and Federal) and from local civic organizations.

EXEMPTIONS CLAIMED FOR THE SYSTEM:

None.

Treasury/CS .053

SYSTEM NAME:

Confidential Source Identification File—Treasury/Customs.

SYSTEM LOCATION:

Components of this system are located in the Office of Investigations, U.S. Customs Service Headquarters, and the Office of Internal Affairs, U.S. Customs Service Headquarters, 1300 Pennsylvania Avenue, NW., Washington, DC 20229.

CATEGORIES OF INDIVIDUALS COVERED BY THE SYSTEM:

Individuals (sources) supplying confidential information to the U.S. Customs Service, Office of Investigations and Office of Internal Affairs.

CATEGORIES OF RECORDS IN THE SYSTEM:

This system contains some or all of the following information: name (actual or assumed), source (identifying) number, date number assigned, address, citizenship, occupational information, date and place of birth, physical description, photograph, miscellaneous identifying number such as social security number, driver's license number, FBI number, passport number, Customs Form 4621 documenting information received from confidential source, amount and date of monetary payment made to source for information supplied, criminal record, copy of driver's license, and copy of alien registration card.

AUTHORITY FOR MAINTENANCE OF THE SYSTEM:

5 U.S.C. 301; Treasury Department Order No. 165, Revised, as amended; 19 U.S.C. 1619; and 18 U.S.C. Chapter 27.

ROUTINE USES OF RECORDS MAINTAINED IN THE SYSTEM, INCLUDING CATEGORIES OF USERS AND THE PURPOSES OF SUCH USES:

Disclosures are not made outside the Department.

POLICIES AND PRACTICES FOR STORING, RETRIEVING, ACCESSING, RETAINING, AND DISPOSING OF RECORDS IN THE SYSTEM:

STORAGE:

Records are kept in locked cabinets. Access during working hours is limited to authorized personnel.

RETRIEVABILITY:

Office of Investigations and Office of Internal Affairs—The name of each source is filed in both alphabetical order and by location of the submitting office.

SAFEGUARDS:

In addition to being stored in secure metal cabinets with government approved locks, the files are located in closely watched rooms of the Office of Investigations and the Office of Internal Affairs. Personnel maintaining the files are selected for their reliability, among other qualities, and afforded access only after having been cleared by a full field investigation. During non-working hours the rooms in which the records are located are locked and access to the building is controlled by uniformed security guards.

RETENTION AND DISPOSAL:

The Office of Investigations destroys a file when it no longer has any utility by either shredding or burning; the Office of Internal Affairs reviews files annually for relevance and necessity, and when a file no longer has any utility, it is destroyed either by shredding or burning.

SYSTEM MANAGER(S) AND ADDRESS:

Assistant Commissioner, Office of Investigations, U.S. Customs Service Headquarters, 1300 Pennsylvania Avenue, NW., Washington, DC 20229, for those components of the system maintained by the Office of Investigations; Director, Office of Internal Affairs, (Integrity Management), U.S. Customs Service Headquarters, 1300 Pennsylvania Avenue, NW., Washington, DC 20229, and for those components of the system maintained by the Office of Internal Affairs.

NOTIFICATION PROCEDURE:

This system of records may not be accessed for purposes of determining if the system contains a record pertaining to a particular individual. (See 5 U.S.C. 552a (e)(4)(G) and (f)(1).)

RECORD ACCESS PROCEDURES:

This system of records may not be accessed under the Privacy Act for the purpose of inspection.

CONTESTING RECORD PROCEDURES:

Since this system of records may not be accessed for purposes of determining if the system contains a record pertaining to a particular individual and those records, if any, cannot be inspected, the system may not be accessed under the Privacy Act for the purpose of contesting the content of the record.

RECORD SOURCE CATEGORIES:

This system contains investigatory material compiled for law enforcement purposes whose sources need not be reported.

EXEMPTIONS CLAIMED FOR THE SYSTEM:

This system is exempt from 5 U.S.C. 552a (c)(3), (c)(4), (d)(1), (d)(2), (d)(3), (d)(4), (e)(1), (e)(2), (e)(3), (e)(4)(G), (H) and (I), (5) and (8), (f) and (g) of the Privacy Act pursuant to 5 U.S.C. 552a (j)(2) and (k)(2). (See 31 CFR 1.36.)

Treasury/CS .054

SYSTEM NAME:

Confidential Statements of Employment and Financial Interests—Treasury/Customs.

SYSTEM LOCATION:

Located in each Assistant Commissioner Office, Headquarters, and Customs Management Centers.

CATEGORIES OF INDIVIDUALS COVERED BY THE SYSTEM:

Covered individuals to be determined by agency, in accordance with 5 CFR part 2634.

CATEGORIES OF RECORDS IN THE SYSTEM:

Form OGE-450 Executive Branch Confidential Financial Disclosure Report.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

Records are maintained in file folders.

RETRIEVABILITY:

Records are indexed by name.

SAFEGUARDS:

Records are maintained in locked safe.

RETENTION AND DISPOSAL:

Maintained for 6 years for any covered position. Records are destroyed two (2) years after the employee leaves the position, or two (2) years after leaving the agency, whichever is earlier.

SYSTEM MANAGER AND ADDRESS:

Assistant Commissioner (Internal Affairs) and Directors, Customs Management Centers.

NOTIFICATION PROCEDURE:

Write to systems manager.

RECORD ACCESS PROCEDURES:

Write to systems manager.

CONTESTING RECORD PROCEDURES:

Write to systems manager.

RECORD SOURCE CATEGORIES:

Individuals required to submit Form OGE-450.

EXEMPTIONS CLAIMED FOR THE SYSTEM:

None.

Treasury/CS .056

SYSTEM NAME:

Congressional and Public Correspondence File—Treasury/Customs.

SYSTEM LOCATION:

Office of Field Operations (Administrative Staff), U.S. Customs Service, 1300 Pennsylvania Avenue, NW., Washington, DC 20229.

CATEGORIES OF INDIVIDUALS COVERED BY THE SYSTEM:

Those persons sending letters of inquiry or complaint concerning Customs activities and procedures.

CATEGORIES OF RECORDS IN THE SYSTEM:

Incoming correspondence, the agency's reply, and related materials.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

Correspondence records are maintained in file folders and on a computer system.

RETRIEVABILITY:

Correspondence records are identified by the name of the person making inquiry or complaint. They are retrievable by name.

SAFEGUARDS:

Access to the records is granted only to authorized Customs personnel. During non-working hours the room in which the records are located is locked and access to the building is controlled by uniformed security police.

RETENTION AND DISPOSAL:

The records are maintained from two to five years and then destroyed or retired to the Federal Records Center as appropriate.

SYSTEM MANAGER(S) AND ADDRESS:

Director, Workforce Effectiveness and Development Staff, U.S. Customs Service, 1300 Pennsylvania Avenue, NW., Washington, DC 20229.

NOTIFICATION PROCEDURE:

See Customs appendix A.

RECORD ACCESS PROCEDURES:

See Customs appendix A.

CONTESTING RECORD PROCEDURES:

See Access, Customs appendix A.

RECORD SOURCE CATEGORIES:

Correspondence and related records and materials.

EXEMPTIONS CLAIMED FOR THE SYSTEM:

None.

Treasury/CS .057

SYSTEM NAME:

Container Station Operator Files—Treasury/Customs.

SYSTEM LOCATION:

Office of Process Owner, Passenger Operations Div., Office of Field Operations, U.S. Customs, 1300 Pennsylvania Avenue, NW., Washington, DC 20229; Director, Mid-America Customs Management Center, Chicago, IL (see Customs appendix A).

CATEGORIES OF INDIVIDUALS COVERED BY THE SYSTEM:

Present and past container station operators and employees that require an investigation and related information.

CATEGORIES OF RECORDS IN THE SYSTEM:

Report of investigations, application and approval or denial of bond to act as container station operator and other Customs Service memoranda. Names, addresses, social security numbers, and dates and places of birth of persons employed.

AUTHORITY FOR MAINTENANCE OF THE SYSTEM:

5 U.S.C. 301; Treasury Department Order No. 165, Revised, as amended; Customs Regulations, part 19.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Records are maintained in file folders and stored in file cabinets in each Port Director's office within the Mid-America Customs Management Center, Chicago, IL.

RETRIEVABILITY:

Each file is identified by the name of the container station operator.

SAFEGUARDS:

The file cabinets are maintained within the area assigned to the Port Director. During non-working hours, the room and/or building in which the file cabinet is located is locked.

RETENTION AND DISPOSAL:

These files are disposed of in accordance with the Treasury Records Control Manual. Employee name data retained for period of employment with container station operator.

SYSTEM MANAGER(S) AND ADDRESS:

Process Owner, Office of Field Operations, U.S. Customs, 1300 Pennsylvania Avenue, NW., Washington, DC 20229; Director, each Port within the Mid-America Customs Management Center, Chicago, IL. (See Customs appendix A.)

NOTIFICATION PROCEDURE:

See Customs appendix A.

RECORD ACCESS PROCEDURES:

See Customs appendix A.

CONTESTING RECORD PROCEDURES:

See Access, Customs appendix A.

RECORD SOURCE CATEGORIES:

The information in this file originates from the individual applicant for container station operator bond, from reports of investigation and other Customs memoranda.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .058

SYSTEM NAME:

Cooperating Individual Files—Treasury/Customs.

SYSTEM LOCATION:

These files are located in field and local Customs Office of Investigations Offices within the United States. (See Customs appendix A.)

CATEGORIES OF INDIVIDUALS COVERED BY THE SYSTEM:

Persons providing confidential information to the U.S. Customs Service Office of Investigations.

CATEGORIES OF RECORDS IN THE SYSTEM:

These records include: Assumed names; actual names; code numbers; addresses; telephone numbers; physical descriptions; miscellaneous identifying numbers such as social security numbers, driver's license number, etc., date individual's record was established; amount and date of reward paid for information supplied.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

Disclosures are not made outside the Department.

POLICIES AND PRACTICES FOR STORING, RETRIEVING, ACCESSING, RETAINING, DISPOSING OF RECORDS IN THE SYSTEM:

STORAGE:

All files and indices relating to cooperating individuals are stored in metal file cabinets secured with combination locks in a government secured building.

RETRIEVABILITY:

The name of each cooperating individual is filed in alphabetical order by assumed name and by actual name. The indices are maintained in the same alphabetical order and are also cross-referenced by the Office of Investigations alphanumeric code number. All other identifying data is used for verification of identity rather than method of retrieval.

SAFEGUARDS:

In addition to being stored in secure metal cabinets with government approved locks, the metal files are kept locked when not in use and located in a closely watched room of the Office of Investigations. Personnel maintaining the files are selected for their reliability among other qualities, and they are afforded access only after having been cleared by a full field investigation. The files are given the same treatment as material classified as Secret. During duty hours, Office of Investigations personnel maintain visual control and during off-duty hours the area containing the files is locked.

RETENTION AND DISPOSAL:

Retention periods have been established for records contained in the file in accordance with the Treasury Records Control Manual. When a file no longer has any utility, it is destroyed either by shredding or burning.

SYSTEM MANAGER(S) AND ADDRESS:

The Assistant Commissioner (Investigations); the Special Agent in Charge in regional SAC Offices; and the Resident Agent in Charge in sub-offices of the Special Agent in Charge. (See Customs appendix A.)

NOTIFICATION PROCEDURE:

See Customs appendix A.

RECORD ACCESS PROCEDURES:

See Customs appendix A.

CONTESTING RECORD PROCEDURES:

See Access, Customs appendix A.

RECORD SOURCE CATEGORIES:

See “Categories of individuals covered by the system” above. The system contains material for which sources may not need to be reported.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .061

SYSTEM NAME:

Court Case File—Treasury/Customs.

SYSTEM LOCATION:

Office of the Associate Chief Counsel, One World Trade Center, Suite 741, P.O. Box 32709, Los Angeles, CA 90832; Office of the Assistant Chief Counsel, 555 Battery Street, San Francisco, CA 94111; Office of the Associate Chief Counsel, Mid-America Customs Management Center, 55 E. Monroe Street, Room 1417, Chicago, IL 60603; Office of the Assistant Chief Counsel, 1000 Second Avenue, Suite 2200, Seattle, Washington 98104.

CATEGORIES OF INDIVIDUALS COVERED BY THE SYSTEM:

Persons who are parties in litigation with the United States Government or subunits or employees or officers thereof, in matters which affect or involve the United States Customs Service.

CATEGORIES OF RECORDS IN THE SYSTEM:

Court documents with exhibits, reports of investigations, internal Customs Service memoranda summarizing or relating to the matter in controversy and other background information relating to the subject matter or origin of the litigation.

AUTHORITY FOR MAINTENANCE OF THE SYSTEM:

28 U.S.C. 2676, 19 U.S.C. 1603, 5 U.S.C. 301; E.O. 6166; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Each case file is inserted in a numerical file folder which is filed in an unlocked drawer within a metal container.

RETRIEVABILITY:

Each case file is identified by the name of the person against whom the Government has initiated the litigation, or by the name of the person who initiated the litigation against the Government.

SAFEGUARDS:

The metal container described above is maintained within the area assigned to the Office of the Associate Chief Counsel. During non-working hours the room in which the metal container is located is locked, and access to the building is controlled at all times by uniformed guards.

RETENTION AND DISPOSAL:

These files are retained until there is no longer any space available for them within the metal container, at which time the oldest closed files are transferred to the Federal Records Center.

SYSTEM MANAGER(S) AND ADDRESS:

Associate Chief Counsel, One World Trade Center, Suite 741, P.O. Box 32709, Los Angeles, CA 90832; Assistant Chief Counsel, 555 Battery Street, San Francisco, CA 94111; Associate Chief Counsel, Mid-America Customs Management Center, 55 E. Monroe Street, Room 1417, Chicago, IL 60603; Office of the Assistant Chief Counsel, U.S. Customs Service 1000 Second Avenue, Suite 2200, Seattle, Washington 98104.

NOTIFICATION PROCEDURE:

See Customs appendix A.

RECORD ACCESS PROCEDURES:

See Customs appendix A.

CONTESTING RECORD PROCEDURES:

See Access, Customs appendix A.

RECORD SOURCE CATEGORIES:

The information contained in these files originates with a request by the Port Director to the appropriate United States Attorney that he institutes suitable judicial action to enforce the forfeiture of merchandise and vehicles, or the value thereof, which had been imported or used in violation of the Customs laws, and upon which final administrative action has taken place. Information in this file also originates with the filing of a complaint by a private person against the Government, and by the filing of a complaint by the Government against private persons or former employees to enforce the collection of debts due the Government. Information in the files is also derived from reports of investigation regarding the enforcement of civil or criminal statutes and denial of tort claims.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .064

SYSTEM NAME:

Credit Card File—Treasury/Customs.

SYSTEM LOCATION:

National Logistics Center, U.S. Customs Service, Fleet and Property Management Section, 6026 Lakeside Blvd. Indianapolis, IN 46278.

CATEGORIES OF INDIVIDUALS COVERED BY THE SYSTEM:

Headquarters Customs Service employees to whom national gasoline credit cards have been issued.

CATEGORIES OF RECORDS IN THE SYSTEM:

Credit card numbers, names, and signatures of employees to whom credit cards have been issued, and the date of issuance.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

Alphabetically by name or by credit card number.

RETRIEVABILITY:

A portion of the index cards are identified by the name of the person to whom the credit card was issued in the case of credit cards which have been permanently assigned to higher level Customs Service officers and such index cards are filed alphabetically. The remainder of the index cards relate to credit cards which are issued to Customs Service officers or employees on a one-transaction basis, and these index cards are filed by the applicable credit card number.

SAFEGUARDS:

Index cards are maintained and stored in a secured room with limited accessibility. The building is guarded by uniformed security police, and only authorized persons are permitted in the building.

RETENTION AND DISPOSAL:

Index cards filed alphabetically by name are filed during the period that the officials named thereon are in possession of the credit cards, and then these index cards are retained (for audit purposes) when the officials are no longer in possession of the credit cards. Index cards are filed by office titles and contain receipt signatures.

SYSTEM MANAGER(S) AND ADDRESS:

Director, Headquarters Services Division, Office of Logistics Management, U.S. Customs Service Headquarters, 1300 Pennsylvania Avenue, NW., Washington, DC 20229.

NOTIFICATION PROCEDURE:

See Customs appendix A.

RECORD ACCESS PROCEDURES:

See Customs appendix A.

CONTESTING RECORD PROCEDURES:

See Access, Customs appendix A.

RECORD SOURCE CATEGORIES:

The information in this system is obtained from Customs Service records and is also furnished by the officers or employees to whom the credit cards have been issued.

EXEMPTIONS CLAIMED FOR THE SYSTEM:

None.

Treasury/CS .069

SYSTEM NAME:

Customs Brokers File—Treasury/Customs.

SYSTEM LOCATION:

Office of the Chief Counsel, Broker Compliance and Evaluation Branch, Office of Trade Operations; U.S. Customs Service Headquarters, 1300 Pennsylvania Avenue, NW., Washington, DC 20229, and Customs Management Centers and Service Ports.

CATEGORIES OF INDIVIDUALS COVERED BY THE SYSTEM:

Licensed customs brokers, employees of customs brokers, individuals or firms who have applied for a broker's license.

CATEGORIES OF RECORDS IN THE SYSTEM:

Internal Customs Service memoranda and related material regarding proposed administrative disciplinary action against customs brokers for violation of the regulations governing the conduct of their business; broker applications and related material; notification of change of business address, organization, name, or location of business records; status reports; requests for written approval to employ persons who have been convicted of a felony.

AUTHORITY FOR MAINTENANCE OF THE SYSTEM:

19 U.S.C. 1641; 19 CFR part 111; 5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency’s or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Each case file is inserted in an alphabetical file folder which is filed in drawers that are capable of being locked and are locked at the close of business. Some records are in a separate room which is locked at other than official hours. File cards covering individual customhouse brokers, corporations, partnerships and trade names are in files not capable of being locked, but the entire area is locked at night.

RETRIEVABILITY:

Each case file is identified in a manual alphabetical card file by the name and in the alphabetical file folder within the metal container by the name of the customs broker or employees of customs brokers.

SAFEGUARDS:

The files described above are maintained in Customs Service Buildings. During non-working hours the room in which the files are located is locked, and access to the building is controlled after business hours by electronic access and alarm systems and during business hours access is controlled at all times by a U.S. Customs Service employee.

RETENTION AND DISPOSAL:

Broker files and records of broker's employees are kept indefinitely. They are periodically updated and removed to an inactive file, as necessary.

SYSTEM MANAGER(S) AND ADDRESS:

Chief Counsel; Director, Field Operations Division, Office of Trade Operations, U.S. Customs Service Headquarters, 1300 Pennsylvania Avenue, NW., Washington, DC 20229, Directors, Customs Management Centers, and Port Directors.

NOTIFICATION PROCEDURE:

See Customs appendix A.

RECORD SOURCE CATEGORIES:

The information contained in these files originates from audits of or investigations into the conduct of customhouse brokers’ businesses, applications for licenses, references as to character, court records, and local credit reporting services, as well as reports, notifications, and other applications filed by brokers pursuant to statutory and regulatory requirements.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .077

SYSTEM NAME:

Disciplinary Action, Grievance and Appeal Case Files—Treasury/Customs.

SYSTEM LOCATION:

Located in the Office of Human Resources, Customs Headquarters, and in each Customs Management Centers, SAC, Port, and appropriate post of duty offices.

CATEGORIES OF INDIVIDUALS COVERED BY THE SYSTEM:

Customs employees on whom disciplinary action is pending or has occurred, and employees who have filed grievances and appeals.

CATEGORIES OF RECORDS IN THE SYSTEM:

Records on such action as leave restriction letters, reprimands, suspensions, adverse actions, etc., and grievance and appeals by employees. Copies of correspondence, management requests for assistance, evidentiary materials on which action is contemplated, proposed or taken, regulatory material, examiners' reports, etc.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency”s or the bureau”s hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency’s functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Records are stored in manila folders.

RETRIEVABILITY:

Records are indexed by name.

SAFEGUARDS:

Records are maintained in a locked file.

RETENTION AND DISPOSAL:

Grievance records are maintained for 3 years; discipline and adverse action records are maintained for four years; and appeals are maintained for 5 years.

SYSTEM MANAGER(s) AND ADDRESS:

Director, Labor and Employee Relations Division, Office of Human Resources, Customs Headquarters, or Customs Management Centers Labor and Employee Relations Office, or appropriate managerial official in employee’ s port or post of duty.

NOTIFICATION PROCEDURE:

Write to system manager.

RECORD ACCESS PROCEDURE:

Request from system manager.

CONTESTING RECORD PROCEDURES:

Write to the system manager.

RECORD SOURCE CATEGORIES:

Supervisors and supervisory records and notes; evidentiary materials supporting planned, proposed, or accomplished actions; grievance letters submitted by employee, grievance examiner, etc.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .081

SYSTEM NAME:

Dock Passes—Treasury/Customs.

SYSTEM LOCATION:

Port Director, U.S. Customs Service, P.O. Box 1641, Honolulu, HI 96806.

CATEGORIES OF INDIVIDUALS COVERED BY THE SYSTEM:

Consulate staff members, brokers, private individuals, etc.

CATEGORIES OF RECORDS IN THE SYSTEM:

Form lists following information: pass number; port; date of issue; name of individual; organizational affiliation; expiration date of pass; and vessel name.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to provide information to a congressional office in response to an inquiry made at the request of the individual to whom the record pertains.

POLICIES AND PRACTICES FOR STORING, RETRIEVING, ACCESSING, RETAINING, DISPOSING OF RECORDS IN THE SYSTEM:

STORAGE:

3 × 5 card box, looseleaf binder.

RETRIEVABILITY:

By name.

SAFEGUARDS:

Building locked during non-working hours. Retention and disposal: Retained until expiration.

SYSTEM MANAGER(S) AND ADDRESS:

Port Director, U.S. Customs Service, 228 Federal Building, 335 Merchant Street, Honolulu, HI 96806.

NOTIFICATION PROCEDURE:

See Customs appendix A.

Record access procedures:

See Customs appendix A.

CONTESTING RECORD PROCEDURES:

See Access, Customs appendix A.

RECORD SOURCE CATEGORIES:

Individual applicants.

Exemptions claimed for the system:

None.

Treasury/CS .083

SYSTEM NAME:

Employee Relations Case Files—Treasury/Customs.

SYSTEM LOCATION:

Office of Human Resources, U.S. Customs Service, Washington, DC 20229, and in each Headquarters, Customs Management Centers, Port, SAC, and appropriate post of duty offices.

CATEGORIES OF INDIVIDUALS COVERED BY THE SYSTEM:

Records maintained on the benefit aspects of employment such as, workers' and unemployment compensation, leave, health and life insurance, retirement, suggestions, awards, etc. and employees who have requested assistance with these programs.

CATEGORIES OF RECORDS IN THE SYSTEM:

Copies of initiating correspondence and Customs correspondence and any forms submitted by or completed on behalf of the employee.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

Records are maintained in file folders.

RETRIEVABILITY:

Records are indexed by name.

SAFEGUARDS:

Records are maintained in a locked file.

RETENTION AND DISPOSAL:

Maintained for period of time employee remains with Customs. Records destroyed upon separation of employee.

SYSTEM MANAGER(S) AND ADDRESS:

Director, Labor and Employee Relations Division, Office of Human Resources, U.S. Customs Service, Washington, DC 20229, Customs Management Center, Labor and Employee Relations Office, and in SAC, Port and appropriate post of duty offices.

NOTIFICATION PROCEDURE:

Write to systems manager—providing your name and social security account number.

RECORD ACCESS PROCEDURES:

Write to systems manager.

CONTESTING RECORD PROCEDURES:

Write to systems manager.

RECORD SOURCE CATEGORIES:

Individuals and offices depending on the problem.

EXEMPTIONS CLAIMED FOR THE SYSTEM:

None.

Treasury/CS .096

SYSTEM NAME:

Fines, Penalties and Forfeiture Control and Information Retrieval System—Treasury/Customs.

SYSTEM LOCATION:

U.S. Customs Service, Office of Trade Operations, Fines, Penalties and Forfeiture Branch, 1300 Pennsylvania Avenue, NW., Washington, DC 20229, and each Customs Service Port, Fines, Penalties and Forfeitures Office in the United States and Puerto Rico.

CATEGORIES OF INDIVIDUALS COVERED BY THE SYSTEM:

Individuals and/or businesses who have been fined, penalized or have forfeited merchandise because of violations of Customs and/or related laws or breaches of bond conditions.

CATEGORIES OF RECORDS IN THE SYSTEM:

Individual and business names, address, personal identifying numbers, date and type of violation, parties entitled to legal notice or who are legally liable, case information, bond and petition information, and actions (administrative) taken by U.S. Customs. Also included are actions taken by violator prior to the disposition of the penalty or liquidated damage case.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency’ s or the bureau’ s hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

(1) Hard copy Customs Form 5955a (Notice of Liquidated Damages Incurred and Demand for payment) and Customs Form 151 Search/Arrest/Seizure Report.

RETRIEVABILITY:

Case number.

SAFEGUARDS:

All inquiries are made by officers with a full field background investigation on a “need-to-know” basis only. Procedural and physical safeguards are utilized such as accountability and receipt records, guards patrolling the area, restricted access and alarm protection systems, special communications security, etc.

RETENTION AND DISPOSAL:

A maximum of 11 years. Erasure of disc/tapes and shredding and/or burning of hard copy Customs Form 5955a.

SYSTEM MANAGER(S) AND ADDRESS:

Director, Office of Trade Operations, U.S. Customs Service, 1300 Pennsylvania Avenue, NW., Washington, DC 20229 and the Area Port Directors of Customs for each Customs Port in the United States and Puerto Rico.

NOTIFICATION PROCEDURE:

See Customs appendix A.

RECORD ACCESS PROCEDURES:

See Customs appendix A.

CONTESTING RECORD PROCEDURES:

See access, Customs appendix A.

RECORD SOURCE CATEGORIES:

Customs Form 5955a (Notice of Penalty or Liquidated Damages Incurred and Demand for Payment) and CF 151 (Search/Arrest/Seizure Report) prepared by Customs employees at the time and place where the violation has occurred.

EXEMPTIONS CLAIMED FOR THE SYSTEM:

None.

Treasury/CS .098

SYSTEM NAME:

Fines, Penalties and Forfeitures Records—Treasury/Customs

SYSTEM LOCATION:

Customs Fines, Penalties and Forfeitures offices, Customs Ports. (See Customs appendix A.)

CATEGORIES OF INDIVIDUALS COVERED BY THE SYSTEM:

Individuals and firms who have been administratively charged with violations of Customs laws and regulations and other laws and regulations enforced by the Customs Service.

CATEGORIES OF RECORDS IN THE SYSTEM:

Entry documentation, notices, investigative reports, memoranda, petitions, recommendations, referrals and dispositions of fines, penalties and forfeiture cases.

AUTHORITY FOR MAINTENANCE OF THE SYSTEM:

5 U.S.C. 301; Treasury Department Order No. 165, Revised, as amended. 19 U.S.C. 66, 1618, 1624; 19 CFR parts 171 and 172.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a court, magistrate, or administrative tribunal in the course of presenting evidence, including disclosures to opposing counsel or witnesses in the course of civil discovery, litigation, or settlement negotiations, or in response to a subpoena, in connection with criminal law proceedings; (3) provide information to third parties during the course of an investigation to the extent necessary to obtain information pertinent to the investigation.

POLICIES AND PRACTICES FOR STORING, RETRIEVING, ACCESSING, RETAINING, DISPOSING OF RECORDS IN THE SYSTEM:

STORAGE:

The records are maintained in folders in locked file cabinets and safes and in the automated FP&F module in the Automated Commercial System (ACS).

RETRIEVABILITY:

The records are filed either by numerical sequence using year and port code, name of individual and/or company, with a cross reference available through ACS.

SAFEGUARDS:

During non-working hours, the records are maintained in locked file cabinets, locked buildings and buildings guarded by uniform guards or security detection devices.

RETENTION AND DISPOSAL:

The records are retained for one to three years after which they are either destroyed or forwarded to the Federal Records Center. Automated records are periodically updated to reflect changes and maintained as long as needed.

SYSTEM MANAGER(S) AND ADDRESS:

Area Port Directors of Customs (See Customs appendix A.)

NOTIFICATION PROCEDURE:

See Customs appendix A.

RECORD ACCESS PROCEDURES:

See Customs appendix A.

CONTESTING RECORD PROCEDURES:

See Access, Customs appendix A.

RECORD SOURCE CATEGORIES:

Information and representations supplied by importers, brokers and other agents pursuant to the entry and processing of merchandise or in the clearing of individuals or baggage through Customs. Information also includes information gathered pursuant to Customs investigations of suspected or actual violations of Customs and related laws and regulations and recommendations and information supplied by other agencies.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .099

SYSTEM NAME:

Fines, Penalties, and Forfeiture Files (Supplemental Petitions)—Treasury/Customs.

SYSTEM LOCATION:

Office of the Assistant Chief Counsel, 555 Battery Street, San Francisco, CA 94111; Office of Associate Chief Counsel, One World Trade Center, Suite 741, P.O. Box 32709, Long Beach, CA 90832-2709; Office of the Associate Chief Counsel, U.S. Customs Service, 55 E. Monroe Street, Room 1417, Chicago, IL 60603; Office of the Assistant Chief Counsel, 1000 Second Avenue, Suite 2200, Seattle, WA 98104-1049; Fines, Penalties and Forfeitures Office, Laredo, TX, and National Seizure and Penalties Office (NSPO), U.S. Customs, Hemisphere Center, Newark, NJ.

CATEGORIES OF INDIVIDUALS COVERED BY THE SYSTEM:

Individuals who have filed supplemental petitions for relief from fines, penalties and forfeitures assessed for violations of the laws and regulations administered by Customs.

CATEGORIES OF RECORDS IN THE SYSTEM:

Petitions and supplemental petitions and other documents filed by the individual; reports of investigation concerning the fine, penalty or forfeiture; and documents relating to the internal review and consideration of the request for relief and decision thereon.

AUTHORITY FOR MAINTENANCE OF THE SYSTEM:

5 U.S.C. 301; 19 U.S.C. 1618; 19 CFR parts 171 and 172; Treasury Department Order No. 165, Revised, as amended; Reorganization Plan No. 1 of 1965.

ROUTINE USES OF RECORDS MAINTAINED IN THE SYSTEM, INCLUDING CATEGORIES OF USERS AND THE PURPOSES OF SUCH USES:

These records and information in the records may be used to: (1) Disclose to the Department of Justice or an individual United States Attorney to assist that Department or United States Attorney when suit is filed by the Government in civil prosecution of the fine, penalty or forfeiture; (2) disclose pertinent information to appropriate Federal, State, local, or foreign agencies responsible for investigating or prosecuting the violations of, or for enforcing or implementing, a statute, rule, regulation, order, or license, where the disclosing agency becomes aware of an indication of a violation or potential violation of civil or criminal law or regulation; (3) disclose information to a Federal, State, or local agency, maintaining civil, criminal or other relevant enforcement information or other pertinent information, which has requested information relevant to or necessary to the requesting agency’ s or the bureau’ s hiring or retention of an individual, or issuance of a security clearance, license, contract, grant, or other benefit; (4) disclose information to a court, magistrate, or administrative tribunal in the course or presenting evidence, including disclosures to opposing counsel or witnesses in the course of civil discovery, litigation, or settlement negotiations, in response to a subpoena, or in connection with criminal law proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Each case file is inserted in a numerical file folder which is filed in an unlocked drawer within a metal file cabinet.

RETRIEVABILITY:

Each case file is identified in a manual alphabetical card file by the name of the petitioner and in the numerical file folder within the metal file cabinet by the name of the petitioner.

SAFEGUARDS:

The metal file cabinet described above is maintained within the area assigned to the Office of the Regional Counsel within the Federal Building. During non-working hours the room in which the metal file cabinet is located is locked, and access to the building is controlled at all times by uniformed guards.

RETENTION AND DISPOSAL:

Supplemental petition files are retained until there is no longer any space available for them within the metal file cabinet, at which time the oldest files may be transferred to the Federal Records Center.

SYSTEM MANAGER(S) AND ADDRESS:

Assistant Chief Counsel, 555 Battery Street, San Francisco, CA 94111; Associate Chief Counsel, One World Trade Center, Suite 741, PO Box 32709, Long Beach, CA 90832-2709; Associate Chief Counsel, Room 1417, U.S. Customs Service, 55 E. Monroe Street, Chicago, IL 60603; Assistant Chief Counsel, 1000 Second Avenue, Suite 2200, Seattle, WA 98104-1049; and NSPO, U.S. Customs, Hemisphere Center, Newark, NJ.

NOTIFICATION PROCEDURE:

See Customs appendix A.

RECORD ACCESS PROCEDURES:

See Customs appendix A.

CONTESTING RECORD PROCEDURES:

See Access, Customs appendix A.

RECORD SOURCE CATEGORIES:

Information contained in these files is obtained from the individual petitioning for relief and from the Port Director of Customs within whose jurisdiction the fine, penalty or forfeiture action lies.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .100

SYSTEM NAME:

Fines, Penalties and Forfeiture Records (Headquarters)—Treasury/Customs.

SYSTEM LOCATION:

Penalties Branch, International Trade Compliance Division, U.S. Customs Service Headquarters, 1300 Pennsylvania Avenue, NW., Washington, DC 20229 and Fines, Penalties, and Forfeiture Offices at each Customs Port in the United States and Puerto Rico.

CATEGORIES OF INDIVIDUALS COVERED BY THE SYSTEM:

Records are maintained on persons who have been administratively charged with violating Customs and related laws and regulations and on persons who have applied for awards of compensation under 19 U.S.C. 1619 based on their having provided original information on violations of Customs, navigation or other laws enforced by Customs.

CATEGORIES OF RECORDS IN THE SYSTEM:

Entry documentation, notices, investigative and other reports, memoranda of information received, petitions, recommendations, referrals and dispositions of fines, and penalties cases and applications for awards of compensation.

AUTHORITY FOR MAINTENANCE OF THE SYSTEM:

5 U.S.C. 301; Treasury Department Order No. 165, Revised, as amended; 19 U.S.C. 66, 1618, 1624; 19 CFR parts 171 and 172.

ROUTINE USES OF RECORDS MAINTAINED IN THE SYSTEM, INCLUDING CATEGORIES OF USERS NAD THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

The records are kept in file cabinets in the office and central file room of the International Trade Compliance Division at U.S. Customs Service Headquarters and in the storage facilities for the Fines, Penalties and Forfeitures Office in each Customs Management Center.

RETRIEVABILITY:

The records are filed chronologically with a case number given to each file.

SAFEGUARDS:

The records are maintained in the U.S. Customs Service Headquarters building which is guarded by security police. During non-working hours, the central file room is locked and the building is guarded by security police. Records are maintained in each Customs Service District buildings.

RETENTION AND DISPOSAL:

The records are generally retained for five years after closing of the case. The records are then forwarded to the Federal Records Center.

SYSTEM MANAGER(S) AND ADDRESS:

Chief, Penalties Branch, International Trade Compliance Division, U.S. Customs Service Headquarters, 1300 Pennsylvania Avenue, NW., Washington, DC 20229, and each Fines, Penalties and Forfeitures Officer for the United States Customs Service Ports.

NOTIFICATION PROCEDURE:

See Customs appendix A.

RECORD ACCESS PROCEDURES:

See Customs appendix A.

CONTESTING RECORD PROCEDURES:

See Access, Customs appendix A.

RECORD SOURCE CATEGORIES:

Information and representations supplied by importers, brokers and other agents pursuant to the entry and processing of merchandise or in the clearing of individuals or baggage through Customs. Records also includes information gathered pursuant to Customs investigations of suspected or actual violations of Customs and related laws and regulations and recommendations and information supplied by other agencies.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .105

SYSTEM NAME:

Former Employees—Treasury/Customs.

SYSTEM LOCATION:

U.S. Customs Laboratory, Suite 1429, 630 Sansome Street, San Francisco, CA 94111.

CATEGORIES OF INDIVIDUALS COVERED BY THE SYSTEM:

All past employees of the Customs Laboratory.

Categories of records in the system:

Contains copies of personnel action notices.

AUTHORITY FOR MAINTENANCE OF THE SYSTEM:

5 U.S.C. 301; Treasury Department No. 165, Revised, as amended.

ROUTINE USES OF RECORDS MAINTAINED IN THE SYSTEM, INCLUDING CATEGORIES OF USERS AND THE PURPOSES OF SUCH USES:

These records and information in the records may by used to: (1) provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

Records are maintained in file folders and stored in a metal file cabinet.

RETRIEVABILITY:

The record is filed alphabetically by name.

SAFEGUARDS:

The file is stored in a metal file cabinet in a private inner office of a government building protected by 24-hour guard service with limited access. The file is only used on a “need-to-know” basis and only by the laboratory employees.

RETENTION AND DISPOSAL:

Retained in Accordance with the Treasury Records Control Manual.

SYSTEM MANAGER(S) AND ADDRESS:

Laboratory Director, U.S. Customs Laboratory, Suite 1429, 630 Sansome Street, San Francisco, CA 94111.

NOTIFICATION PROCEDURE:

See Customs appendix A.

RECORD ACCESS PROCEDURES:

See Customs appendix A.

CONTESTING RECORD PROCEDURES:

See Access, Customs appendix A.

RECORD SOURCE CATEGORIES:

Information contained in personnel action files.

EXEMPTIONS CLAIMED FOR THE SYSTEM:

None.

Treasury/CS .109

SYSTEM NAME:

Handicapped Employee File—Treasury/Customs.

SYSTEM LOCATION:

Human Resources Division, Mid-America Customs Management Center, 55 East Monroe Street, Suite 1501, Chicago, IL 60603.

CATEGORIES OF INDIVIDUALS COVERED BY THE SYSTEM:

All employees identified as handicapped.

CATEGORIES OF RECORDS IN THE SYSTEM:

Indicates employee's home and organizational location and various physical and mental handicaps, infirmities and conditions. Also shows veteran's preference.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

List.

RETRIEVABILITY:

Lists employees alphabetically by district.

SAFEGUARDS:

None at present and none required.

RETENTION AND DISPOSAL:

Employee’s name removed from list at time of termination.

SYSTEM MANAGER(S) AND ADDRESS:

Director, Human Resources Division. (See Customs appendix A.)

NOTIFICATION PROCEDURE:

See Customs appendix A.

RECORD ACCESS PROCEDURES:

See Customs appendix A.

CONTESTING RECORD PROCEDURES:

See Access, Customs appendix A.

RECORD SOURCE CATEGORIES:

Data furnished by employee and employee’s physician.

EXEMPTIONS CLAIMED FOR THE SYSTEM:

None.

Treasury/CS .122

SYSTEM NAME:

Information Received File—Treasury/Customs.

SYSTEM LOCATION:

District Division, Room 200, United States Customhouse, La Marina, Old San Juan, PR 00901; Office of the Special Agent In Charge, 423 Canal St, New Orleans, LA 70130; Office of the Port Director, 880 Front Street, San Diego, CA 92318; Offices of the Port Directors, San Ysidro, CA., Tecate, CA., Calexico, CA., Andrade, CA; San Diego Barge Office, Offices of the Special Agent In Charge, San Diego, CA., San Ysidro, CA., Calexico, CA., Tecate, CA; Los Angeles Region. Office of the Port Director, 423 Canal St., New Orleans, LA 70130; Special Agent In Charge, Room 213, International Trade Center, 250 N. Water Street, Mobile, AL 36602; Intelligence Support Staff (Pacific Region), Room 7514, 300 N. Los Angeles Street, Los Angeles, CA 90053; Special Agent In Charge, 300 Ferry Street, Terminal Island, San Pedro, CA 90731; Resident Agent in Charge, Office of Investigations, P. O. Box 1385, Nogales, AZ 85621; Special Agent In Charge, Room 7N-FB-05, 301 W. Congress, Tucson, AZ 85701.

Categories of individuals covered by the system:

Persons in whom Customs and/or other government agencies are interested from a law-enforcement and/or security point of view.

CATEGORIES OF RECORDS IN THE SYSTEM:

Name, alias, date of birth or age, personal data, addresses, home and business telephone number, occupation, background information, associations, license number and registration number of vehicle, vessel and/or aircraft, etc.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency’s or the bureau’s hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency’s functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Files are kept in a locked metal cabinet.

RETRIEVABILITY:

Records are filed within a metal file.

SAFEGUARDS:

The files are located within an office that is locked during non-working hours. The building is guarded by a central alarm system which is monitored by local law enforcement agencies, and only authorized persons are permitted in the building.

RETENTION AND DISPOSAL:

Files are retained for a period of three (3) years after which they are destroyed.

SYSTEM MANAGER(S) AND ADDRESS:

Special Agent In Charge, United States Custom Service, Room 200, La Marina, Old San Juan, PR 00901; Special Agent In Charge, 423 Canal St., New Orleans, LA 70130; Chief, Air Branch, U.S. Customs Service, Bldg. 240, Homestead Air Force Base, Homestead, FL 33039; Regional Agent In Charge, 423 Canal St., New Orleans, LA 70130; Directors, Customs Management Centers, Port Directors, and Directors within the San Diego Customs District: Intelligence Support Staff (Pacific Region), Room 7514, 300 N. Los Angeles Street, Los Angeles, CA 90053; Special Agent In Charge, 300 Ferry Street, Terminal Island, San Pedro, CA 90731; Resident Agent in Charge of Enforcement, P.O. Box 1385, Nogales, AZ 85621; Special Agent in Charge, Room 7N-FB-05, 301 W. Congress, Tucson, AZ 85701 (see Customs appendix A).

NOTIFICATION PROCEDURE:

See Customs appendix A.

RECORD ACCESS PROCEDURES:

See Customs appendix A.

CONTESTING RECORD PROCEDURES:

See Access, Customs appendix A.

RECORD SOURCE CATEGORIES:

See “Categories of individuals covered by the system” above. The system contains material for which sources may not need to be reported.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .123

SYSTEM NAME:

Injury Notice—Treasury/Customs.

SYSTEM LOCATION:

Director, Gulf Customs Management Center, 423 Canal Street, New Orleans, LA 70130; Port Director, 423 Canal Street, New Orleans, LA 70130; Port Director, 150 N. Royal, Mobile, Alabama 36602; Special Agent-in-Charge, 108 Decatur St., New Orleans, LA 70150; Special Agent-in-Charge, 951 Government St., Mobile, AL 36604.

CATEGORIES OF INDIVIDUALS COVERED BY THE SYSTEM:

Individuals who sustain an injury in performance of duty as an employee of U.S. Customs.

CATEGORIES OF RECORDS IN THE SYSTEM:

Name, date of birth, home address, organization, place of injury, date and hour of injury, dependents, occupation, cause of injury, nature of injury, statement of witness, supervisor's report of injury.

AUTHORITY FOR MAINTENANCE OF THE SYSTEM:

Sections 19 and 24 of the Occupational Safety and Health Act of 1970; 84 Statute 1609, 1614, 29 U.S.C. 668, 673 and the provisions of Executive Order 11807.

ROUTINE USES OF RECORDS MAINTAINED IN THE SYSTEM, INCLUDING CATEGORIES OF USERS AND THE PURPOSES OF SUCH USES:

These records and information in the records may be used to: (1) Disclose to the Department of Labor for that agency’s official use; (2) provide information to a congressional office in response to an inquiry made at the request of the individual to whom the record pertains; (3) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

The information in this system is contained on CA forms. The CA forms are filed in folders, alphabetically, and placed in a metal file cabinet.

RETRIEVABILITY:

Each CA form is identified by the name of the injured employee and filed alphabetically in a folder.

SAFEGUARDS:

The binder is placed within a metal file container located within an office that is locked during non-working hours. The building is guarded by uniformed security personnel and only authorized persons are permitted in the building.

RETENTION AND DISPOSAL:

Notice of injury reports are maintained in the employee’s OPF and disposed of in accordance with the Treasury Records Control Manual. Copies maintained by the systems manager are maintained at location for two years and then destroyed.

SYSTEM MANAGER(S) AND ADDRESS:

Regional Commissioner, 423 Canal Street, New Orleans, LA 70130; Port Director, 423 Canal St., New Orleans, LA 70130; Port Director, 150 N. Royal St., Mobile, Alabama 36602; Special Agent-in-Charge, 108 Decatur St., New Orleans, LA 70130; Special Agent-in-Charge, 951 Government St., Mobile, Alabama 36604.

NOTIFICATION PROCEDURE:

See Customs appendix A.

RECORD ACCESS PROCEDURES:

See Customs appendix A.

CONTESTING RECORD PROCEDURES:

See Access, Customs appendix A.

RECORD SOURCE CATEGORIES:

The information in this system originates with and consists solely of information supplied by the injured employee, his supervisor, appropriate witness and attending physician on CA forms.

EXEMPTIONS CLAIMED FOR THE SYSTEM:

None.

Treasury/CS .125

SYSTEM NAME:

Intelligence Log—Treasury/Customs.

SYSTEM LOCATION:

U.S. Customs Air Branch, Bldg. 240 PM-TUM, Homestead Air Force Base, Homestead, FL 33030.

CATEGORIES OF INDIVIDUALS COVERED BY THE SYSTEM:

Persons who are believed to be involved in activities which constitute, or may develop into, possible violation of Customs and related laws.

CATEGORIES OF RECORDS IN THE SYSTEM:

Internal Customs Service memoranda and related materials regarding the activities of individuals, vessels, or aircraft believed to be involved in acts which are contrary to Customs and related laws.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency’s or the bureau’s hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

The intelligence log is maintained within a security area.

RETRIEVABILITY:

A manual, master card index, is maintained for the entire system. This index includes name and/or numerical identifier.

SAFEGUARDS:

The information files and master card index are located within an office which is locked during non-working hours. The building is guarded by U.S. Air Force Military Police and only authorized persons are permitted in the building.

RETENTION AND DISPOSAL:

These files are retained until such time that it has been determined that there is no longer a need for their existence, at which time the oldest files are destroyed under Customs supervision.

SYSTEM MANAGER(S) AND ADDRESS:

Chief, Air Branch, U.S. Customs, PM-TUM Bld 240, Homestead Air Force Base, Homestead, FL 33039.

NOTIFICATION PROCEDURE:

See Customs appendix A.

RECORD ACCESS PROCEDURES:

See Customs appendix A.

CONTESTING RECORD PROCEDURES:

See Access, Customs appendix A.

RECORD SOURCE CATEGORIES:

See “Categories of individuals covered by the system” above. The system contains material for which sources may not need to be reported.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .127

SYSTEM NAME:

Internal Affairs Records System—Treasury/Customs

SYSTEM LOCATION:

Security Programs Division, Office of Internal Affairs, 1300 Pennsylvania Avenue, NW., Room 8.4.D, Washington, DC 20229.

CATEGORIES OF INDIVIDUALS COVERED BY THE SYSTEM:

Present and past employees; contractor applicants/employees; and applicants for positions that require an investigation; and others that are principals or non-principals in an investigation or integrity issue.

CATEGORIES OF RECORDS IN THE SYSTEM:

Background investigations, integrity investigations, and photographic images.

AUTHORITY FOR MAINTENANCE OF THE SYSTEM:

5 U.S.C. 301; Treasury Department Order Number 165, revised, as amended.

PURPOSES:

To maintain all records on applicants, employees, contractors, and contractor applicants relating to investigations conducted by Internal Affairs, and to support personnel and administrative programs of the Customs Service.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant or other benefit; (3) disclose information to a court, magistrate, or administrative tribunal in the course of presenting evidence, including disclosures to opposing counsel or witnesses in the course of civil discovery, litigation, or settlement negotiations, in response to a subpoena, or in connection with criminal law proceedings; (4) provide information to a congressional office in response to an inquiry made at the request of the individual to whom the record pertains; (5) provide information to the news media in accordance with guidelines contained in 28 CFR 50.2, which relate to an agency's functions relating to civil and criminal proceedings; (6) provide information to third parties during the course of an investigation to the extent necessary to obtain information pertinent to the investigation.

POLICIES AND PRACTICES FOR STORING, RETRIEVING, ASSESSING, RETAINING, AND DISPOSING OF RECORDS IN THE SYSTEM:

STORAGE:

Investigative records are maintained in computers, as well as in file folders, in metal security cabinets secured by government approved three-position combination locks, and in a mobile filing system within a secured area that is alarmed with motion detectors.

RETRIEVABILITY:

These records are indexed by name and/or numerical identifier in a manual filing system and/or computerized system.

SAFEGUARDS:

In addition to being stored in secured metal containers with government approved combination locks, mobile filing system, etc., the containers are located in a locked, alarmed room, the keys of which are controlled and issued to the custodians of the files. The security specialists and administrative personnel who maintain the files are selected for their experience and afforded access only after having been cleared by a full-field background investigation and granted appropriate security clearances for critical sensitive positions. Those departmental officials who may occasionally be granted access consistent with their positions to employ and concur in the granting of security clearances have also been investigated prior to filling critical-sensitive positions.

RETENTION AND DISPOSAL:

The file records are maintained as long as the subject of the investigation is employed by the U.S. Customs Service and then for 1 year after the subject terminates employment. The files are then transferred to the Federal Records Center for retention. After transfer, records are retained by the Federal Records Center for the following period of time and then destroyed: Background Investigations—15 years; Conduct and Special Inquiry Investigations—25 years.

SYSTEM MANAGER(S) AND ADDRESS:

Director, Security Programs Division, Office of Internal Affairs, 1300 Pennsylvania Avenue, NW., Room 8.4.D, Washington, DC 20229.

NOTIFICATION PROCEDURE:

See Customs appendix A (31 CFR part 1, subpart C).

RECORD ACCESS PROCEDURES:

See “Notification procedure” above.

CONTESTING RECORD PROCEDURES:

See “Notification procedure” above.

RECORD SOURCE CATEGORIES:

Sources of information are: Employers; educational institutions; police; government agencies; credit bureaus; references; neighborhood checks; confidential sources; medical sources; personal interviews; photographic images, military, financial, citizenship, birth and tax records; and the applicant's, employee's or contractor's personal history and application forms.

EXEMPTIONS CLAIMED FOR THE SYSTEM:

This system is exempt from 5 U.S.C. 552a(c)(3), (c)(4), (d)(1), (d)(2), (d)(3), (d)(4), (e)(1), (e)(2), (e)(3), (e)(4), (G), (H) and (I), (5) and (8), (f) and (g) of the Privacy Act pursuant to 5 U.S.C. 552a(j)(2), (k)(2) and (k)(5). (See 31 CFR 1.36.)

Treasury/CS .129

SYSTEM NAME:

Investigations Record System—Treasury/Customs.

SYSTEM LOCATION:

All Office of Investigations offices located in the United States and within each Office of Investigations office located in a foreign country. (See Customs appendix A.)

CATEGORIES OF INDIVIDUALS COVERED BY THE SYSTEM:

Records are maintained on individuals who may bear some necessary relevance to investigations conducted within the scope of authority of the Office of Investigations, United States Customs Service. The categories include but are not limited to: (1) Known violators of U.S. Customs laws; (2) Convicted violators of U.S. Customs and/or drug laws in the U.S. and foreign countries; (3) Fugitives with outstanding warrants, Federal or State; (4) Suspect violators of U.S. Customs or other related laws; (5) Victims of violations of the U.S. Customs or related laws.

CATEGORIES OF RECORDS IN THE SYSTEM:

The subject records may contain any identifying or other relevant information on subject individuals which might relate to the following categories of investigations: Smuggling, Diamonds & Jewelry; Smuggling, Liquor; Smuggling, Narcotics; Smuggling, All Other; Prohibited Importations; Navigation, Airplane and Vehicle Violations; Neutrality Violations; Illegal Exports. Baggage Declaration Violations; Customhouse Brokers and Customs Attorneys; Applications for Licenses; Theft, Loss, Damage and Shortage; Irregular Deliveries; All Other Criminal Cases; Currency Violations. Organized Crime; Personnel Derelictions; Other Departments, Bureaus and Agencies; Federal Tort Claims; Personnel Background Investigations. Undervaluation and False Invoicing; Petitions for Relief; Drawback; Marking of Merchandise; Customs Bonds; Customs Procedures; Collections of Duties and Penalties; Trademarks and Copyrights; Foreign Repairs to Vessels and Aircraft. Classification; Market Value; Dumping; Countervailing Duties.

AUTHORITY FOR MAINTENANCE OF THE SYSTEM:

5 U.S.C. 301; Treasury Department Order No. 165, Revised, as amended; 19 U.S.C. 2072; Title 19, United States Code; Title 18, United States Code.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Records are maintained in both hard copy files and on microfiche which are placed in locked metal containers.

RETRIEVABILITY:

The record system is indexed on 3 x 5 file cards by the individual's name and/or identification number and by the investigative case numbers to which the information relates. The hard copy and microfiche records are retrieved by means of the investigative case numbers.

SAFEGUARDS:

All records are held in steel cabinets and are maintained according to the requirements of the United States Customs Records Manual and the United States Customs Security Manual. Access is limited by visual controls and/or a lock system. During normal working hours, files are either attended by responsible Office of Investigations employees or the file area is restricted. The office in which the records are located is locked during non-working hours and the building is patrolled by uniformed security guards.

RETENTION AND DISPOSAL:

The index cards, the hard copies and microfiche records are retained in accordance with standard Customs Service record retention and disposal procedures.

SYSTEM MANAGER(S) AND ADDRESS:

Assistant Commissioner, Office of Investigations, U.S. Customs Service Headquarters, 1300 Pennsylvania Avenue, NW., Washington, DC, 20229.

NOTIFICATION PROCEDURE:

This system of records may not be accessed for purposes of determining if the system contains a record pertaining to a particular individual. (See 5 U.S.C. 552a (e)(4)(G) and (f)(1).)

RECORD ACCESS PROCEDURES:

This system of records may not be accessed under the Privacy Act for the purpose of inspection.

CONTESTING RECORD PROCEDURES:

Since this system of records may not be accessed for purposes of determining if the system contains a record pertaining to a particular individual and those records, if any, cannot be inspected, the system may not be accessed under the Privacy Act for the purpose of contesting the content of the record.

RECORD SOURCE CATEGORIES:

This system contains investigatory material compiled for law enforcement purposes whose sources need not be reported.

EXEMPTIONS CLAIMED FOR THE SYSTEM:

This system is exempt from 5 U.S.C. 552a (c)(3), (c)(4), (d)(1), (d)(2), (d)(3), (d)(4), (e)(1), (e)(2), (e)(3), (e)(4)(G), (H) and (I), (5) and (8), (f) and (g) of the Privacy Act pursuant to 5 U.S.C. 552a (j)(2) and (k)(2). (See 31 CFR 1.36.)

Treasury/CS .133

SYSTEM NAME:

Justice Department Case File—Treasury/Customs.

SYSTEM LOCATION:

Office of the Chief Counsel, U.S. Customs Service Headquarters, 1300 Pennsylvania Ave., NW., Washington, DC, 20229. Office of the Assistant Chief Counsel, U. S Customs Service, 10 Causeway Street, Boston, MA 02222.

CATEGORIES OF INDIVIDUALS COVERED BY THE SYSTEM:

Persons who are parties in litigation with the United States Government or subunits or employees or officers thereof, in matters which affect or involve the United States Customs Service.

CATEGORIES OF RECORDS IN THE SYSTEM:

Litigation report requests and responses thereto, reports of investigations, internal Customs Service memoranda summarizing or relating to the matter in controversy and other background information relating to the subject matter or origin of the litigation.

AUTHORITY FOR MAINTENANCE OF THE SYSTEM:

28 U.S.C. 507; 19 U.S.C. 1603; 5 U.S.C. 301; E.O. 6166; Treasury Department Order No. 165, Revised, as amended.

ROUTINE USES OF RECORDS MAINTAINED IN THE SYSTEM, INCLUDING CATEGORIES OF USERS AND THE PURPOSES OF SUCH USES:

These records and information in the records may be used to: (1) Disclose to the Department of Justice or directly to United States Attorneys upon request to assist in representing the interests of the Government, the agency or officer or employee involved in the litigation, or to other agencies involved in the same or similar litigation; (2) disclose pertinent information to appropriate Federal, State, local, or foreign agencies responsible for investigating or prosecuting the violations of, or for enforcing or implementing, a statute, rule, regulation, order, or license, where the disclosing agency becomes aware of an indication of a violation or potential violation of civil or criminal law or regulation; (3) disclose information to a Federal, State, or local agency, maintaining civil, criminal or other relevant enforcement information or other pertinent information, which has requested information relevant to or necessary to the requesting agency's or the bureau's hiring or retention of an individual, or issuance of a security clearance, license, contract, grant, or other benefit; (4) disclose information to a court, magistrate, or administrative tribunal in the course of presenting evidence, including disclosures to opposing counsel or witnesses in the course of civil discovery, litigation, or settlement negotiations, in response to a subpoena, or in connection with criminal law proceedings; (5) provide information to the news media in accordance with guidelines contained in 28 CFR 50.2 which relate to an agency's functions relating to civil and criminal proceedings; (6) provide information to third parties during the course of an investigation to the extent necessary to obtain information pertinent to the investigation.

POLICIES AND PRACTICES FOR STORING, RETRIEVING, ACCESSING, RETAINING, DISPOSING OF RECORDS IN THE SYSTEM:

STORAGE:

Each case file is inserted in file folder which is filed in an unlocked drawer within a metal container.

RETRIEVABILITY:

Each case file is identified in the file folder within the metal container.

SAFEGUARDS:

The metal container described above is maintained within the area assigned to the Office of the Counsel. During non-working hours the room in which the metal container is located is locked.

RETENTION AND DISPOSAL:

The files are retained until there is no longer any space available for them within the metal container, at which time the oldest files are transferred to the Federal Records Center.

SYSTEM MANAGER(S) AND ADDRESS:

Chief Counsel, U.S. Customs Service Headquarters, 1300 Pennsylvania Avenue, NW., Washington, DC, 20229; Assistant Chief Counsel, 10 Causeway Street, Boston, MA 02222.

NOTIFICATION PROCEDURE:

See Customs appendix A.

RECORD ACCESS PROCEDURES:

See Customs appendix A.

CONTESTING RECORD PROCEDURES:

See Access, Customs appendix A.

RECORD SOURCE CATEGORIES:

The information contained in these files originates with the request from an appropriate customs official, the Department of Justice or directly from a United States Attorney or other Government agency or officer which results in a communication regarding the particular case. Information in this file is also derived from reports of investigation regarding the enforcement of civil or criminal statutes or regulations, administrative proceedings or any matter affecting or involving the United States Customs Service or its officers or employees.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .136

SYSTEM NAME:

All Liquidated Damage, Penalty, and Seizure Cases; Prior Violators—Treasury/Customs.

SYSTEM LOCATION:

Office of the Director, Fines and Penalties Office, U.S. Customs Service, 10 Causeway Street, Boston, MA 02109; Office of the Director, Fines and Penalties Office, U.S. Customs Service, P.O. Box 1490, St. Albans, VT 05478; and Fines, Penalties and Forfeitures Office, Laredo, TX 78044.

CATEGORIES OF INDIVIDUALS COVERED BY THE SYSTEM:

Prior violators of Customs Laws: e.g. Customhouse brokers, individual TIB violators, liquidated damage cases, penalty cases, and seizure cases.

CATEGORIES OF RECORDS IN THE SYSTEM:

Name and case number.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings.

POLICIES AND PRACTICES FOR STORING, RETRIEVING, ACCESSING, RETAINING, DISPOSING OF RECORDS IN THE SYSTEM:

STORAGE:

Stored on 3 x 5 index cards and in file folders.

RETRIEVABILITY:

Alphabetically; by name.

SAFEGUARDS:

In file cabinet in locked room when not in use.

RETENTION AND DISPOSAL:

Boston District files are kept for two years and then destroyed on site. St. Albans District files are kept for five (5) years and then destroyed.

SYSTEM MANAGER(S) AND ADDRESS:

Fines and Penalties Officer, U.S. Customhouse, Boston, MA 02109. Fines and Penalties Officer, Post Office and Customhouse Building, St. Albans, VT 05478; and Fines and Penalties Officer, Laredo, TX 78044.

NOTIFICATION PROCEDURE:

See Customs appendix A.

RECORD ACCESS PROCEDURES:

See Customs appendix A.

CONTESTING RECORD PROCEDURES:

See Access, Customs appendix A.

RECORD SOURCE CATEGORIES:

Information is received from the individual at the time the violation occurs and from penalty notices which are issued in the Penalties section. Also, the Office of Investigations provides any information developed during its investigation.

EXEMPTIONS CLAIMED FOR THE SYSTEM:

None.

Treasury/CS .137

SYSTEM NAME:

List of Vessel Agents Employees—Treasury/U.S. Customs.

SYSTEM LOCATION:

Office of Director, Mid-America Customs Management Center, Chicago, IL (see Customs appendix A).

CATEGORIES OF INDIVIDUALS COVERED BY THE SYSTEM:

Persons employed by Vessel agents.

CATEGORIES OF RECORDS IN THE SYSTEM:

Names, addresses, Social Security numbers, and dates and places of birth of persons employed.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains.

POLICIES AND PRACTICES FOR STORING, RETRIEVING, ACCESSING, RETAINING, DISPOSING OF RECORDS IN THE SYSTEM:

STORAGE:

Open file.

RETRIEVABILITY:

Alphabetical listing of employees by vessel agent name.

SAFEGUARDS:

The file described is maintained in the Office of the Director, Mid-America Customs Management Center, Chicago, IL. During non-working hours the room/building in which the file is located is locked. Access limited to authorized Customs personnel.

RETENTION AND DISPOSAL:

Employee name retained for period of employment with vessel agent agency.

SYSTEM MANAGER(S) AND ADDRESS:

Director, as appropriate, Mid-America Customs Management Center, Chicago, IL (see Location above).

NOTIFICATION PROCEDURE:

See Customs appendix A.

RECORD ACCESS PROCEDURES:

See Customs appendix A.

CONTESTING RECORD PROCEDURES:

See Access, Customs appendix A.

RECORD SOURCE CATEGORIES:

Submission of data by importing carrier or his agent.

EXEMPTIONS CLAIMED FOR THE SYSTEM:

None.

Treasury/CS .138

SYSTEM NAME:

Litigation Issue Files—Treasury/Customs.

SYSTEM LOCATION:

Office of Assistant Chief Counsel, Customs Court Litigation, Second Floor, 26 Federal Plaza, New York, NY 10007.

CATEGORIES OF INDIVIDUALS COVERED BY THE SYSTEM:

Parties in litigation before the United States Customs Court (or subunits or employees or officers thereof), and other individuals with knowledge of the issues in controversy, e.g., trade witnesses, foreign or domestic manufacturers, etc.

CATEGORIES OF RECORDS IN THE SYSTEM:

Litigation report requests and responses thereto, reports of investigations, internal Customs Service memoranda summarizing or relating to the matter in controversy and other background information relating to the subject matter or origin of the litigation.

AUTHORITY FOR MAINTENANCE OF THE SYSTEM:

19 U.S.C. 1514-1516; 5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose to the Department of Justice upon request to assist that Department in representing the interests of the Government, or agency involved in the litigation; (2) disclose pertinent information to appropriate Federal, State, local, or foreign agencies responsible for investigating or prosecuting the violations of, or for enforcing or implementing, a statute, rule, regulation, order, or license, where the disclosing agency becomes aware of an indication of a violation or potential violation of civil or criminal law or regulation; (3) disclose information to a Federal, State, or local agency, maintaining civil, criminal or other relevant enforcement information or other pertinent information, which has requested information relevant to or necessary to the requesting agency's or the bureau's hiring or retention of an individual, or issuance of a security clearance, license, contract, grant, or other benefit; (4) disclose information to a court, magistrate, or administrative tribunal in the course of presenting evidence, including disclosures to opposing counsel or witnesses in the course of civil discovery, litigation, or settlement negotiations, in response to a subpoena, or in connection with criminal law proceedings; (5) provide information to the news media in accordance with guidelines contained in 28 CFR 50.2 which relates to an agency's functions relating to civil and criminal proceedings; (6) provide information to third parties during the course of an investigation to the extent necessary to obtain information pertinent to the investigation.

POLICIES AND PRACTICES FOR STORING, RETRIEVING, ACCESSING, RETAINING, DISPOSING OF RECORDS IN THE SYSTEM:

STORAGE:

Each issue file is inserted in a numerical file folder (according to issue) which is filed in an unlocked drawer within a metal container.

RETRIEVABILITY:

Each issue filed is cross-indexed in the following card files: (a) By name of party—plaintiff; (b) by issue; and, (c) by titles of decided cases.

SAFEGUARDS:

The metal container described above is maintained within the area assigned to the Office of the Assistant Chief Counsel within the Federal Building. At all times the room in which the metal container is located is locked, and access to the building is controlled at all times by uniformed guards.

RETENTION AND DISPOSAL:

These files are retained until there is no longer any space available for them within the metal container, at which time the oldest files are transferred to the Federal Records Center.

SYSTEM MANAGER(S) AND ADDRESS:

Assistant Chief Counsel, Customs Court Litigation, Second Floor, 26 Federal Plaza, New York, NY 10007.

NOTIFICATION PROCEDURE:

See Customs appendix A.

RECORD ACCESS PROCEDURES:

See Customs appendix A.

CONTESTING RECORD PROCEDURES:

See Access, Customs appendix A.

RECORD SOURCE CATEGORIES:

The information contained in these files originates with the receipt of protest reports (based on information supplied by the subject individuals or by their authorized agents or attorneys) from the various Ports of Entry and/or litigation report requests from the Department of Justice which results in a written report to that Department regarding the facts of the particular case.

EXEMPTIONS CLAIMED FOR THE SYSTEM:

This system is exempt from 5 U.S.C. 552a(c)(3), (d)(1), (d)(2), (d)(3), (d)(4), (e)(1), (e)(4), (G), (H), and (I), and (f) of the Privacy Act pursuant to 5 U.S.C. 552a(k)(2). (See 31 CFR 1.36.)

Treasury/CS .144

SYSTEM NAME:

Mail Protest File—Treasury/Customs.

SYSTEM LOCATION:

Foreign Mail Branch, 1751 NW 79th Avenue, Miami, FL 33166; Port Director of Customs, P.O. Box 17423, Washington, DC 20041; 300 2nd Ave., South Great Falls, MT 59405; P.O. Box 1641, Honolulu, HI 96806; 1000 2nd Ave., suite 2100, Seattle, WA 98104-1049; U.S. Customs Mail Facility, Room 416, 1675—7th Street, Oakland, California 94615.

CATEGORIES OF INDIVIDUALS COVERED BY THE SYSTEM:

Individuals who have filed formal protest of the amount of duty assessed against mail parcels.

CATEGORIES OF RECORDS IN THE SYSTEM:

Letters, invoices, and other pertinent documents pertaining to protests.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to provide information to a congressional office in response to an inquiry made at the request of the individual to whom the record pertains.

POLICIES AND PRACTICES FOR STORING, RETRIEVING, ACCESSING, RETAINING, DISPOSING OF RECORDS IN THE SYSTEM:

STORAGE:

Records are kept in file folders within a metal file cabinet.

RETRIEVABILITY:

Records are retrievable by name or protest number.

SAFEGUARDS:

Access is limited to appropriate personnel and the office is locked during non-working hours.

RETENTION AND DISPOSAL:

Records are maintained and disposed of in accordance with the Treasury Records Control Manual.

SYSTEM MANAGER(S) AND ADDRESS:

Port Director of Customs, 1751 NW 79th Avenue, Miami, FL 33166; PO Box 17423, Washington, DC 20041; 405 W. Fourth Ave., Anchorage, AK 99501; 300 2nd Ave. South, Great Falls, MT 59405; 335 Merchant, Honolulu, HI 96813; 511 NW. Broadway, Portland, OR 97209; 555 Battery Street, San Francisco, CA 94126; 1000 2nd Ave., Suite 2100, Seattle, WA 98104-1049.

NOTIFICATION PROCEDURE:

See Customs appendix A.

RECORD ACCESS PROCEDURES:

See Customs appendix A.

CONTESTING RECORD PROCEDURES:

See Access, Customs appendix A.

RECORD SOURCE CATEGORIES:

Source of information is from the sender, the addressee, the Customs value records, and the manufacturer of the item.

EXEMPTIONS CLAIMED FOR THE SYSTEM:

None.

Treasury/CS .148

SYSTEM NAME:

Military Personnel and Civilian Employees' Claims Act File—Treasury/Customs.

SYSTEM LOCATION:

Office of the Chief Counsel, U.S. Customs Service Headquarters, 1300 Pennsylvania Avenue, NW., Washington, DC 20229; Office of the Assistant Chief Counsel, Room 125, U.S. Customhouse, 40 S. Gay Street, Baltimore, MD 21202; Associate Chief Counsel, U.S. Customs Service, 6 World Trade Center, New York, NY 10048.

CATEGORIES OF INDIVIDUALS COVERED BY THE SYSTEM:

Persons filing claims under the Military Personnel and Civilian Employees' Claims Act of 1964.

CATEGORIES OF RECORDS IN THE SYSTEM:

Documents relating to the administrative handling of the claim and documents submitted by the claimant in support of the claim.

AUTHORITY FOR MAINTENANCE OF THE SYSTEM:

31 U.S.C. 240-243; 5 U.S.C. 301; 31 CFR part 4; Treasury Department Administrative Circular No. 131, August 19, 1965; Treasury Department Order No. 165, Revised, as amended.

ROUTINE USES OF RECORDS MAINTAINED IN THE SYSTEM, INCLUDING CATEGORIES OF USERS AND THE PURPOSES OF SUCH USES:

These records and information in the records may be used to provide information to a congressional office in response to an inquiry made at the request of the individual to whom the record pertains.

POLICIES AND PRACTICES FOR STORING, RETRIEVING, ACCESSING, RETAINING, DISPOSING OF RECORDS IN THE SYSTEM:

STORAGE:

Each case file is inserted alphabetically in a file folder which is filed in an unlocked drawer within a metal container.

RETRIEVABILITY:

Each case file is identified in a manual alphabetical card file by the name of the person who filed the claim and alphabetically in the file folder within the metal container by the name of the person who filed the claim.

SAFEGUARDS:

The metal container described above is maintained within the Customs Service Building. During non-working hours the room in which the metal container is located is locked, and access to the building is controlled at all times by uniformed guards.

RETENTION AND DISPOSAL:

These files are retained until there is no longer any space available for them within the metal container, at which time the oldest files are transferred to the Federal Records Center.

SYSTEM MANAGER(S) AND ADDRESS:

Chief Counsel, U.S. Customs Service Headquarters, 1300 Pennsylvania Avenue, NW., Washington, DC 20229; Assistant Counsel, U.S. Customhouse, 40 S. Gay Street, Baltimore, MD 21202; Associate Counsel, U.S. Customs Service, 6 World Trade Center, New York, NY 10048.

NOTIFICATION PROCEDURE:

See Customs appendix A.

RECORD ACCESS PROCEDURES:

See Customs appendix A.

CONTESTING RECORD PROCEDURES:

See Access, Customs appendix A.

RECORD SOURCE CATEGORIES:

The information contained in these files originates with the Treasury Department Form No. 3079, Civilian Employee Claim For Loss or Damage to Personal Property, which is completed and filed with the Customs Service by the claimant. Additional information contained in these files may be separately provided by the claimant or by the claimant's supervisor.

EXEMPTIONS CLAIMED FOR THE SYSTEM:

None.

Treasury/CS .151

SYSTEM NAME:

Motor Vehicle Accident Reports—Treasury/Customs.

SYSTEM LOCATION:

National Finance Center, U.S. Customs Service, 6026 Lakeside Blvd., Indianapolis, IN 46278.

CATEGORIES OF INDIVIDUALS COVERED BY THE SYSTEM:

U.S. Customs employees involved in automobile accident while on official duty.

CATEGORIES OF RECORDS IN THE SYSTEM:

Name, social security number, home address, telephone number, age, title, date of accident, place of accident, make, year, license number of vehicles, description of accident, information on driver of other vehicle.

AUTHORITY FOR MAINTENANCE OF THE SYSTEM:

5 U.S.C. 301; Treasury Administrative Circular No. 131, dated August 19, 1965, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations or in connection with criminal law proceedings; (4) provide information to a congressional office in response to an inquiry made at the request of the individual to whom the record pertains; (5) provide information to the news media in accordance with guidelines contained in 28 CFR 50.2 which relate to an agency's functions relating to civil and criminal proceedings; (6) provide information to third parties during the course of an investigation to the extent necessary to obtain information pertinent to the investigation.

POLICIES AND PRACTICES FOR STORING, RETRIEVING, ACCESSING, RETAINING, DISPOSING OF RECORDS IN THE SYSTEM:

STORAGE:

Each case file is inserted in an alphabetical file folder which is filed in an unlocked drawer in a metal file cabinet.

RETRIEVABILITY:

Each case file is in a file folder designated by the name of the Customs employee involved in the automobile accident.

SAFEGUARDS:

The metal file cabinet described above is maintained within the area assigned to the Regional Safety Coordinator within the office of the Customs Management Center. Access to the building during non-working hours is controlled.

RETENTION AND DISPOSAL:

Files are maintained at location for two years and then transferred to the Federal Records Center where they are retained for four years.

SYSTEM MANAGER(S) AND ADDRESS:

Director, National Finance Center, U.S. Customs Service, 6026 Lakeside Blvd., Indianapolis, IN 46278.

NOTIFICATION PROCEDURE:

See Customs appendix A.

RECORD ACCESS PROCEDURES:

See Customs appendix A.

CONTESTING RECORD PROCEDURES:

See Access, Customs appendix A.

RECORD SOURCE CATEGORIES:

The information in these files originates from the employee involved in the automobile accidents, police report and report of investigation conducted by the Office of Internal Affairs.

EXEMPTIONS CLAIMED FOR THE SYSTEM:

None.

Treasury/CS .156

SYSTEM NAME:

Narcotic Violator File—Treasury/Customs.

SYSTEM LOCATION:

Fines, Penalties and Forfeitures Office, East Great Lakes Customs Management Center, 4455 Genessee St., Buffalo, NY 14225.

CATEGORIES OF INDIVIDUALS COVERED BY THE SYSTEM:

Persons who have been found in possession of any controlled substance within the Buffalo District.

CATEGORIES OF RECORDS IN THE SYSTEM:

Alphabetized cross reference of violators' names and the associated case numbers assigned to these individuals.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Open card file (3 x 5) is kept in metal flip file.

RETRIEVABILITY:

Narcotic violator files are cross-referenced by a 3 x 5 alphabetized card which contains both name and case number.

SAFEGUARDS:

Open card file kept in the Fines, Penalties and Forfeitures Office which is locked after working hours. During working hours, a staff person is always in the office. The building is under 24 hour guard.

RETENTION AND DISPOSAL:

File system has a purge date of two years after which cross reference cards are destroyed and case numbered file is no longer accessible by name of the individual.

SYSTEM MANAGER(S) AND ADDRESS:

Director, East Great Lakes Customs Management Center, 4455 Genessee St., Buffalo, NY 14225.

NOTIFICATION PROCEDURE:

See Customs appendix A.

RECORD ACCESS PROCEDURES:

See Customs appendix A.

CONTESTING RECORD PROCEDURES:

See Access, Customs appendix A.

RECORD SOURCE CATEGORIES:

The information in these files is obtained from Search/Arrest and Seizure Reports transmitted to the Fines, Penalties and Forfeitures Office by ports and stations within the area.

EXEMPTIONS CLAIMED FOR THE SYSTEM:

None.

Treasury/CS .159

SYSTEM NAME:

Notification of Personnel Management Division when an employee is placed under investigation by the Office of Internal Affairs—Treasury/Customs.

SYSTEM LOCATION:

Human Resources Division, East Texas Customs Management Center, 2323 S. Shepherd St., Suite 1200, Houston, TX 77019.

CATEGORIES OF INDIVIDUALS COVERED BY THE SYSTEM:

Customs employees who are suspected of misconduct.

CATEGORIES OF RECORDS IN THE SYSTEM:

A written or telephonic notification made by the Office of Internal Affairs that an investigation has been opened on an individual employee.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Notifications provided by the Office of Internal Affairs are maintained in a file folder and stored in a metal security cabinet equipped with a lock.

RETRIEVABILITY:

The file contains the name of the employee; therefore, Retrievability is by the individual's name.

SAFEGUARDS:

A metal container, described above, is maintained within the area assigned to Personnel Management. During non-working hours the room in which the metal container is kept is locked, and access to the building is controlled at all times by uniformed guards.

RETENTION AND DISPOSAL:

The name file is retained until notification has been received that the investigation has been canceled or on receipt of a report of investigation from the Office of Internal Affairs.

SYSTEM MANAGER(S) AND ADDRESS:

Director, Human Resources Division, East Texas Customs Management Center, 2323 S. Shepherd St., Suite 1200, Houston, TX 77019.

NOTIFICATION PROCEDURE:

See Customs appendix A.

RECORD ACCESS PROCEDURES:

See Customs appendix A.

CONTESTING RECORD PROCEDURES:

See Access, Customs appendix A.

RECORD SOURCE CATEGORIES:

The only source of notification that an employee has been placed under investigation is the Regional Director, Internal Affairs.

EXEMPTIONS CLAIMED FOR THE SYSTEM:

This system is exempt from 5 U.S.C. 552a(c)(3), (d)(1), (d)(2), (d)(3), (d)(4), (e)(1), (e)(4), (G), (H), and (I), and (f) of the Privacy Act pursuant to 5 U.S.C. 552a(k)(2). (See 31 CFR 1.36.)

Treasury/CS .162

SYSTEM NAME:

Organization (Customs) and Automated Position Management System (COAPMS)—Treasury/Customs.

SYSTEM LOCATION:

Chief Financial Officer, U.S. Customs Service, Washington, DC 20229.

CATEGORIES OF INDIVIDUALS COVERED BY THE SYSTEM:

All Customs employees by organizational entity.

CATEGORIES OF RECORDS IN THE SYSTEM:

Position control number and other personnel data such as social security number, date of birth, name, etc.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

Records are stored on magnetic tape.

RETRIEVABILITY:

Records are indexed by organizational segment, code, position control number, and name.

SAFEGUARDS:

Limited access.

RETENTION AND DISPOSAL:

Records are maintained on magnetic tape until employee separation.

SYSTEM MANAGER(S) AND ADDRESS:

Director, Human Resources Division, U.S. Customs Service, Washington, DC 20229.

NOTIFICATION PROCEDURE:

See Customs appendix A.

RECORD ACCESS PROCEDURES:

See Customs appendix A.

CONTESTING RECORD PROCEDURES:

See Access, Customs appendix A.

RECORD SOURCE CATEGORIES:

COAPMS is composed of four basic inputs—CF-105—Position Change Form—presently prepared by the Headquarters Personnel Branch and operating offices: Post of Duty Codes-established by the Accounting Division; Ceilings-established by the Budget Division; and CF-112-a Request for PPBS Code and Standard Abbreviation of Position. In addition to these four sources, the IRS payroll tape has many inputs—1150, 1125, 50, 52, union dues, etc., and Accounting tape K from IRS.

Exemptions claimed for the system:

None.

Treasury/CS .163

SYSTEM NAME:

Outside Employment Requests—Treasury/Customs.

SYSTEM LOCATION:

Located in Headquarters and Customs Management Centers and/or appropriate Port or post of duty office of employee making request.

CATEGORIES OF INDIVIDUALS COVERED BY THE SYSTEM:

All employees engaged in outside employment.

CATEGORIES OF RECORDS IN THE SYSTEM:

Outside employment request.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

CF-3031 kept in manila folder.

RETRIEVABILITY:

By employee name.

SAFEGUARDS:

Locked file cabinet or limited access offices.

RETENTION AND DISPOSAL:

Until disengagement from outside employment or employee separation.

SYSTEM MANAGER(S) AND ADDRESS:

Appropriate managerial official in each headquarters, Customs Management Centers, SAC, port of employee.

NOTIFICATION PROCEDURE:

Write to System Manager, provide your name and social security number.

RECORD ACCESS PROCEDURES:

Write to System Manager.

CONTESTING RECORD PROCEDURES:

Write to System Manager, specify changes you are requesting and provide your name and social security number.

RECORD SOURCE CATEGORIES:

Employee submission of Form CF-3031.

EXEMPTIONS CLAIMED FOR THE SYSTEM:

None.

Treasury/CS .165

SYSTEM NAME:

Overtime Earnings—Treasury/Customs.

SYSTEM LOCATION:

Passenger Processing Port of San Francisco, San Francisco International Airport, P.O. Box 251867, San Francisco, CA 94125-1867; Los Angeles International Airport, 1099 S. LaCienega Blvd., Los Angeles, CA 90045; Port Director, 300 S. Ferry Street, Terminal Island, San Pedro, CA 90731; Port Director, 9 North Grande Ave., Nogales, AZ 85620; Customs Management Center Director, 4740 N. Oracle Rd., Suite 310, Tucson, AZ 85705; San Diego Barge Office; Offices of the Port Directors: San Ysidro, CA; Andrade, CA; Calexico, CA; Douglas, AZ; Las Vegas, NV; Lochiel, AZ; Lukeville, AZ; Naco, AZ; Oxnard, CA; Phoenix, AZ; San Luis Obispo, CA; San Luis, AZ; Sasabe, AZ; Tecate, CA; Tucson, AZ; Pembina, ND; Detroit, MI; Minneapolis, MN; Cleveland, OH; St. Louis, MO; Duluth, MN; Milwaukee, WI; Office of the Supervisory Warehouse Officer, U.S. Customhouse, Room 103, 2nd and Chestnut Streets, Philadelphia, PA 19106; Port Director, U.S. Customs Service, 40 S. Gay St., Baltimore, MD 21202-2004; Port Director, U.S. Customs Service, 111 West Huron Street, Buffalo, NY 14202; Port Director, U.S. Customs Service, 127 North Water Street, Ogdenburg, NY 13669; Port Director, U.S. Customs Service, 312 Fore Street, Box 4688, Portland, ME 04112; Port Director, U.S. Customs Service, 49 Pavilion Avenue, Providence, RI 02905; Port Director, U.S. Customs Service, PO Box 1490, St. Albans, VT 05478; Port Director, U.S. Customs Service, 10 Causeway Street, Boston, MA 02222; U.S. Customs Service, Honolulu International Airport, Honolulu, HI 96816, and maintained at each individual port within the south Texas Customs Management Center.

CATEGORIES OF INDIVIDUALS COVERED BY THE SYSTEM:

Inspection and Control employees participating in overtime assignments.

CATEGORIES OF RECORDS IN THE SYSTEM:

Name and the total current monetary earnings computed to the nearest dollar.

AUTHORITY FOR MAINTENANCE OF THE SYSTEM:

5 U.S.C. 301; Treasury Department Order No. 165, revised as amended.

ROUTINE USES OF RECORDS MAINTAINED IN THE SYSTEM, INCLUDING CATEGORIES OF USERS AND THE PURPOSES OF SUCH USES:

These records and information in these records may be used to: (1) Provide information to a Congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, AND DISPOSING OF RECORDS IN THE SYSTEM:

STORAGE:

The information is stored on government internal control personal computer data disks and the information on earnings is updated on a daily basis.

RETRIEVABILITY:

The individual’s name appears alphabetically.

SAFEGUARDS:

The room where the records are kept is locked at other than regular working hours. Passwords are required for access to records.

RETENTION AND DISPOSAL:

The information on each employee constantly changes and is maintained as long as the employee is working in the overtime system.

SYSTEM MANAGER(S) AND ADDRESSES:

Supervisory Customs Inspector, Station 1, U.S. Customs Service, 555 Battery Street, Room 111, San Francisco, CA 94125; Director, (Airport), Los Angeles International Airport, 1109 S. LaCienega Blvd., Los Angeles, CA 90045; Port Director, 300 S. Ferry Street, Terminal Island, San Pedro, CA 90731; Port Director, 9 North Grande Ave., Nogales, AZ 85620; Customs Management Center Director, 4740 N. Oracle Rd., Suite 310, Tucson, AZ 85705; San Diego Barge Office; Port Directors: San Ysidro, CA; Andrade, CA; Calexico, CA; Douglas, AZ; Las Vegas, NV; Lochiel, AZ; Lukeville, AZ; Naco, AZ; Oxnard, CA; Phoenix, AZ; San Luis Obispo, CA; San Luis, AZ; Sasabe, AZ; Tecate, CA; Tucson, AZ; Directors: Chicago, IL; Pembina, ND; Detroit, MI; Minneapolis, MN; Cleveland, OH; St. Louis, MO; Duluth, MN; Milwaukee, WI. Port Director of Customs, 77 SE 5th Street, Miami, FL 33131; Port Director of Customs, U.S. Customhouse, 2nd and Chestnut Streets, Philadelphia, PA 19106; Port Director of Customs, U.S. Customs Service, Honolulu, HI 96819.

NOTIFICATION PROCEDURE:

See Customs appendix A.

RECORDS ACCESS PROCEDURES:

See Customs appendix A.

CONTESTING RECORDS PROCEDURES:

See Access, Customs appendix A.

RECORD SOURCE CATEGORIES:

Information is obtained from actual overtime earnings made by each employee in the system.

EXEMPTIONS CLAIMED FOR THE SYSTEM:

None.

Treasury/CS .170

SYSTEM NAME:

Overtime Reports—Treasury/Customs.

SYSTEM LOCATION:

U.S. Customs Service, Office of Investigations, South Central Region, RDI, 423 Canal Street, New Orleans, LA 70130; SAC, 423 Canal Street, New Orleans, LA 70130; RA, 1719 West End Building, Room 303, Nashville, TN 37203, and each port within the South Texas Customs Management Centers.

CATEGORIES OF INDIVIDUALS COVERED BY THE SYSTEM:

All special agents in region certified to receive premium compensation.

CATEGORIES OF RECORDS IN THE SYSTEM:

Numbers of hours worked by special agents over and above the normal 40-hour week.

AUTHORITY FOR MAINTENANCE OF THE SYSTEM:

5 U.S.C. 301; Treasury Department Order No. 165, revised as amended.

ROUTINE USES OF RECORDS MAINTAINED IN THE SYSTEM, INCLUDING CATEGORIES OF USERS AND THE PURPOSES OF SUCH USES:

These records and information in these records may be used to: (1) Provide information to a Congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, AND DISPOSING OF RECORDS IN THE SYSTEM:

STORAGE:

These forms are maintained in file folders in a locked cabinet.

RETRIEVABILITY:

Files are kept in alphabetical order.

SAFEGUARDS:

During non-working hours the rooms in which the above described containers are located are locked.

RETENTION AND DISPOSAL:

These files are destroyed three years after special agent leaves agency or office.

SYSTEM MANAGER(S) AND ADDRESS:

Resident Agent, U.S. Customs Service, 6125 Interstate, Bay 11, Shreveport, LA 71109; Resident Agent in Charge, c/o Drug Enforcement Agency, Little Rock, AR 72211; Resident Agent, Hoover Building, Ste. 216B, 8312 Florida Boulevard, Baton Rouge, LA 70806; Resident Agent, 1 Government Plaza, Rm. 423, 2909 13th Street, Gulfport, MS 39501; Resident Agent in Charge, U.S. Customs Service, U.S. Federal Building, Ste. 230, Jackson, MS 39269; Resident Agent in Charge, Station 1, Box 10182, Houma, LA 70363-5990; Resident Agent in Charge, 101 E. Cypress Street, Ste. 106, Lafayette, LA 70502; Resident Agent, 811 Bayou Pines Blvd., Lake Charles, LA 70601; Resident Agent, 811 Bayou Pines Blvd., Lake Charles, LA 70601; New Orleans Aviation Branch, P.O. Box 980, Belle Chasse, LA 70037.

NOTIFICATION PROCEDURE:

See Customs appendix A.

RECORD ACCESS PROCEDURES:

Customs appendix A.

CONTESTING RECORD PROCEDURES:

See Access, Customs appendix A.

RECORD SOURCE CATEGORIES:

The information contained in these files originates with, and consists solely of information supplied by employees.

EXEMPTIONS CLAIMED FOR THE SYSTEM:

None.

Treasury/CS .171

SYSTEM NAME:

Pacific Basin Reporting Network.

SYSTEM LOCATION:

Office of the Special Agent in Charge, U.S. Customs Service, 300 Ala Moana Boulevard, Room 7238, Honolulu, Hawaii 96813.

CATEGORIES OF INDIVIDUALS COVERED BY THE SYSTEM:

Records are maintained on masters, operators, pilots, crew members and passengers of vessels and aircraft traveling in or through the Pacific Basin. The Pacific Basin area includes the countries of northeast Asia, southeast Asia, the Pacific islands (both independent and non-independent), Australia, New Zealand, United States, Canada and Mexico.

CATEGORIES OF RECORDS IN THE SYSTEM:

This system of records included information pertaining to individuals, aircraft and vessels reporting; vessel/aircraft name and registration numbers; description of vessels and aircraft; departure and arrival information; and destination locations. Information about individuals includes name, date of birth, place of birth, physical description, nationality, passport number, address and occupation.

AUTHORITY FOR MAINTENANCE OF THIS SYSTEM:

19 U.S.C. 1433, 1459, and 162; 49 U.S.C. App. 1590.

PURPOSE(S):

The purpose of the Pacific Basin Reporting Network is to implement a law enforcement data base containing records with identifying and other relevant information on vessels, aircraft and individuals traveling in or through the Pacific basin area, and where appropriate to disclose this information to other domestic and foreign agencies which have an interest in this information.

ROUTINE USES OF RECORDS MAINTAINED IN THIS SYSTEM, INCLUDING CATEGORIES OF USERS AND THE PURPOSES OF SUCH USES:

These records and information in the records may be used to: (1) Disclose pertinent information to appropriate Federal agencies and to state, local/territorial or foreign agencies responsible for investigating or prosecuting the violations of, or for enforcing or implementing, a statute, rule, regulation or order, or license, where the disclosing agency becomes aware of an indication of a violation or potential violation of civil or criminal law or regulation; (2) disclose information to a court, magistrate, or administrative tribunal in the course of presenting evidence, including disclosures to opposing counsel or witnesses in the course of civil discovery, litigation, or settlement negotiations, or in response to a subpoena, where relevant or potentially relevant to the proceedings, or in connections with criminal law proceedings; (3) provide information to the news media in accordance with guidelines contained in 28 CFR 50.2 which relate to an agency's functions relating to civil and criminal proceedings; and (4) provide information to third parties during the course of an investigation to the extent necessary to obtain information pertinent to the investigation.

POLICIES AND PRACTICES FOR STORING, RETRIEVING, ACCESSING, RETAINING, AND DISPOSING OF RECORDS IN THE SYSTEM:

STORAGE:

Records are maintained on tape, magnetic disc and hard copy.

RETRIEVABITY:

By name (individual, master or pilot); unique identifiers (date of birth, passport number, aircraft/vessel registration number); date, place of destination; port of registry; or vessel description.

SAFEGUARDS:

All officials accessing to the system of records have had a full field background check as required and access data on a need-to-know basis only. Procedural and physical safeguards are utilized such as accountability, receipt records and specialized communications security. The data system has an internal mechanism designed to restrict access to authorized officials. Hard-copy records are held in steel cabinets and are maintained according to the requirements of the U.S. Customs Reports Manual and Customs Security Manual. Access is limited by visual controls and/or lock system. During normal working hours, files are attended by responsible officials; they are locked during non-working hours and the building is patrolled by uniformed security guards.

RETENTION AND DISPOSAL:

The records are periodically updated to reflect changes and maintained as long as needed, then shredded and destroyed.

SYSTEM MANAGER AND ADDRESS:

Office of Special Agent in Charge, U.S. Customs Service, 300 Ala Moana Boulevard, Room 7238, Honolulu, Hawaii 96813.

NOTIFICATION PROCEDURE:

Pursuant to 5 U.S.C. 552a(j)(2), and (k)(2), this system of records may not be accessed for purposes of determining if the system contains a record pertaining to a particular individual.

RECORD ACCESS PROCEDURES:

See “Notification procedure” above.

CONTESTING RECORD PROCEDURES:

See “Notification procedure” above.

RECORDS SOURCE CATEGORIES:

See “Categories of individuals covered by the system” above. The system contains material for which sources need not be reported.

EXEMPTIONS CLAIMED FOR THE SYSTEM:

This system is exempt from 5 U.S.C. 552a (c)(3), (c)(4), (d)(1), (d)(2), (d)(3), (d)(4), (e)(1), (e)(2), (e)(3), (e)(4)(G), (H) and (I), (e)(5) and (e)(8), (f) and (g) of the Privacy Act pursuant to 5 U.S.C. 552a (j)(2) and (k)(2). (See 31 CFR 1.36.)

Treasury/CS .186

SYSTEM NAME:

Personnel Search—Treasury/Customs.

SYSTEM LOCATION:

Office of Investigations, 423 Canal Street, New Orleans, LA 70130; Special Agent in Charge, 951 Government Street, Suite 700, Mobile, AL 36604. U.S. Customs Service, Honolulu International Airport, Honolulu, HI 96810; Ports of Entry, Nogales, AZ.

CATEGORIES OF INDIVIDUALS COVERED BY THE SYSTEM:

Individuals indicating unlawful or suspicious activity that might result in a Customs violation.

CATEGORIES OF RECORDS IN THE SYSTEM:

Name, address, phone number, place of business, physical description, associates, vessel, automobile, or aircraft identified with make, year, license number and registration of vehicles, area of activity, method of operation and other relevant and necessary information on individuals suspected of activity contrary to law.

AUTHORITY FOR MAINTENANCE OF THE SYSTEM:

5 U.S.C. 301; Treasury Department Order No. 165, revised as amended.

ROUTINE USES OF RECORDS MAINTAINED IN THE SYSTEM, INCLUDING CATEGORIES OF USERS AND THE PURPOSES OF SUCH USES:

These records and information in these records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State or local agency maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, AND DISPOSING OF RECORDS IN THE SYSTEM:

STORAGE:

Records maintained in standard Customs file folders in locked metal cabinets.

RETRIEVABILITY:

Records are indexed by identifying file number and manually retrieved.

SAFEGUARDS:

File maintained in locked metal file cabinet, the keys of which are controlled by the custodian of the files. Those departmental officials who may occasionally be granted access, consistent with their positions, have been cleared by a full background investigation and granted appropriate security clearance for critical sensitive positions. During non-working hours, the room housing the metal cabinets is locked.

RETENTION AND DISPOSAL:

Negative Search Reports are destroyed after a five year period. Method of disposal is shredding.

SYSTEM MANAGER(S) AND ADDRESS:

Director, Office of Investigations, U.S. Customs Service,423 Canal Street, New Orleans, LA 70130; Port Directors, as applicable, in Mid-America Customs Management Center, Chicago, IL; Port Director of Customs, U.S. Customs Service, Honolulu, HI 96819; Port Directors at the various ports of entry in the Nogales, AZ.

NOTIFICATION PROCEDURE:

See Customs appendix A.

RECORD ACCESS PROCEDURES:

See Customs appendix A.

CONTESTING RECORD PROCEDURES:

See Access, Customs appendix A.

RECORD SOURCE CATEGORIES:

The information in this system originates with, and consists solely of, information supplied by the individual being searched and the patrol officer doing the search.

EXEMPTIONS CLAIMED FOR THE SYSTEM:

This system is exempt from 5 U.S.C. 552a(c)(3), (d)(1), (d)(2), (d)(3), (d)(4), (e)(1), (e)(4)(G), (H), and (I), and (f) of the Privacy Act pursuant to 5 U.S.C. 552a(k)(2). (See 31 CFR 1.36.)

Treasury/CS .190

SYSTEM NAME:

Personnel Case File—Treasury/Customs

SYSTEM LOCATION:

Office of the Chief Counsel, U.S. Customs Service Headquarters, 1300 Pennsylvania Avenue, NW., Washington, DC 20229; Office of the Associate Chief Counsel, U.S. Customs Service, Mid-America, 610 S. Canal St., Chicago, IL 60607; Associate Chief Counsel of Customs, 6 World Trade Center, New York, NY, 10048; Office of Assistant Chief Counsel, 555 Battery St., San Francisco, CA 94111; Associate Chief Counsel, 2323 S. Shepherd St., Houston, TX 77019.

CATEGORIES OF INDIVIDUALS COVERED BY THE SYSTEM:

Current or former Customs Service employees against whom disciplinary action has been proposed or taken, who have filed grievances, and who have filed complaints under the Equal Opportunity (EO) Program, in most cases where administrative proceedings have been instituted.

CATEGORIES OF RECORDS IN THE SYSTEM:

Reports of investigation into alleged employee misconduct, internal Customs Service memoranda recommending disciplinary action, documents relating to the institution or conduct of disciplinary proceedings, documents relating to the filing and administrative disposition of formal and informal grievances and documents relating to the filing and administrative disposition of EO complaints.

AUTHORITY FOR MAINTENANCE OF THE SYSTEM:

Title 5, United States Code; 5 U.S.C. 301; Title 5 Code of Federal Regulations; Treasury Departmental Order No. 165, revised, as amended.

ROUTINE USES OF RECORDS MAINTAINED IN THE SYSTEM, INCLUDING CATEGORIES OF USERS AND THE PURPOSES OF SUCH USES:

These records and information in the records may be used to: (1) Disclose pertinent information to the Office of Personnel Management (OPM) in connection with administrative hearings and to the Department of Justice in connection with court proceedings resulting from appeals from decisions rendered at the administrative level; (2) disclose pertinent information to appropriate Federal, State, local, or foreign agencies responsible for investigating or prosecuting the violations of, or for enforcing or implementing, a statute, rule, regulation, order, or license, where the disclosing agency becomes aware of an indication of a violation or potential violation of civil or criminal law or regulation; (3) disclose information to a Federal, State, or local agency, maintaining civil, criminal or other relevant enforcement information or other pertinent information, which has requested information relevant to or necessary to the requesting agency's or the bureau's hiring or retention of an individual, or issuance of a security clearance, license, contract, grant, or other benefit; (4) disclose information to a court, magistrate, or administrative tribunal in the course of presenting evidence, including disclosures to opposing counsel or witnesses in the course of civil discovery, litigation, or settlement negotiations, in response to a subpoena, or in connection with criminal law proceedings; (5) provide information to the news media in accordance with guidelines contained in 28 CFR 50.2 which relate to an agency's functions relating to civil and criminal proceedings; (6) provide information to third parties during the course of an investigation to the extent necessary to obtain information pertinent to the investigation.

POLICIES AND PRACTICES FOR STORING, RETRIEVING, ACCESSING, RETAINING, DISPOSING OF RECORDS IN THE SYSTEM:

STORAGE:

Each case file is inserted alphabetically in an unlocked drawer within a metal container.

RETRIEVABILITY:

Each case file id identified in a manual alphabetical card file by name of the person, and each case file is similarly identified in alphabetical order within the metal container.

SAFEGUARDS:

The metal container described above is maintained within the Customs Service building. During non-working hours, the room in which the metal container is located is locked. Access to the building is controlled at all times by uniformed guards.

RETENTION AND DISPOSAL:

These files are retained until there is no longer any space available for them within the metal container, at which time the oldest files are transferred to the Federal Records Center.

SYSTEM MANAGER(S) AND ADDRESS:

Chief Counsel, U.S. Customs Service Headquarters, 1300 Pennsylvania Avenue, NW., Washington, DC 20229; Associate Chief Counsel of Customs, U.S. Customs Service, Mid-America, 610 S. Canal St., Chicago, IL 60607; Associate Chief Counsel of Customs, New York, NY, 10048; Assistant Chief Counsel, 555 Battery St., San Francisco, CA 94111.

NOTIFICATION PROCEDURE:

See Customs appendix A.

RECORD ACCESS PROCEDURES:

See Customs appendix A.

CONTESTING RECORD PROCEDURES:

See Access, Customs appendix A.

RECORDS SOURCE CATEGORIES:

The information contained in these files results from investigation into alleged misconduct on the part of Customs Service employees, recommendations from appropriate Customs Service field personnel that disciplinary proceedings be instituted against Customs Service employees, the filing of EO complaints by Customs Service employees, the statements of Customs Service employees including the employees who are directly affected by the administrative proceedings, and statements or other information provided by private non-governmental individuals.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .193

SYSTEM NAME:

Operating Personnel Folder Files—Treasury/Customs.

SYSTEM LOCATION:

Files are located in Headquarters, Customs Management Centers, SACs, Area Ports and other post of duty offices throughout the Customs Service depending upon post of duty of employee. (See Customs appendix A.)

CATEGORIES OF INDIVIDUALS COVERED BY THE SYSTEM:

Customs employees, present.

CATEGORIES OF RECORDS IN THE SYSTEM:

In addition to the appropriate Personnel offices, records are also maintained by district, port, or other post of duty management on personnel matters such as, but not limited to name, Social Security number, awards, letters of appreciation, promotions, step increases, memoranda, forms and materials related to hiring, address, pay, transfer and separation, service time, salary, phone, education, society memberships, publications, skills, chronological work history, position descriptions, reports of discussions held with employee regarding performance, copies of letters written to employee concerning performance, overtime hours, seniority status, leave, overtime earnings, productivity, locator card information, and related employment records.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used: (1) To disclose to the public for employment and salary verification upon request. (2) To disclose pertinent information to appropriate Federal, State, local, or foreign agencies responsible for investigating or prosecuting the violations of, or for enforcing or implementing, a statute, rule, regulation, order, or license, where the disclosing agency becomes aware of an indication of a violation or potential violation of civil or criminal law or regulation. (3) To disclose information to a Federal, State, or local agency, maintaining civil, criminal or other relevant enforcement information or other pertinent information, which has requested information relevant to or necessary to the requesting agency's or the bureau's hiring or retention of an individual, or issuance of a security clearance, license, contract, grant, or other benefit. (4) To disclose information to a court, magistrate, or administrative tribunal in the course of presenting evidence, including disclosures to opposing counsel or witnesses in the course of civil discovery, litigation, or settlement negotiations, in response to a subpoena, or in connection with criminal law proceedings. (5) To provide information to unions recognized as exclusive bargaining representatives under the Civil Service Reform Act of 1978, 5 U.S.C. 7111 and 7114. (6) To provide information to third parties during the course of an investigation to the extent necessary to obtain information pertinent to the investigation.

POLICIES AND PRACTICES FOR STORING, RETRIEVING, ACCESSING, RETAINING, DISPOSING OF RECORDS IN THE SYSTEM:

STORAGE:

Records are maintained in file folders, and/or on index cards, ledgers, and computer disc.

RETRIEVABILITY:

Records are indexed by name, or Social Security number.

SAFEGUARDS:

Records are located in lockable metal file cabinets or in secured rooms with limited access.

RETENTION AND DISPOSAL:

When the employee leaves the Customs Service through transfer or other separation, the file will immediately be forwarded to the office maintaining the Official Personnel Folder. There it will be screened to insure that it contains no documents that should be permanently filed in the Official Personnel Folder other than exact duplicates of papers already so filed. The file and its contents will then be destroyed.

SYSTEM MANAGER(S) AND ADDRESS:

Program Management Officers at Headquarters, local Management Program Officers (MPOs) in Customs Management Centers and SAC offices, or managerial official in appropriate posts of duty of employee. (See Customs appendix A.)

NOTIFICATION PROCEDURE:

See Customs appendix A.

RECORD ACCESS PROCEDURES:

See Customs appendix A.

CONTESTING RECORD PROCEDURES:

See Access, Customs appendix A.

RECORD SOURCE CATEGORIES:

Information in this system of records comes from employee, from personnel actions as noted in official personnel folders, and from supervisor.

EXEMPTIONS CLAIMED FOR THE SYSTEM:

None.

Treasury/CS .196

SYSTEM NAME:

Preclearance Costs—Treasury/Customs.

SYSTEM LOCATION:

Customs Management Center, 10 Causeway Street, Boston, MA 02222.

CATEGORIES OF INDIVIDUALS COVERED BY THE SYSTEM:

All Customs Inspectors and Foreign Service employees of North Central Region, who are stationed at Toronto and Montreal, Canada.

CATEGORIES OF RECORDS IN THE SYSTEM:

Salaries, living allowances and benefits paid to employees who are stationed at Toronto and Montreal, Canada.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to a congressional office in response to an inquiry made at the request of the individual to whom the record pertains; (5) provide information to unions recognized as exclusive bargaining representatives under the Civil Service Reform Act of 1978, 5 U.S.C. 7111 and 7114; (6) provide information to third parties during the course of an investigation to the extent necessary to obtain information pertinent to the investigation.

POLICIES AND PRACTICES FOR STORING, RETRIEVING, ACCESSING, RETAINING, DISPOSING OF RECORDS IN THE SYSTEM:

STORAGE:

Data is stored in a file folder within two metal file cabinets in the work area of the Budget Section.

RETRIEVABILITY:

The file is identified as the “Pre-clearance Record” which contains the names of all employees listed in alphabetical order with corresponding costs associated with each employee.

SAFEGUARDS:

The file is located within an office that is locked during non-working hours. The building is guarded by uniformed security police and only authorized persons are permitted entry to the building.

RETENTION AND DISPOSAL:

The files are kept for three years and then destroyed.

SYSTEM MANAGER(S) AND ADDRESS:

Director, Customs Management Center, 10 Causeway Street, Boston, MA 02222.

Notification procedure:

See Customs appendix A.

Record access procedures:

See Customs appendix A.

Contesting record procedures:

See Access, Customs appendix A.

RECORD SOURCE CATEGORIES:

The information contained in the system is obtained from the Bi-weekly Comprehensive Payroll Listing, Treasury Form 2979, supplied by the Payroll Data Center.

EXEMPTIONS CLAIMED FOR THE SYSTEM:

None.

Treasury/CS .197

SYSTEM NAME:

Private Aircraft/Vessel Inspection Reporting System—Treasury/Customs.

SYSTEM LOCATION:

Office of Field Operations, U.S. Customs Service, 1300 Pennsylvania Avenue, NW., Washington, DC 20229.

CATEGORIES OF INDIVIDUALS COVERED BY THE SYSTEM:

Names of pilots and vessel masters arriving in the United States.

CATEGORIES OF RECORDS IN THE SYSTEM:

Names and personal identifiers of pilots, vessel masters, and owners of vessels with appropriate registration and/or documentation numbers and characteristics, and arrival dates at port of entry.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

Magnetic disc and tape storage; microfiche.

RETRIEVABILITY:

By individual name, private aircraft/vessel registration number; vessel name.

SAFEGUARDS:

All inquiries are made by officers with full field background investigation on a “need-to-know” basis only. Procedural and physical safeguards are utilized such as accountability and receipt records, guards patrolling the area, restricted access and alarm protection systems, special communications security, etc.

RETENTION AND DISPOSAL:

Customs Form 178 (Private Aircraft Inspection Report) is destroyed after entry into data system.

SYSTEM MANAGER(S) AND ADDRESS:

Process Owner, Passenger Operations Division, U.S. Customs Service, 1300 Pennsylvania Avenue, NW., Washington, DC 20229.

NOTIFICATION PROCEDURE:

See Customs appendix A.

RECORD ACCESS PROCEDURES:

See Customs appendix A.

CONTESTING RECORD PROCEDURES:

See Access, Customs appendix A.

RECORD SOURCE CATEGORIES:

Proposed Customs Form 178 (Private Aircraft Inspection Report) which will be prepared by Customs officers, unnumbered forms prepared by vessel masters or owners who report their arrival to a United States port of entry, and other Federal agencies.

EXEMPTIONS CLAIMED FOR THE SYSTEM:

This system is exempt from 5 U.S.C. 552a(c)(3). (d)(1), (d)(2), (d)(3), (d)(4), (e)(1), (e)(4)(G), (H) and (I), and (f) of the Privacy Act pursuant to 5 U.S.C. 552a(k)(2). (See 31 CFR 1.36.)

Treasury/CS .201

SYSTEM NAME:

Property File-Non-Expendable-Treasury/Customs.

SYSTEM LOCATION:

Offices of each Port within the Mid-America Customs Management Center (see Customs appendix A.); Office of Logistics Management, U.S. Customs Headquarters, 1300 Pennsylvania Avenue, NW., Washington, DC 20229; Office of the Director, Customs Management Center, San Diego, CA; Offices of the Port Directors: San Ysidro, CA; Tecate, CA; Calexico, CA; Andrade, CA; San Diego Barge Office, and the Offices of the Customs Patrol Division, San Diego, CA; San Ysidro, CA; Calexico, CA; Tecate, CA; Port Directors Office, Entry Control Section (see Customs appendix A.); United States Customs Service, PO Box 1641, Honolulu, HI 96806; Federal Building, Room 198, 511 NW. Broadway, Portland, OR 97209; Management Program Specialist, U.S. Customs Service, 555 Battery Street, Room 329, San Francisco, CA 94126.

CATEGORIES OF INDIVIDUALS COVERED BY THE SYSTEM:

Employees issued non-expendable property.

CATEGORIES OF RECORDS IN THE SYSTEM:

Receipts for badges, cap insignias, bonded warehouse keys, identification cards, Government driver's licenses, firearms and other non-expendable property.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

Locked file cabinet.

RETRIEVABILITY:

Folders identified by individual's name.

SAFEGUARDS:

During non-working hours the room/building in which the file is located is locked. Access limited to authorized Customs personnel.

RETENTION AND DISPOSAL:

Until employee separates/transfers. Transfer to National Personnel Records Center (NPRC), (CPR), St. Louis, MO, thirty days after employee is separated.

SYSTEM MANAGER(S) AND ADDRESS:

Port Directors in Mid-America Region; Director, Office of Logistics Management, U.S. Customs Service, Headquarters, 1300 Pennsylvania Avenue, NW., Washington, DC, 20229; Customs Management Center Directors, Port Directors, and Division Directors within the San Diego Customs District (see Customs appendix A.); Chief, Headquarters Support Branch, Logistics Management Division, U.S. Customs Service Headquarters, 1300 Pennsylvania Avenue, NW., Washington, DC 20229; Local Property Officer, Room 228, Federal Building, Entry Control Section, 335 Merchant Street, Honolulu, HI 96813; Director, Federal Building, Room 198, 511 NW. Broadway, Portland, OR 97209; Administrative Officer, U.S. Customs Service, 555 Battery Street, Room 327, San Francisco, CA 94111.

NOTIFICATION PROCEDURE:

See Customs appendix A.

RECORD ACCESS PROCEDURES:

See Customs appendix A.

CONTESTING RECORD PROCEDURES:

See Access, Customs appendix A.

RECORD SOURCE CATEGORIES:

The information in this system consists of receipts of employees receiving non-expendable property.

EXEMPTIONS CLAIMED FOR THE SYSTEM:

None.

Treasury/CS .206

SYSTEM NAME:

Regulatory Audits of Customhouse Brokers—Treasury/Customs.

SYSTEM LOCATION:

Office of Regulatory Audit, United States Customs Service Headquarters, 1300 Pennsylvania Avenue, NW., Washington, DC 20229, and at each of the field offices of Regulatory Audit (see Customs appendix A for addresses).

CATEGORIES OF INDIVIDUALS COVERED BY THE SYSTEM:

Persons licensed to do business pursuant to 19 U.S.C. 1641.

CATEGORIES OF RECORDS IN THE SYSTEM:

Audit reports of customs broker accounts and records; correspondence regarding such reports; Congressional inquiries concerning customs brokers and disposition made of such inquiries; names of officers of customs broker firms, license numbers and dates issued and district covered.

Authority for maintenance of the system:

19 U.S.C. 1641; 19 CFR part 111. 5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, state, or local agency, maintaining civil, criminal or other relevant enforcement information or other pertinent information, which has requested information relevant to or necessary to the requesting agency's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, SAFEGUARDING, RETAINING, AND DISPOSING OF RECORDS IN THE SYSTEM:

Storage:

Each custom broker permanent file is inserted in alphabetical order by name of the firm in an unlocked drawer within a metal file cabinet located in one or more regulatory audit offices. Each customs broker work paper file is similarly stored, but maintained in numerical order by audit report number.

RETRIEVABILITY:

Each broker permanent file is readily retrievable when the name is given, while the workpaper file is retrievable after obtaining the audit report file number from within the permanent file.

SAFEGUARDS:

The files described above are maintained within the respective regulatory audit offices. During non-working hours, the offices in which the files are located are locked.

RETENTION AND DISPOSAL:

Customhouse broker files are generally retained in each office at least three years, after which they are placed in General Service Administration long-term archival storage.

SYSTEM MANAGER(S) AND ADDRESS:

Director, Office of Regulatory Audit, United States Customs Service Headquarters, 1300 Pennsylvania Avenue, NW., Washington, DC 20229, and the Regional Directors, Regulatory Audit at each of the regional offices (see Customs appendix A for addresses).

NOTIFICATION PROCEDURE:

See Customs appendix A.

RECORD ACCESS PROCEDURES:

See Customs appendix A.

CONTESTING RECORD PROCEDURES:

See Access, Customs appendix A.

RECORD SOURCE CATEGORIES:

The information contained in these files originates in connection with customs broker audits conducted by the regional regulatory audit staffs. The audits may be supplemented with information furnished by the Office of the Regional Counsel, Office of Enforcement, and the Office of Regulations and Rulings. These audits include examinations of brokers business records, including data maintained in support of client customs business.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .207

SYSTEM NAME:

Reimbursable Assignment/Workticket System-Treasury/Customs.

SYSTEM LOCATION:

U.S. Customs Service Headquarters, 1300 Pennsylvania Avenue, NW., Washington, DC 20229.

CATEGORIES OF INDIVIDUALS COVERED BY THE SYSTEM:

Customs Service employees who perform reimbursable services and parties in interest for whom reimbursable services are performed.

CATEGORIES OF RECORDS IN THE SYSTEM:

Name, address, Social Security number or importer of record number assigned by the Customs Service, listings of reimbursable overtime assignments of Customs employees, bills and refund checks issued to parties in interest, travel expenses incurred by Customs employees in connection with the reimbursable services.

AUTHORITY FOR MAINTENANCE OF THE SYSTEM:

19 U.S.C. 261, 267, and 1451; 19 CFR 24.16 and 24.17; 5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

The information in this system is contained in a computerized system utilizing magnetic tape storage techniques.

RETRIEVABILITY:

The information in this system is retrieved by the individual’s Social Security number or by the individual’s importer of record number.

SAFEGUARDS:

Procedural and physical safeguards are utilized such as accountability and receipt access, guards patrolling the area, restricted access and alarm systems.

RETENTION AND DISPOSAL:

The records in this system are retained in accordance with the requirements of the Treasury Records Control Manual.

SYSTEM MANAGER(s) and address:

Assistant Commissioner, Office of Field Operations, U.S. Customs Service Headquarters, 1300 Pennsylvania Ave, NW., Washington, DC 20229.

NOTIFICATION PROCEDURE:

See Customs appendix A.

RECORD ACCESS PROCEDURES:

See Customs appendix A.

CONTESTING RECORD PROCEDURES:

See Access, Customs appendix A.

RECORD SOURCE CATEGORIES:

The information in this system originates with the receipt of a request for reimbursable services from the party in interest. In addition, information in this system is derived from Customs Form 5106 (Notification of Importer's Number/Application for Importer's Number) which is filed with the Customs Service by the importer, and from Customs Form 6082 (Work Ticket) which is filed by the Customs Inspector who performed the reimbursable services.

EXEMPTIONS CLAIMED FOR THE SYSTEM:

None.

Treasury/CS .208

SYSTEM NAME:

Restoration of Forfeited Annual Leave Cases—Treasury/Customs.

SYSTEM LOCATION:

Located in U.S. Customs Service, National Finance Center, Indianapolis, Indiana, and Mission support Office of each Customs Management Center. (see Customs appendix A for addresses).

CATEGORIES OF INDIVIDUALS COVERED BY THE SYSTEM:

Employees of the U.S. Customs Service who have applied for restoration of forfeited annual leave.

CATEGORIES OF RECORDS IN THE SYSTEM:

Employee applications for restoration of leave. Management decisions on employee applications for restoration of leave. Applicable regulations.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

Records are stored in manila folders.

RETRIEVABILITY:

Records are indexed by name.

SAFEGUARDS:

Records are maintained in locked files.

RETENTION AND DISPOSAL:

Records are retained in accordance with the requirements of the Treasury Records Control Manual.

SYSTEM MANAGER(S) AND ADDRESS:

Mission Support Officer in each Customs Management Center, and the Director, National Finance Center, Indianapolis, Indiana.

NOTIFICATION PROCEDURE:

See Customs appendix A.

RECORD ACCESS PROCEDURES:

See Customs appendix A.

CONTESTING RECORD PROCEDURES:

See Access, Customs appendix A.

RECORD SOURCE CATEGORIES:

Evidential materials supporting employee applications for restoration of forfeited annual leave. Evidential materials supporting management decisions.

EXEMPTIONS CLAIMED FOR THE SYSTEM:

None.

Treasury/CS .209

SYSTEM NAME:

Resumes of Professional Artists—Treasury/Customs.

SYSTEM LOCATION:

Area Director, New York Seaport Area, 6 World Trade Center, New York, NY 10048.

CATEGORIES OF INDIVIDUALS COVERED BY THE SYSTEM:

Professional Artists.

CATEGORIES OF RECORDS IN THE SYSTEM:

Artist's name and professional art background.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to provide information to a congressional office in response to an inquiry made at the request of the individual to whom the record pertains.

POLICIES AND PRACTICES FOR STORING, RETRIEVING, ACCESSING, RETAINING, DISPOSING OF RECORDS IN THE SYSTEM:

STORAGE:

Paper.

RETRIEVABILITY:

Alphabetical listing.

SAFEGUARDS:

Filing cabinet, office locked at end of day.

RETENTION AND DISPOSAL:

Records are disposed of in accordance with the requirements of the Treasury Records Control Manual.

SYSTEM MANAGER(S) AND ADDRESS:

Area Director New York Seaport Area, 6 World Trade Center, New York, NY 10048.

NOTIFICATION PROCEDURE:

See Customs appendix A.

RECORD ACCESS PROCEDURES:

See Customs appendix A.

CONTESTING RECORD PROCEDURES:

See Access, Customs appendix A.

RECORD SOURCE CATEGORIES:

Resume information provided by artist.

EXEMPTIONS CLAIMED FOR THE SYSTEM:

None.

Treasury/CS .211

SYSTEM NAME:

Sanction List—Treasury/Customs.

SYSTEM LOCATION:

Director, U.S. Customs, National Finance Center, P.O. Box 68907, Indianapolis, Indiana 46228.

CATEGORIES OF INDIVIDUALS COVERED BY THE SYSTEM:

Persons who are indebted to the United States Government for bills that are unpaid and past due.

CATEGORIES OF RECORDS IN THE SYSTEM:

Listing is issued weekly showing individual's name and address plus number and amount of unpaid and past due bills.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to provide information to a congressional office in response to an inquiry made at the request of the individual to whom the record pertains.

POLICIES AND PRACTICES FOR STORING, RETRIEVING, ACCESSING, RETAINING, DISPOSING OF RECORDS IN THE SYSTEM:

STORAGE:

Each sanction list is stored in a file drawer in an unlocked file cabinet.

RETRIEVABILITY:

Each sanction list is identified by month and year of issuance.

SAFEGUARDS:

The file cabinet described above is maintained within the area assigned in the Customs Office. During non-working hours the room and/or building in which the file cabinet is located is locked.

RETENTION AND DISPOSAL:

Retained in Customs Office for minimum of one year. Disposal in accordance with Records Control Manual.

SYSTEM MANAGER(S) AND ADDRESS:

Director, U.S. Customs, National Finance Center, P.O. Box 68907, Indianapolis, Indiana 46022.

NOTIFICATION PROCEDURE:

See Customs appendix A.

RECORD ACCESS PROCEDURES:

See Customs appendix A.

CONTESTING RECORD PROCEDURES:

See Access, Customs appendix A.

RECORD SOURCE CATEGORIES:

The information in this listing is secured from CF 6084 Bill Form issued to each individual and correspondence files maintained for individuals.

EXEMPTIONS CLAIMED FOR THE SYSTEM:

None.

Treasury/CS .212

SYSTEM NAME:

Search/Arrest/Seizure Report—Treasury/Customs.

SYSTEM LOCATION:

Office of Investigations, Offices of the U.S. Customs Service. (See Customs appendix A.)

CATEGORIES OF INDIVIDUALS COVERED BY THE SYSTEM:

Persons who have or may have violated a law of the United States.

CATEGORIES OF RECORDS IN THE SYSTEM:

Name, alias, date of birth, age, personal data, addresses, home and business telephone numbers, occupation, background information, associations, license number and registration number of vehicle, vessel and/or aircraft, mode of entry of individual or contraband, fingerprints, pictures, declaration forms, cash receipts, receipt for seized goods, all other forms pertinent to the case, such as Notice to Master, etc.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statue, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency”s functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Each case is placed in a folder which is filed in numerical order according to the assigned case file number. These files are kept in a locked metal cabinet.

RETRIEVABILITY:

The above-mentioned case file numbers are cross-indexed by name to such numbers, and cards are filed alphabetically within a metal file box.

SAFEGUARDS:

The metal file cabinet and the metal file box are located within an office that is locked during non-working hours.

RETENTION AND DISPOSAL:

These cases are retained for a period of three years after which they are destroyed together with related index cards.

SYSTEM MANAGER(S) AND ADDRESS:

Special Agent in Charge. (See Customs appendix A.)

NOTIFICATION PROCEDURE:

See Customs appendix A.

RECORD ACCESS PROCEDURES:

See Customs appendix A.

CONTESTING RECORD PROCEDURES:

See Access, Customs appendix A.

RECORD SOURCE CATEGORIES:

See “Categories of individuals covered by the system” above. The system contains material for which sources may not need to be reported.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/Customs .213

SYSTEM NAME:

Seized Asset and Case Tracking System (SEACATS).

SYSTEM LOCATION:

Office of Information and Technology, U.S. Customs Service, 1300 Pennsylvania Ave. NW., Washington, DC 20229.

CATEGORIES OF INDIVIDUALS COVERED BY THE SYSTEM:

(1) Owners, claimants, and other interested parties to seized property; (2) those who have been administratively or criminally charged with violations of Customs laws and regulations, and other laws and regulations enforced by the Customs Service, U.S. Secret Service, Bureau of Alcohol, Tobacco and Firearms, and the Internal Revenue Service; (3) purchasers of forfeited property.

CATEGORIES OF RECORDS IN THE SYSTEM:

Includes records containing information related to property that was forfeited or seized by the U.S. Customs Service, the U.S. Secret Service, the Bureau of Alcohol, Tobacco and Firearms, such as: (1) Individual and business names, (2) phone numbers, (3) identifying numbers, (4) dates, (5) types of violations, (6) parties entitled to legal notice, (7) parties who are legally liable, (8) case information pertaining to violation, (9) bond information, (10) entry documentation, (11) petitions and supplemental petitions, (12) reports of investigation concerning the fine, penalty or forfeiture, (13) information related to internal review and consideration of request for relief, (14) offer information.

AUTHORITY FOR MAINTENANCE OF THE SYSTEM:

5 U.S.C. 301; Treasury Department Order No. 165, Revised, as amended. 19 U.S.C. 66, 1618, 1624; 19 CFR parts 171 and 172.

PURPOSE(S):

The purpose is to provide Customs and the Treasury Executive Office of Asset Forfeiture with a comprehensive system for tracking seized and forfeited property, penalties, and liquidated damages from case initiation to final resolution.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) Disclose information to a court, magistrate, or administrative tribunal in the course of presenting evidence, including disclosure to opposing counsel or witnesses in the course of civil discovery, litigation or settlement negotiations, or in response to a subpoena, in connection with criminal law proceedings; (3) Disclose information to a Federal, State, or local agency, maintaining civil, criminal or other relevant enforcement information or other pertinent information, which has requested information relevant to or necessary to the requesting agency's or bureau's hiring or retention of an individual, or issuance of a security clearance, license, contract, grant, or other benefit; (4) Provide information to third parties during the course of an investigation to the extent necessary to obtain information pertinent to the investigation; (5) Provide information to the news media in accordance with guidelines contained in 28 CFR 50.2 which relates to an agency's functions relating to civil and criminal proceedings.

POLICIES AND PRACTICES FOR STORING, RETRIEVING, ACCESSING, RETAINING, DISPOSING OF RECORDS IN THE SYSTEM:

STORAGE:

Magnetic media.

RETRIEVABILITY:

By identification codes, name, phone number, identifying number, and date and type of violation.

SAFEGUARDS:

Access to the computer area is controlled by a security pass arrangement and personnel not connected with the operation of the computer are prohibited from entering. At ports of processing, terminal rooms are under close supervision during working hours and locked after the close of business. Users gain access to the system by unique identification code and password. Access is on a need-to-know basis only. Passwords are changed frequently to enhance security.

RETENTION AND DISPOSAL:

Files are periodically updated to reflect changes and are disposed of in accordance with the requirements of the National Archives and Records Administration's record retention schedule.

SYSTEM MANAGER(S) AND ADDRESS:

Assistant Commissioner, Office of Information and Technology, U.S. Customs Service, 1300 Pennsylvania Ave. NW., Washington, DC 20229.

NOTIFICATION PROCEDURE:

This system of records may not be accessed for purposes of determining if the system contains a record pertaining to a particular individual. (See 5 U.S.C. 552a (e)(4)(G) and (f)(1).)

RECORD ACCESS PROCEDURES:

This system of records may not be accessed under the Privacy Act for the purpose of inspection.

CONTESTING RECORD PROCEDURES:

Since this system of records may not be accessed for purposes of determining if the system contains a record pertaining to a particular individual and those records, if any, cannot be inspected, the system may not be accessed under the Privacy Act for the purpose of contesting the content of the record.

RECORD SOURCE CATEGORIES:

This system of records is exempt from the Privacy Act provision which requires that record source categories be reported. (See “Exemptions Claimed for the System,” below.)

EXEMPTIONS CLAIMED FOR THE SYSTEM:

This system is exempt from 5 U.S.C. 552a (c)(3), (c)(4), (d)(1), (d)(2), (d)(3), (d)(4), (e)(1), (e)(2), (e)(3), (e)(4) (G), (H) and (I), (e)(5) and (8), (f) and (g) of the Privacy Act pursuant to 5 U.S.C. 552a (j)(2) and (k)(2). (See 31 CFR 1.36.)

Treasury/CS .214

SYSTEM NAME:

Seizure File—Treasury/Customs.

SYSTEM LOCATION:

Special Agent in Charge, Room 508, U.S. Customs Service, 6 World Trade Center, New York, NY 10048.

CATEGORIES OF INDIVIDUALS COVERED BY THE SYSTEM:

Ship masters, ship crew members, longshoremen, vessels, private aircraft, private vessels, individuals from whom seizures have been made, or upon whom Memoranda of Information Received and Reports of Investigation have been written.

CATEGORIES OF RECORDS IN THE SYSTEM:

Memoranda of Information Received and reports of Investigation which are reports from law enforcement agencies of suspects or arrests. Reports of Seizures by Customs, other information indicating violators or suspected violators.

AUTHORITY FOR MAINTENANCE OF THE SYSTEM:

5 U.S.C. 301.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Manila files within metal file cabinets.

RETRIEVABILITY:

Alphabetical; for aircraft or car by number; by seizure number; by name of individual.

SAFEGUARDS:

Room has a 24-hour guard and is locked.

RETENTION AND DISPOSAL:

Seizure files are maintained for three years after final disposition. Memoranda of Information Received are maintained as long as needed.

SYSTEM MANAGER(S) AND ADDRESS:

Director, Patrol Division, U.S. Customs Service, 6 World Trade Center, New York, NY 10048.

NOTIFICATION PROCEDURE:

See Customs appendix A.

RECORD ACCESS PROCEDURES:

See Customs appendix A.

CONTESTING RECORD PROCEDURES:

See Access, Customs appendix A.

RECORD SOURCE CATEGORIES:

See “Categories of individuals covered by the system” above. The system contains material for which sources may not need to be reported.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .215

SYSTEM NAME:

Seizure Report File—Treasury/Customs.

SYSTEM LOCATION:

U.S. Customs Mail Facility, Room 416, 1675-7th Street, Oakland, CA 94615.

CATEGORIES OF INDIVIDUALS COVERED BY THE SYSTEM:

Individuals to whom prohibited merchandise is addressed.

CATEGORIES OF RECORDS IN THE SYSTEM:

Name, address, property description, estimated foreign value, duty, domestic value, circumstances of seizure, sender, section of law violated, delivery to San Francisco seizure clerk.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statue, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

The information in this system is contained on Customs Form 6051 Custody Receipt for Retained or Seized Property and Customs Form 151-Search/Arrest/Seizure Report. These forms are placed within file folders which are located in a metal file cabinet.

RETRIEVABILITY:

Each Seizure Report and Custody Receipt (stapled together) are identified by the name of the person to which the seized items are addressed and the names are filed by seizure number by fiscal year.

SAFEGUARDS:

The file folders are placed within a metal cabinet which is located within an office that is locked during non-working hours. The building is guarded by uniformed security police and only authorized persons are permitted in the building.

RETENTION AND DISPOSAL:

Last three fiscal years records are kept in a file cabinet in the office.

SYSTEM MANAGER(S) AND ADDRESS:

Chief, Mail Branch. See location above.

NOTIFICATION PROCEDURE:

See Customs appendix A.

RECORD ACCESS PROCEDURES:

See Customs appendix A.

CONTESTING RECORD PROCEDURES:

See Access, Customs appendix A.

RECORD SOURCE CATEGORIES:

The information in this system originates with and consists of information obtained from mail shipments.

EXEMPTIONS CLAIMED FOR THE SYSTEM:

None.

Treasury/CS .224

SYSTEM NAME:

Suspect Persons Index-Treasury/Customs.

SYSTEM LOCATION:

U.S. Customs Officers located at the following addresses: 300 2nd Avenue, So., Great Falls, MT 59405; 555 Battery Street, San Francisco, CA 94111; 1000 2nd Ave., Suite 2100, Seattle, WA 98104.

CATEGORIES OF INDIVIDUALS COVERED BY THE SYSTEM:

Persons suspected of violation of Customs Laws.

CATEGORIES OF RECORDS IN THE SYSTEM:

Name and related file number.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statue, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Maintained in folders and stored in metal file cabinet.

RETRIEVABILITY:

The office and building are locked during non-working hours.

SAFEGUARDS:

Alphabetical by use of cross index.

RETENTION AND DISPOSAL:

Records are maintained and disposed of in accordance with Records Disposal Manual.

SYSTEM MANAGER(s) AND ADDRESS:

Port Directors of Customs. See location above.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .226

SYSTEM NAME:

Television System—Treasury/Customs.

SYSTEM LOCATION:

Office of Port Directors at ports of entry.

CATEGORIES OF INDIVIDUALS COVERED BY THE SYSTEM:

Persons involved in incidents related to a secondary search and subsequent disturbance while entering the United States from Mexico.

CATEGORIES OF RECORDS IN THE SYSTEM:

An audio-video cassette recording of persons being escorted into, as well as inside, the secondary offices of the Customs area of the Port of Entry.

AUTHORITY FOR MAINTENANCE OF THE SYSTEM:

5 U.S.C. 301; Treasury Department Order No. 165, revised, as amended, and the Customs Regulations.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Audio-video cassette.

RETRIEVABILITY:

By subject's name, date, and time.

Safeguards:

Cassettes are under control of Port Director and released only to the courts when subpoenaed or when requested to be reviewed by subject and his attorney.

RETENTION AND DISPOSAL:

All cassettes with incidents are retained for six months. Those on which some action may be taken are retained for one year or close of the case. Cassettes are reusable. Therefore, erasure occurs when new recording takes place.

SYSTEM MANAGER(s) AND ADDRESS:

Port Directors offices.

NOTIFICATION PROCEDURE:

See Customs appendix A.

RECORD ACCESS PROCEDURES:

See Customs appendix A.

CONTESTING RECORD PROCEDURES:

See Access, above.

RECORD SOURCE CATEGORIES:

Audio-video recording of persons being escorted into the Customs area.

EXEMPTIONS CLAIMED FOR THE SYSTEM:

None.

Treasury/CS .227

SYSTEM NAME:

Temporary Importation Under Bond (TIB) Defaulter Control System—Treasury/Customs.

System location:

U.S. Customs Service, Office of Investigations, 1300 Pennsylvania Avenue, NW, Washington, DC 20229.

CATEGORIES OF INDIVIDUALS COVERED BY THE SYSTEM:

Individuals who have been denied T.I.B. privileges because of failure to pay outstanding liquidated damages.

CATEGORIES OF RECORDS IN THE SYSTEM:

Individual's name, personal identifying numbers and characteristics, address, company and case description, etc.

AUTHORITY FOR MAINTENANCE OF THE SYSTEM:

5 U.S.C. 301; Treasury Department Order No. 165, revised, as amended.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

(1) Magnetic disc and tape storage; (2) Hard Copy; (3) Microfiche files.

RETRIEVABILITY:

Indexing is by violator name.

SAFEGUARDS:

All inquiries are made by officers with full field background investigations on a “need to know” basis only. Procedural and physical safeguards are utilized such as accountability and receipt records, guards patrolling the area, restricted access and alarm protection systems, special communications security, etc.

RETENTION AND DISPOSAL:

Records are disposed of in accordance with the requirements of the Treasury Records Control Manual.

SYSTEM MANAGER(S) AND ADDRESS:

Assistant Commissioner, Office of Investigations, U.S. Customs Service, 1300 Pennsylvania Avenue, NW, Washington, DC 20229.

NOTIFICATION PROCEDURE:

See Customs appendix A.

RECORD ACCESS PROCEDURES:

See Customs appendix A.

CONTESTING RECORD PROCEDURES:

See Access, above.

RECORD SOURCE CATEGORIES:

Customs officers completing Customs Form 164 (TECS-TIB Defaulter Control).

EXEMPTIONS CLAIMED FOR THE SYSTEM:

None.

Treasury/CS .232

SYSTEM NAME:

Tort Claims Act File—Treasury/Customs.

SYSTEM LOCATION:

Office of the Associate Chief Counsel, U. S. Customs Service, One World Trade Center, Suite 740, Long Beach, CA 90831; Associate Chief Counsel of Customs, 6 World Trade Center, New York, NY 10048; Office of the Associate Chief Counsel, U.S. Customs Service (Chicago), 610 South Canal St., Chicago, IL 60607; Office of Associate Chief Counsel (Houston), 2323 South Shepherd Drive., Houston, TX 77019; Office of the Chief Counsel, U.S. Customs Service Headquarters, 1300 Pennsylvania Avenue, NW, Washington, DC 20229; Office of Assistant Chief Counsel, 555 Battery Street, San Francisco, CA 94126; and Office of Assistant Chief Counsel, 1000 Second Avenue, Suite 2200, Seattle, WA 98104.

CATEGORIES OF INDIVIDUALS COVERED BY THE SYSTEM:

Private persons who have filed or may file claims under the Federal Tort Claims Act for property damage or personal injury allegedly caused by a wrongful or negligent act or omission on the part of a Customs Service employee while acting within the scope of his employment.

CATEGORIES OF RECORDS IN THE SYSTEM:

Reports of Investigation regarding accidents involving Customs employees, documents relating to the administrative handling of the claims filed thereon, and documents submitted by the claimant in support of the claim.

AUTHORITY FOR MAINTENANCE OF THE SYSTEM:

28 U.S.C. 2672, et seq; 28 CFR 14.1, et seq; 31 CFR 3.1, et seq; Treasury Department Administrative Circular No. 131, dated August 19, 1965.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

Each case file is inserted in a numerical file folder which is filed in an unlocked drawer within a metal container.

RETRIEVABILITY:

Each case file is identified in the numerical file folder within the metal container by the name of the person who has filed or may file a claim.

SAFEGUARDS:

During non-working hours the room in which the metal container is located is locked, and access to the building is controlled at all times by uniformed guards.

RETENTION AND DISPOSAL:

Tort claim files are retained until there is no longer any space available for them within the metal container, at which time the oldest closed files are transferred to the Federal Records Centers.

SYSTEM MANAGER(S) AND ADDRESS:

Associate Chief Counsel, U. S. Customs Service, One World Trade Center, Suite 741, Long Beach, CA 90832; Associate Chief Counsel, U.S. Customs Service, 6 World Trade Center, New York, NY 10048; Associate Chief Counsel of Customs, 610 South Canal St., Chicago, IL 60607; Associate Chief Counsel, 2323 South Shepherd Drive., Suite 1246, Houston, TX 77019; Chief Counsel, U.S. Customs Service Headquarters, 1300 Pennsylvania Avenue, NW, Washington, DC 20229; Office of Assistant Chief Counsel, 555 Battery Street, San Francisco, CA 94126; and Office of Assistant Chief Counsel, 1000 Second Ave., Suite 2200, Seattle, WA 98104-1049.

NOTIFICATION PROCEDURE:

See Customs appendix A.

RECORD ACCESS PROCEDURES:

See Customs appendix A.

CONTESTING RECORD PROCEDURES:

See Access, Customs appendix A.

RECORD SOURCE CATEGORIES:

The information contained in these files originates with a Standard Form 95 (Claim for Damage or Injury) which is completed and filed with the Customs Service by the claimant. Using these forms as a basis, investigations are conducted by authorized Customs Service investigative personnel in order to determine the facts surrounding the claims. During these investigations information may be elicited from Customs Service employees, private persons, or any other parties who may have information regarding the facts surrounding the claims. When a claim is not filed, the information is limited to the investigative reports of the property damage or personal injury.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .234

SYSTEM NAME:

Tort Claims Act File—Treasury/Customs.

SYSTEM LOCATION:

Offices of the Director, Customs Management Center, Mid-America, Chicago, IL, Ports, and South Texas Customs Management Center. (See Customs appendix A.)

CATEGORIES OF INDIVIDUALS COVERED BY THE SYSTEM:

All individuals presenting claims of damage to personal property resulting from Customs activities.

CATEGORIES OF RECORDS IN THE SYSTEM:

Written damage claims supported by estimates, bills, claim forms and internal Customs Service memoranda.

AUTHORITY FOR MAINTENANCE OF THE SYSTEM:

31 CFR part 3; 5 U.S.C. 301; Treasury Department Order No. 165, revised, as amended.

ROUTINE USES OF RECORDS MAINTAINED IN THE SYSTEM, INCLUDING CATEGORIES OF USERS AND THE PURPOSES OF SUCH USES:

These records and information in the records may be used: to provide information to a congressional office in response to an inquiry made at the request of the individual to whom the record pertains.

POLICIES AND PRACTICES FOR STORING, RETRIEVING, ACCESSING, RETAINING, DISPOSING OF RECORDS IN THE SYSTEM:

STORAGE:

Filed in cabinets in the Port Directors offices.

RETRIEVABILITY:

Folders filed in alphabetical sequence.

SAFEGUARDS:

File cabinets are located within the area assigned in the Customs office. During non-working hours the room in which the cabinets are located is locked.

RETENTION AND DISPOSAL:

Retained in Port Directors offices for three years then transferred to the Federal Records Centers for seven years and three months prior to destruction.

SYSTEM MANAGER(S) AND ADDRESS:

Port Director as appropriate in the Mid-America Customs Management Center, Chicago, IL. (See Customs appendix A.)

NOTIFICATION PROCEDURE:

See Customs appendix A.

RECORD ACCESS PROCEDURES:

See Customs appendix A.

CONTESTING RECORD PROCEDURES:

See Access, above.

RECORD SOURCE CATEGORIES:

The information in this system originates with a written claim submitted by the claimant, as well as information supplied on Standard Form 95 and internal Customs memoranda.

EXEMPTIONS CLAIMED FOR THE SYSTEM:

None.

Treasury/CS .238

SYSTEM NAME:

Training and Career Individual Development Plans—Treasury/Customs.

SYSTEM LOCATION:

Located at the Mission Support Office at each Customs Management Center.

CATEGORIES OF INDIVIDUALS COVERED BY THE SYSTEM:

All U.S. Customs employees.

CATEGORIES OF RECORDS IN THE SYSTEM:

Records are maintained on training or other development activities completed and/or planned for individual employees, whether for programs such as Executive Development or Upward Mobility, or other special emphasis development programs. Records also include such things as, but not limited to skills, abilities, education, experience, career plans and goals, and other related information.

AUTHORITY FOR MAINTENANCE OF THE SYSTEM:

5 U.S.C. 301; Treasury Department Order No. 165, revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

Records are located in file folders, and/or official personnel folder, and in electronic media.

RETRIEVABILITY:

Records are indexed by name.

SAFEGUARDS:

Records are maintained in locked file or office.

RETENTION AND DISPOSAL:

Records are retained until separation or until employee is no longer part of a special emphasis program.

SYSTEM MANAGER(S) AND ADDRESS:

Mission Support Officer at each Customs Management Center.

NOTIFICATION PROCEDURE:

See Customs appendix A.

RECORD ACCESS PROCEDURES:

See Customs appendix A.

CONTESTING RECORD PROCEDURES:

See Access, above.

RECORD SOURCE CATEGORIES:

Information is obtained from the employee and supervisors.

EXEMPTIONS CLAIMED FOR THE SYSTEM:

None.

Treasury/CS .239

SYSTEM NAME:

Training Records—Treasury/Customs.

SYSTEM LOCATION:

Scheduling Office, U.S. Customs Service Academy, FLETC.

CATEGORIES OF INDIVIDUALS COVERED BY THE SYSTEM:

Customs employees who have completed training.

CATEGORIES OF RECORDS IN THE SYSTEM:

Standard Form 182, Request, Authorization, Agreement and Certification of training. Selected information also recorded in individuals permit record, and a copy of the form is filed in the individual's official personnel folder.

AUTHORITY FOR MAINTENANCE OF THE SYSTEM:

5 U.S.C. 301; Treasury Department Order No. 165, revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

Records are maintained in file folders, on file cards, on training forms, or on discs.

RETRIEVABILITY:

Records are indexed by name.

SAFEGUARDS:

Records are maintained in a locked file or room, or with limited access.

RETENTION AND DISPOSAL:

Records are maintained for up to three years after employee separates from the Service.

SYSTEM MANAGER(S) AND ADDRESS:

National Director of Training, U. S. Customs SVC Academy, FLETC

NOTIFICATION PROCEDURE:

U. S. Customs Service Academy, Building 70—FLETC, Glynco, GA 31524

RECORD ACCESS PROCEDURES:

U. S. Customs Service Academy, Building 70—FLETC, Glynco, GA 31524

CONTESTING RECORD PROCEDURES:

U. S. Customs Service, Director, Office of Human Resources, 1300 Pennsylvania Avenue, NW., Washington, DC 20229.

RECORD SOURCE CATEGORIES:

Information for this file is obtained from supervisors, managers, instructors, educational institutions, and/or training facilities such as the Office of Personnel Management, Department of the Treasury, etc.

EXEMPTIONS CLAIMED FOR THE SYSTEM:

None.

Treasury/CS .244

SYSTEM NAME:

Treasury Enforcement Communications System (TECS)—Treasury/Customs.

SYSTEM LOCATION:

Office of Investigations, U.S. Customs Service, 1300 Pennsylvania Avenue, NW., Washington, DC 20229.

CATEGORIES OF INDIVIDUALS COVERED BY THE SYSTEM:

(1) Violators or suspected violators of U.S. Customs or related laws (some of whom have been apprehended by Customs officers); (2) Individuals who are suspected of, or who have been arrested for, thefts from international commerce; (3) Convicted violators of U.S. Customs and/or drug laws in the United States and foreign countries; (4) Fugitives with outstanding warrants—Federal or state; (5) Victims of U.S. Customs law violations; (6) Owners, operators and/or passengers of vehicles, vessels or aircraft traveling across U.S. borders; (7) Individuals participating in financial transactions reported under the Bank Secrecy Act.

CATEGORIES OF RECORDS IN THE SYSTEM:

Every possible type of information from a variety of Federal, state and local sources, which contributes to effective law enforcement may be maintained in this system of records. Records include but are not limited to records pertaining to known violators, wanted persons, lookouts (temporary and permanent), reference information, regulatory and compliance data. Information about individuals includes but is not limited to name, alias, date of birth, address, physical description, various identification numbers (i.e., seizure number), details and circumstances of a search, arrest, or seizure, case information such as merchandise and values, methods of theft, etc.

AUTHORITY FOR MAINTENANCE OF THE SYSTEM:

5 U.S.C. 301; Treasury Department Order No. 165, revised, as amended.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation; (6) provide passenger archive information and other TECS data relevant to the National Center for Missing and Exploited Children (NCMEC) investigation through Department of the Treasury law enforcement officers to personnel of the NCMEC to assist in investigations of missing or exploited children.

POLICIES AND PRACTICES FOR STORING, RETRIEVING, ACCESSING, RETAINING, DISPOSING OF RECORDS IN THE SYSTEM:

STORAGE:

Magnetic disc and tape, laser optical disks, microfiche, and hard copy.

RETRIEVABILITY:

By name; unique identifiers, address, or in association with an enforcement report or other system document.

SAFEGUARDS:

(1) All officers making inquiries have had a full field background investigation and are given information on a “need-to-know” basis only. (2) Procedural and physical safeguards are utilized such as accountability and receipt records, guards patrolling the area, restricted access and alarm protection systems, special communications security, etc.

RETENTION AND DISPOSAL:

Review is accomplished by Customs officers each time a record is retrieved and on periodic basis to see if it should be retained or modified. Since both temporary and permanent records are maintained, period of retention will vary with type of record entered. The records are disposed of by erasure of magnetic tape or disc, and by shredding and/or burning of hard copy documents.

SYSTEM MANAGER(S) AND ADDRESS:

Assistant Commissioner, Office of Investigations, U.S. Customs Service, 1300 Pennsylvania Avenue, NW, Washington, DC 20229.

NOTIFICATION PROCEDURE:

This system of records may not be accessed for purposes of determining if the system contains a record pertaining to a particular individual. (See 5 U.S.C. 552a (e)(4)(G) and (f)(1).)

RECORD ACCESS PROCEDURES:

This system of records may not be accessed under the Privacy Act for the purpose of inspection.

CONTESTING RECORD PROCEDURES:

Since this system of records may not be accessed for purposes of determining if the system contains a record pertaining to a particular individual and those records, if any, cannot be inspected, the system may not be accessed under the Privacy Act for the purpose of contesting the content of the record.

RECORD SOURCE CATEGORIES:

This system contains investigatory material compiled for law enforcement purposes whose sources need not be reported.

EXEMPTIONS CLAIMED FOR THE SYSTEM:

This system is exempt from 5 U.S.C. 552a (c)(3), (c)(4), (d)(1), (d)(2), (d)(3), (d)(4), (e)(1), (e)(2), (e)(3), (e)(4)(G), (H) and (I), (5) and (8), (f) and (g) of the Privacy Act pursuant to 5 U.S.C. 552a (j)(2) and (k)(2). (See 31 CFR 1.36.)

Treasury/CS .249

SYSTEM NAME:

Uniform Allowances_Unit Record—Treasury/Customs.

SYSTEM LOCATION:

Financial Management Office, 99 SE First Street, Miami, FL 33131; Management Services Branch, Administration Division, Port Director, San Juan, PR 00903; Financial Management Division, U.S. Customs Service, 10 Causeway St., Room 801, Boston, MA 02222.

CATEGORIES OF INDIVIDUALS COVERED BY THE SYSTEM:

U.S. Customs Employees.

CATEGORIES OF RECORDS IN THE SYSTEM:

Name_Record of Uniform Allowance Payments.

AUTHORITY FOR MAINTENANCE OF THE SYSTEM:

5 U.S.C. 301; Treasury Department Order No. 165, revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

Files are maintained in an unlocked drawer within a metal file cabinet.

RETRIEVABILITY:

Alphabet by name. Appropriation Accounting Document Number.

SAFEGUARDS:

The metal container described above is maintained within the area assigned to the Financial Management Division within the Customs Service Building. During non-working hours the room in which the metal container is located is locked and access to the building is controlled by uniformed guards.

RETENTION AND DISPOSAL:

These files are retained as prescribed by GAO Regulations or until there is no longer any space available for them within the metal container, at which time the oldest files are transferred to the Federal Records Centers.

SYSTEM MANAGER(S) AND ADDRESS:

Director of Financial Management, 99 SE First Street, Miami, FL 33131; Port Director, U.S. Customs Service, Room 203, Old San Juan, PR 00903; Director, Financial Management Division, U.S. Customs Service, 10 Causeway St., Room 801, Boston, MA 02222.

NOTIFICATION PROCEDURE:

See Customs Appendix A.

RECORD ACCESS PROCEDURES:

See Customs Appendix A.

CONTESTING RECORD PROCEDURES:

See Access, above.

RECORD SOURCE CATEGORIES:

From memoranda received from Ports. Data transcribed from Payment Vouchers.

EXEMPTIONS CLAIMED FOR THE SYSTEM:

None.

Treasury/CS .251

SYSTEM NAME:

Unscheduled Overtime Report (Customs Form 31)_Treasury/Customs.

SYSTEM LOCATION:

Director, Office of Operations, 6 World Trade Center, Room 508, New York, NY 10048.

CATEGORIES OF INDIVIDUALS COVERED BY THE SYSTEM:

Special Agents assigned to the office of Regional Director of Investigations authorized to receive unscheduled overtime remuneration.

CATEGORIES OF RECORDS IN THE SYSTEM:

Customs Form 31 enumerates the nature of overtime performed, the number of hours and the date on which the overtime was performed and the case number of investigation.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

The information in this system is contained on CF 31, the forms are contained within a file folder and are placed in a metal file cabinet.

RETRIEVABILITY:

By name.

SAFEGUARDS:

The file cabinet is maintained within the area assigned to the Director of Investigations, New York, within the Customhouse. During non-working hours the complex in which the file is located is locked and access to the building is controlled at all times by uniform guards.

RETENTION AND DISPOSAL:

The forms are destroyed after three (3) years.

SYSTEM MANAGER(S) AND ADDRESS:

Regional Director of Investigations. (See Customs appendix A.)

NOTIFICATION PROCEDURE:

See Customs appendix A.

RECORD ACCESS PROCEDURES:

See Customs appendix A.

CONTESTING RECORD PROCEDURES:

See Access, Customs appendix A.

RECORD SOURCE CATEGORIES:

The information in this system originates from the Special Agent who performs the unscheduled overtime.

EXEMPTIONS CLAIMED FOR THE SYSTEM:

None.

Treasury/CS .252

SYSTEM NAME:

Valuables Shipped Under the Government Losses in Shipment Act—Treasury/Customs.

SYSTEM LOCATION:

Director, Customs Management Center, 610 S. Canal Street, Chicago, IL 60607.

CATEGORIES OF INDIVIDUALS COVERED BY THE SYSTEM:

Customs employees collecting and transmitting funds to cashier for deposit.

CATEGORIES OF RECORDS IN THE SYSTEM:

Name of employee, collection document serial numbers, amount of collection.

AUTHORITY FOR MAINTENANCE OF THE SYSTEM:

Section 300.30, Customs Accounting Manual; 5 U.S.C. 134f; 5 U.S.C. 301.

ROUTINE USES OF RECORDS MAINTAINED IN THE SYSTEM, INCLUDING CATEGORIES OF USERS AND THE PURPOSES OF SUCH USES:

These records and information in the records may be used to: (1) Disclose to those officers and employees of the Customs Service and the Department of the Treasury who have a need for the records in the performance of their duties; (2) disclose records as required in administration of the Freedom of Information Act (5 U.S.C. 552).

POLICIES AND PRACTICES FOR STORING, RETRIEVING, ACCESSING, RETAINING, DISPOSING OF RECORDS IN THE SYSTEM:

STORAGE:

Filed in folders with the individual’s name appearing at the top thereof in a file cabinet.

RETRIEVABILITY:

Each record folder is filed by name of individual.

SAFEGUARDS:

The cabinet described above is maintained within the area assigned in the Customs office. During non-working hours the area in which the cabinet is located is secured.

RETENTION AND DISPOSAL:

Retained for three years and then forwarded to FRC for seven years retention.

SYSTEM MANAGER(S) AND ADDRESS:

Port Director, as appropriate, in the Mid-America Customs Management Center, Chicago, IL 60607.

NOTIFICATION PROCEDURE:

See Customs appendix A.

RECORD ACCESS PROCEDURES:

See Customs appendix A.

CONTESTING RECORD PROCEDURES:

See Access, Customs appendix A.

RECORD SOURCE CATEGORIES:

Data submitted by individual Customs employee involved.

EXEMPTIONS CLAIMED FOR THE SYSTEM:

None.

Treasury/CS .258

SYSTEM NAME:

Violator’s Case Files—Treasury/Customs.

SYSTEM LOCATION:

Port Director of Customs, U.S. Customs Service, 50 South Main St., Suite 10012, St. Albans, VT 05478.

CATEGORIES OF INDIVIDUALS COVERED BY THE SYSTEM:

Individuals involved in smuggling, filing false invoices, documents or statements, violators of Customs bonds, or any violation of Customs laws.

CATEGORIES OF RECORDS IN THE SYSTEM:

Individual’s name and address, Social Security number and physical description; alias, occupation, type of violation, previous record, driver’s license, passport number, notes from inspectors involved, and any other supporting documents.

AUTHORITY FOR MAINTENANCE OF THE SYSTEM:

5 U.S.C. 301; Treasury Department Order No. 165, Revised, as amended.

Routine uses of records maintained in the system, including categories of users and the purposes of such uses:

These records and information in the records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency’s or the bureau’s hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency’s functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

File folders and 3 x 5 index cards.

RETRIEVABILITY:

Filed by case number.

SAFEGUARDS:

Files are under the supervision of Fines, Penalties and Forfeitures Officer from 8 a.m. to 5 p.m., Monday through Friday. All other hours, office remains locked.

RETENTION AND DISPOSAL:

Files are maintained in the office of the Fines, Penalties, and Forfeitures Officer for a period of five years or six years. At the conclusion of this period, they are destroyed by shredding.

SYSTEM MANAGER(S) AND ADDRESS:

Port Director, U.S. Customs Service, St. Albans, VT 05478.

NOTIFICATION PROCEDURE:

See Customs appendix A.

RECORD ACCESS PROCEDURES:

See Customs appendix A.

CONTESTING RECORD PROCEDURES:

See Access, Customs appendix A.

RECORD SOURCE CATEGORIES:

See “Categories of individuals covered by the system” above. The system contains material for which sources may not need to be reported.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .260

SYSTEM NAME:

Warehouse Proprietor Files-Treasury/Customs.

SYSTEM LOCATION:

Mid-America Customs Management Center, 610 S. Canal St., Suite 900, Chicago, IL 60607.(See Customs appendix A.)

CATEGORIES OF INDIVIDUALS COVERED BY THE SYSTEM:

Present and past warehouse proprietors and employees that require an investigation and related information.

CATEGORIES OF RECORDS IN THE SYSTEM:

Report of investigations, application and approval or denial of bond to act as warehouse proprietor and other Customs Service Memoranda. Names, addresses, Social Security numbers, and dates and places of birth of persons employed.

AUTHORITY FOR MAINTENANCE OF THE SYSTEM:

Customs Regulations, part 19, 5 U.S.C. 301.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency’s or the bureau’s hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency’s functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Records are maintained in file folders and stored in file cabinets in each Port Director’s office within the Mid-America Customs Management Center, Chicago, IL 60607.

RETRIEVABILITY:

Each file is identified by the name of the warehouse proprietor.

SAFEGUARDS:

The file cabinets are maintained within the area assigned to the District Director. During non-working hours the room and/or building in which the file cabinet is located is locked.

RETENTION AND DISPOSAL:

Employee name data retained for period of employment with warehouse proprietor.

SYSTEM MANAGER(S) AND ADDRESS:

Port Director, as appropriate, in the Mid-America Customs Management Center, Chicago, IL 60607. (See Customs appendix A.)

NOTIFICATION PROCEDURE:

See Customs appendix A.

RECORD ACCESS PROCEDURES:

See Customs appendix A.

CONTESTING RECORD PROCEDURES:

See Access, Customs appendix A.

RECORD SOURCE CATEGORIES:

The information in this file originates from the individual applicant for warehouse proprietor’s bond, from reports of investigation, and other Customs Memoranda.

EXEMPTIONS CLAIMED FOR THE SYSTEM:

This system is exempt from 5 U.S.C. 552a(c)(3), (d)(1), (d)(2), (d)(3), (d)(4), (e)(1), (e)(4)(G), (H) and (I), and (f) of the Privacy Act pursuant to 5 U.S.C. 552a (k)(2). (See 31 CFR 1.36.)

Treasury/CS .262

SYSTEM NAME:

Warnings to Importers in lieu of Penalty—Treasury/Customs.

SYSTEM LOCATION:

Located in the Office of the Director, Customs Management Center, 610 S. Canal St., Suite 900, San Diego, CA 92101; Offices of the Port Directors, U.S. Border Station, San Ysidro, CA 92073; PO Box 189, Tecate, CA 92080; PO Box 632, Calexico, CA 92231; 235 Andrade Road, Winterhaven, CA 92283; Andrade, CA; San Diego Barge Office.

CATEGORIES OF INDIVIDUALS COVERED BY THE SYSTEM:

Individuals and firms in violation of Customs's laws.

CATEGORIES OF RECORDS IN THE SYSTEM:

Brief record of violation and warning.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency’s or the bureau’s hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

Maintained on 5 x 7 cards.

RETRIEVABILITY:

Alphabetically indexed.

SAFEGUARDS:

Not accessible to other than Customs officers.

RETENTION AND DISPOSAL:

The records are disposed of in accordance with the Treasury Records Control Manual.

SYSTEM MANAGER(S) AND ADDRESS:

Port Directors, and Directors within the Customs Management Center/Southern California Customs District. (See Customs appendix A.)

NOTIFICATION PROCEDURE:

See Customs appendix A.

RECORD ACCESS PROCEDURES:

See Customs appendix A.

Contesting record procedures:

See Access, Customs appendix A.

Record source categories:

Customs Officials.

EXEMPTIONS CLAIMED FOR THE SYSTEM:

None.

Treasury/CS .268

SYSTEM NAME:

Military Personnel and Civilian Employees' Claims Act File—Treasury/Customs.

SYSTEM LOCATION:

Office of the Associate Chief Counsel, U. S. Customs Service, 2323 South Shepherd Drive, Houston, TX 77019.

CATEGORIES OF INDIVIDUALS COVERED BY THE SYSTEM:

Current or former Customs employees filing claims under the Military Personnel and Civilian Employees' Claims Act of 1964.

CATEGORIES OF RECORDS IN THE SYSTEM:

Documents relating to the administrative handling of the claim and documents submitted by the claimant in support of the claim.

AUTHORITY FOR MAINTENANCE OF THE SYSTEM:

31 U.S.C. 240-243; 31 CFR part 4; Treasury Department Administrative Circular No. 131, August 19, 1965; 5 U.S.C. 301; Treasury Department Order No. 165, Revised, as amended.

ROUTINE USES OF RECORDS MAINTAINED IN THE SYSTEM, INCLUDING CATEGORIES OF USERS AND THE PURPOSES OF SUCH USES:

These records and information in the records may be used to provide information to a congressional office in response to an inquiry made at the request of the individual to whom the record pertains.

POLICIES AND PRACTICES FOR STORING, RETRIEVING, ACCESSING, RETAINING, DISPOSING OF RECORDS IN THE SYSTEM:

STORAGE:

Each case file is inserted alphabetically in a file folder which is filed in an unlocked drawer within a metal container.

RETRIEVABILITY:

Each case file is identified alphabetically in the file folder within the metal container by the name of the person who filed the claim.

SAFEGUARDS:

The metal container described above is maintained within the area assigned to the Office of the Regional Counsel (12th floor), 500 Dallas Street, Houston, TX 77002. During non-working hours the room in which the metal container is located is locked, and access to the building is controlled at all times by uniformed security guards provided by the lessor.

RETENTION AND DISPOSAL:

These files are retained until closed at which time the closed files are transferred to the Director, Logistics Management Division, Office of the Director, East Texas Customs Management Center, Houston, TX, for ultimate transportation to the Federal Record Center.

SYSTEM MANAGER(S) AND ADDRESS:

Associate Chief Counsel, U. S. Customs Service, 2323 South Shepherd Drive., Houston, TX 77019.

NOTIFICATION PROCEDURE:

See Customs appendix A.

RECORD ACCESS PROCEDURES:

See Customs appendix A.

CONTESTING RECORD PROCEDURES:

See Access, Customs appendix A.

RECORD SOURCE CATEGORIES:

The information contained in these files originates with the Treasury Department Form No. 3079, Civilian Employee Claim For Loss or Damage to Personal Property, which is completed and filed with the Customs Service by the claimant. Additional information contained in these files may be separately provided by the claimant or by the claimant’s supervisor.

EXEMPTIONS CLAIMED FOR THE SYSTEM:

None.

Treasury/CS .269

SYSTEM NAME:

Accounts Payable Voucher File—Treasury/Customs.

SYSTEM LOCATION:

Financial Management Division, U.S. Customs Service, Gulf Customs Management Center, 423 Canal Street, New Orleans, LA 70130.

CATEGORIES OF INDIVIDUALS COVERED BY THE SYSTEM:

All South Central Region personnel to whom travel and other disbursements are made. All individuals who provide goods and services to the South Central Region.

CATEGORIES OF RECORDS IN THE SYSTEM:

Invoices and travel/other vouchers and supporting disbursements schedules.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Provide information to a congressional office in response to an inquiry made at the request of the individual to whom the record pertains; (2) provide information to unions recognized as exclusive bargaining representatives under the Civil Service Reform Act of 1978, 5 U.S.C. 7111 and 7114.

POLICIES AND PRACTICES FOR STORING, RETRIEVING, ACCESSING, RETAINING, DISPOSING OF RECORDS IN THE SYSTEM:

STORAGE:

File folders in unlocked file cabinets.

RETRIEVABILITY:

By name.

SAFEGUARDS:

Usage limited to Regional personnel; cabinets are located in rooms which are locked during non-working hours.

RETENTION AND DISPOSAL:

In accordance with Records Control Manual; records are disposed of when no longer needed.

SYSTEM MANAGER(S) AND ADDRESS:

Director, Financial Management Division, U.S. Customs Service, Gulf Customs Management Center, 423 Canal Street, New Orleans, LA 70130.

NOTIFICATION PROCEDURE:

See Customs appendix A.

RECORD ACCESS PROCEDURES:

See Customs appendix A.

CONTESTING RECORD PROCEDURES:

See Access, Customs appendix A.

RECORD SOURCE CATEGORIES:

Invoices and travel/other vouchers submitted by the individual.

EXEMPTIONS CLAIMED FOR THE SYSTEM:

None.

Treasury/CS .270

SYSTEM NAME:

Background—Record File of Non-Customs Employees—Treasury/Customs.

SYSTEM LOCATION:

Office of Internal Affairs, U.S. Customs Service, 1300 Pennsylvania Ave. NW Washington, D.C.

CATEGORIES OF INDIVIDUALS COVERED BY THE SYSTEM:

Present and past non-Customs personnel requiring a background investigation to be granted a permit to conduct Customs business.

CATEGORIES OF RECORDS IN THE SYSTEM:

Report of background investigations, names, addresses, Social Security numbers and date and place of birth, etc. of non-Customs employees.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

Records are maintained in file folders and stored in file cabinets in the Director's office. Records are also maintained in computer format in ports providing internal aircraft arrival/departure services.

RETRIEVABILITY:

Each file is identified by the name of the non-Customs employee.

SAFEGUARDS:

The file cabinets are maintained within the area assigned to the Director. During non-working hours the room and/or building in which the file cabinet is located is locked. Computer format are maintained in locked access areas within each respective district and/or port office.

RETENTION AND DISPOSAL:

Employee name data is retained during the period the non-Customs employee requires admittance to restricted areas.

SYSTEM MANAGER(S) AND ADDRESS:

Personnel Security Division, Office of Internal Affairs, Customs Headquarters. (For addresses see Customs Service appendix A).

NOTIFICATION PROCEDURE:

See Customs appendix A.

RECORD ACCESS PROCEDURES:

See Customs appendix A.

CONTESTING RECORD PROCEDURES:

See Access, Customs appendix A.

RECORD SOURCE CATEGORIES:

The information in this file originates from the individual non-Customs employee granted a permit to conduct Custom's business and from reports of background investigation which include interviews of Customs personnel and private parties and from other Customs internal documents.

EXEMPTIONS CLAIMED FOR THE SYSTEM:

This system is exempt from 5 U.S.C. 552a (c)(3), (c)(4), (d)(1), (d)(2), (d)(3), (d)(4), (e)(1), (e)(2), (e)(3), (e)(4)(G), (H) and (I), (5) and (8), (f) and (g) of the Privacy Act pursuant to 5 U.S.C. 552a (j)(2) and (k)(2). (See 31 CFR 1.36.)

Treasury/CS .271

SYSTEM NAME:

Cargo Security Record System—Treasury/Customs.

SYSTEM LOCATION:

Director, Customs Management Center, 423 Canal Street, New Orleans, LA 70130; Port Director, PO Box 2748, Mobile, AL 36601.

CATEGORIES OF INDIVIDUALS COVERED BY THE SYSTEM:

Drivers of motor vehicles or licensed cartmen and lightermen; properties and operators of each class of Customs bonded warehouse and their employees.

CATEGORIES OF RECORDS IN THE SYSTEM:

Records on drivers of motor vehicles contain information relating to personal statistical data, physical characteristics, history of past employment, previous five years residences, alias (if any), citizenship, military records, criminal record other than traffic violations, use of narcotic drugs, and photograph. Name of operator of bonded warehouse and employees.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local, or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to the news media in accordance with guidelines contained in 28 CFR 50.2 which relate to an agency's functions relating to civil and criminal proceedings; (5) provide information to third parties during the course of an investigation to the extent necessary to obtain information pertinent to the investigation.

POLICIES AND PRACTICES FOR STORING, RETRIEVING, ACCESSING, RETAINING, DISPOSING OF RECORDS IN THE SYSTEM:

STORAGE:

File folder with Customs Form 3078, Customs Form 73, Photographs, and correspondence; For bonded warehouses, file folder contains Customs Form 3581 and names, addresses, and Social Security number of all employees; all stored in metal file cabinet. Alphabetical list of current I.D. cards issued on drivers retained in file folder and stored in desk drawer.

RETRIEVABILITY:

By individual name or corporate name.

SAFEGUARDS:

Locked metal file cabinet and desk drawer of customs employee; building secured after hours.

RETENTION AND DISPOSAL:

Information on drivers is retained in an active file until revoked or canceled. After revocation or cancellation, the information folder is placed in an inactive file for a period of five years, after which time the records are disposed of in accordance with the General Services Administration Records Disposal Manual. Information on proprietor bonded warehouse operators and employees is retained on file until Customs bonded operations cease and are discontinued, then are maintained in an inactive file for a period of three years. Final disposition is in accordance with the GSA Records Disposal Manual.

SYSTEM MANAGER(S) AND ADDRESS:

Director, Customs Management Center, 423 Canal Street, New Orleans, LA 70130; Port Director, PO Box 2748, Mobile, AL 36601.

NOTIFICATION PROCEDURE:

See Customs appendix A.

RECORD ACCESS PROCEDURES:

See Customs appendix A.

CONTESTING RECORD PROCEDURES:

See Access, Customs appendix A.

RECORD SOURCE CATEGORIES:

Information is obtained from applicant (individual or corporation) and from reports of investigation on drivers obtained from Regional Director, Investigations, U.S. Customs Service.

EXEMPTIONS CLAIMED FOR THE SYSTEM:

This system is exempt from 5 U.S.C. 552a (c)(3), (d)(1), (d)(2), (d)(3), (d)(4), (e)(1), (e)(4)(G), (H) and (I), and (f) of the Privacy Act pursuant to 5 U.S.C. 552a (k)(2). (See 31 CFR 1.36.)

Treasury/CS .272

SYSTEM NAME:

Currency Declaration File (Customs Form 4790)—Treasury/Customs.

SYSTEM LOCATION:

Law Enforcement Systems Division, U.S. Customs Service, PO Box 85145, San Diego, CA 92138 (for addresses of Port Directors, see Customs appendix A).

CATEGORIES OF INDIVIDUALS COVERED BY THE SYSTEM:

Individuals departing from or entering the country who filed IRS Form 4790.

CATEGORIES OF RECORDS IN THE SYSTEM:

Name, identifying number, birth date, address, citizenship, visa date and place, immigration alien number, kinds and amounts of monetary instruments, address in the United States or abroad, passport number and country, and arrival or departure information.

AUTHORITY FOR MAINTENANCE OF THE SYSTEM:

31 U.S.C. 1101; 5 U.S.C. 301; Treasury Department Order No. 165, revised, as amended.

ROUTINE USES OF RECORDS MAINTAINED IN THE SYSTEM, INCLUDING CATEGORIES OF USERS AND THE PURPOSES OF SUCH USES:

Disclosures are not made outside the Department.

POLICIES AND PRACTICES FOR STORING, RETRIEVING, ACCESSING, RETAINING, DISPOSING OF RECORDS IN THE SYSTEM:

STORAGE:

The Form 4790 is maintained in a file folder or binder in an initial file cabinet. Information is stored chronologically in TECS II.

RETRIEVABILITY:

They are indexed and filed by name and date in the folder or binder. They can be retrieved by computer and printed.

SAFEGUARDS:

The office and building are locked during non-working hours. Electronic data is limited to persons cleared for access to the data.

RETENTION AND DISPOSAL:

The records are retained from one to five years and then destroyed.

SYSTEM MANAGER(S) AND ADDRESS:

Port Directors of Customs.

NOTIFICATION PROCEDURE:

See Customs appendix A.

RECORD ACCESS PROCEDURES:

See Customs appendix A.

CONTESTING RECORD PROCEDURES:

See Access, Customs appendix A.

RECORD SOURCE CATEGORIES:

The information on the Customs Form 4790 originates from the individual or Customs agent reporting the bringing in or taking out of currency or monetary instruments exceeding 10,000 dollars.

EXEMPTIONS CLAIMED FOR THE SYSTEM:

None.

Treasury/CS .274

SYSTEM NAME:

Importers, Brokers, Carriers, Individuals and Sureties Master Files—Treasury/Customs.

SYSTEM LOCATION:

Office of Financial Management, 909 SE First Avenue, Miami, FL 33131.

CATEGORIES OF INDIVIDUALS COVERED BY THE SYSTEM:

Brokers, Importers, Individuals, Carriers, and Sureties.

CATEGORIES OF RECORDS IN THE SYSTEM:

Copies of correspondence incoming and outgoing, copies of bonds, entries, bills, data center listings.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in these records may be used to provide information to a congressional office in response to an inquiry made at the request of the individual to whom the record pertains.

POLICIES AND PRACTICES FOR STORING, RETRIEVING, ACCESSING, RETAINING, DISPOSING OF RECORDS IN THE SYSTEM:

STORAGE:

Files are maintained in an unlocked drawer within a metal file cabinet.

RETRIEVABILITY:

Alphabetical by name appearing on correspondence.

SAFEGUARDS:

The metal container described above is maintained within the area assigned to the Financial Management Division within the Customs Service Building. During non-working hours the room in which the metal container is located is locked.

RETENTION AND DISPOSAL:

These files are retained until there is no longer any space available for them within the metal container, at which time the oldest files are transferred to the Federal Records Center.

SYSTEM MANAGER(S) AND ADDRESS:

Director, Office of Financial Management, 909 SE First Avenue, Miami, FL 33131.

NOTIFICATION PROCEDURE:

See Customs appendix A.

RECORD ACCESS PROCEDURES:

See Customs appendix A.

CONTESTING RECORD PROCEDURES:

See Access, Customs appendix A.

RECORD SOURCE CATEGORIES:

Correspondence, Customs Service Data Center and Ports.

EXEMPTIONS CLAIMED FOR THE SYSTEM:

None.

Treasury/CS .278

SYSTEM NAME:

Automated Commercial System (ACS)—Treasury/Customs.

SYSTEM LOCATION:

The Computer is located in Newington, Virginia. Computer terminals are located at Customhouses and ports throughout the United States and at U.S. Customs Headquarters, Washington DC (For addresses of Customhouses, see Customs appendix A.)

CATEGORIES OF INDIVIDUALS COVERED BY THE SYSTEM:

U.S. Customs Service employees and individuals involved in the import trade.

CATEGORIES OF RECORDS IN THE SYSTEM:

The system data base is comprised of commodity and merchandise processing information relating to Customs administration of trade laws. The following system files may contain information about U.S. Customs Services employees and/or individuals/ companies involved in the import trade. (1) ACS Security Files: Contains randomly established five-digit identification codes assigned to Customs Service employees authorized to use the system. The file consists of the names and social security number of all Customs Service employees using the remote terminals to input information into the system. (2) Importer/Broker/Consignee Bond Files and FP and F Violator-Protest files: Records consist of importer of record number, importer name and address, type of importation bond, expiration date, surety code, violation statistics and protest information. The importer of record number is used as the method of accessing the files. The number is assigned by any one of three code formats according to availability and the following hierarchy. The first choice is the IRS Employer Identification Number (EIN). The vast majority of importers have the EIN because of the business necessity of it. The second alternative is the Social Security number (SSN). The third alternative is a Customs-assigned number. This file is referenced during entry processing to verify that the individual or company making entry is authorized to import and is properly bonded. (3) Entry Files: A record consists of a three-digit Customs—assigned Customhouse broker or importer number (non-SSN) and the name and address. The file is referenced during entry processing to validate the entry file code and is used to direct system output to the broker or importer. (4) Corporate Surety Power of Attorney and Bond Files: The data consists of names of agents who are authorized to write a Customs bond and their SSN, a three-digit surety code (non-SSN) assigned by the Customs Accounting Division, the surety name and Customs bond information. (5) Liquidator File: A record consists of a Customs-assigned three-digit liquidator identification (non-SSN) and a Customs employee's name. The employee's liquidator code is input into the system as a means of maintaining quality control and an audit trail on entries liquidated. (6) Foreign Manufacturer/Shipper File: The file contains an identification code constructed using a formula based on name and address, manufacturer name and address reported by importers and brokers on Customs entry forms or electronic formats. Carrier Files: This file consists of carrier names and codes (non SSN) which are 4 characters—Standard Carrier Agent Code (SCA) for vessel carriers and 2 or 3 character—International Air Transport Association (IATA) for air carriers. This code is used to validate data input to the manifest and entry processing systems and to direct system output to the carrier.

AUTHORITY FOR MAINTENANCE OF THE SYSTEM:

19 U.S.C. 66, 1448, 1481, 1483, 1484, 1505, and 1624.

ROUTINE USES OF RECORDS MAINTAINED IN THE SYSTEM, INCLUDING CATEGORIES OF USERS AND THE PURPOSES OF SUCH USES:

These records and information in the records may be used to: (1) Disclose to the Bureau of the Census by providing magnetic tapes containing foreign trade data; (2) disclose pertinent information to appropriate Federal, State, local or foreign agencies responsible for investigating or prosecuting the violations of, or for enforcing or implementing, a statute, rule, regulation, order, or license, where the disclosing agency becomes aware of an indication of a violation or potential violation of civil or criminal law or regulation; (3) disclose information to a Federal, State, or local agency, maintaining civil, criminal or other relevant enforcement information or other pertinent information, which has requested information relevant to or necessary to the requesting agency's or the bureau's hiring or retention of an individual, or issuance of a security clearance, license, contract, grant, or other benefit; (4) disclose information to a court, magistrate, or administrative tribunal in the course of presenting evidence, including disclosures to opposing counsel or witnesses in the course of civil discovery, litigation, or settlement negotiations, in response to a subpoena, or in connection with criminal law proceedings; (5) provide information to third parties during the course of an investigation to the extent necessary to obtain information pertinent to the investigation.

POLICIES AND PRACTICES FOR STORING, RETRIEVING, ACCESSING, RETAINING, DISPOSING OF RECORDS IN THE SYSTEM:

STORAGE:

Magnetic Media.

RETRIEVABILITY:

By identification codes and/or name.

SAFEGUARDS:

Access to computer area is controlled by a security pass arrangement and personnel not connected with the operation of the computer are prohibited from entering. The building security is protected by a uniformed guard. At the ports of processing, terminal rooms are under close supervision during working hours and locked after close of business. The system security officer issues a unique private five digit identification code to each authorized user. Access to the Customs computer from other than system terminals is controlled through a security software package. Users must input a unique identification code and password during the terminal log-in procedure to gain access to the system. The password is not printed or displayed at the port of processing. The system validates the user ID by transaction type, thereby limiting a system user's access to information on a “need-to-know” basis. A listing of identification codes of authorized users can be printed only by request of the security officer. The passwords are changed periodically to enhance security.

RETENTION AND DISPOSAL:

Files are periodically updated to reflect changes, etc., and are disposed of in accordance with the requirements of the Treasury Records Control Manual.

SYSTEM MANAGER(S) AND ADDRESS:

Director, Office of Automated Systems, Customs Service Headquarters, 1300 Pennsylvania Avenue, NW., Washington, DC 20229, is responsible for all data maintained in the files.

NOTIFICATION PROCEDURE:

See Customs appendix A.

RECORD ACCESS PROCEDURES:

See Customs appendix A.

CONTESTING RECORD PROCEDURES:

See Access, Customs appendix A.

RECORD SOURCE CATEGORIES:

The system data base contains data received on authorized Customs forms or electronic formats from individuals and/or companies incidental to the conduct of foreign trade and required by the Customs Service in administering the tariff laws and regulations of the United States.

EXEMPTIONS CLAIMED FOR THE SYSTEM:

None.

Treasury/CS .284

SYSTEM NAME:

Personnel Verification System (PVS)-Treasury/Customs.

SYSTEM LOCATION:

Office of Information and Technical Services, U.S. Customs Service, 1300 Pennsylvania Avenue, NW., Washington, DC 20229, and Regional Offices of the U.S. Customs Service. (See Customs appendix A.)

CATEGORIES OF INDIVIDUALS COVERED BY THE SYSTEM:

Authorized Customs personnel and non-Customs personnel who have received authorization to use the Regional Communications Centers.

CATEGORIES OF RECORDS IN THE SYSTEM:

Individual identifiers including but not limited to name, office address, home address, office telephone number, home telephone number, badge number, Social Security number, radio call sign, page number, organization, and unit.

AUTHORITY FOR MAINTENANCE OF THE SYSTEM:

5 U.S.C. 301; Treasury Department Order No. 165, Revised, as amended.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

(1) Alphabetic or numerical listings or card files; (2) microfiche; (3) magnetic disc and tapes; (4) other electronic storage media.

RETRIEVABILITY:

By name, call sign, paging number, Social Security number, badge number, organizational code.

SAFEGUARDS:

Records are located in controlled access areas with alarm protection systems. Offices are staffed twenty-four hours a day, seven days a week.

RETENTION AND DISPOSAL:

Records are maintained in the system until such time as the individual is no longer authorized usage of the Regional Communications Center. Disposal is by erasure of disc/tapes, shredding and/or burning of listings or card files, and burning of microfiche.

SYSTEM MANAGER(S) AND ADDRESS:

Assistant Commissioner, Office of Information and Technical Services, U.S. Customs Service, 1300 Pennsylvania Avenue, NW., Washington, DC 20229.

NOTIFICATION PROCEDURE:

See Customs appendix A.

RECORD ACCESS PROCEDURES:

See Customs appendix A.

CONTESTING RECORD PROCEDURES:

See Access, Customs appendix A.

RECORD SOURCE CATEGORIES:

The sources include but are not limited to (1) the individual to whom the record relates; (2) internal Customs Service records; (3) Personnel Verification Sheet.

EXEMPTIONS CLAIMED FOR THE SYSTEM:

None.

Treasury/CS .285

SYSTEM NAME:

Automated Index to Central Investigative Files—Treasury/Customs.

SYSTEM LOCATION:

Office of Investigations, U.S. Customs Service, 1300 Pennsylvania Avenue NW., Washington, DC 20229.

CATEGORIES OF INDIVIDUALS COVERED BY THE SYSTEM:

(1) Known violators of U.S. Customs laws. (2) Convicted violators of U.S. Customs and/or drug laws in the United States and foreign countries. (3) Suspected violators of U.S. Customs or other related laws. (4) Private yacht masters and pilots arriving in the United States.

CATEGORIES OF RECORDS IN THE SYSTEM:

A listing of Memoranda of Information Received, Reports of Investigations; Search/Arrest/Seizure Reports, Penalties, and Forfeitures, reports required by Private Aircraft Reporting System, reports required by the Private Yacht Reporting System, reports on vessel violations. Reports relating to an individual, various other correspondence (letter, memoranda, etc.), which related to an individual in the Treasury Enforcement Communications System.

AUTHORITY FOR MAINTENANCE OF THE SYSTEM:

5 U.S.C. 301 and Treasury Department Order No. 165, Revised, as amended. Authority for the collection and maintenance of the report included in the system is: 19 U.S.C. 1603; 19 U.S.C. 1431; 19 U.S.C. 66; 31 CFR part 103.

ROUTINE USES OF RECORDS MAINTAINED IN THE SYSTEM, INCLUDING CATEGORIES OF USERS AND THE PURPOSES OF SUCH USES:

These records and information in the records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation; (2) disclose information to a Federal, State, or local agency, maintaining civil, criminal or other relevant enforcement information or other pertinent information, which has requested information relevant to or necessary to the requesting agency's or the bureau's hiring or retention of an individual, or issuance of a security clearance, license, contract, grant, or other benefit; (3) disclose information to a court, magistrate, or administrative tribunal in the course of presenting evidence, including disclosures to opposing counsel or witnesses in the course of civil discovery, litigation, or settlement negotiations, in response to a subpoena, or in connection with criminal law proceedings; (4) provide information to third parties during the course of an investigation to the extent necessary to obtain information pertinent to the investigation.

POLICIES AND PRACTICES FOR STORING, RETRIEVING, ACCESSING, RETAINING, DISPOSING OF RECORDS IN THE SYSTEM:

STORAGE:

Magnetic disc and tape, microfiche.

RETRIEVABILITY:

Name, personal identification numbers, Customs case number, document's central file number.

SAFEGUARDS:

(1) All Central Files users must have a full field background investigation. (2) The “need to know” principle applies. (3) Procedural and physical safeguards are utilized such as accountability and receipt records, guard patrolling restricted areas, alarm protection systems, special communication security. (4) Access is limited to all Office of Investigations terminals and all Law Enforcement Systems Division Headquarters and Newington, VA terminals.

RETENTION AND DISPOSAL:

Records will be maintained in the Automated Index to Central Enforcement files for as long as the associated document or microfiche is retained. Records will be destroyed by erasure of the magnetic disc and by burning the microfiche.

SYSTEM MANAGER(S) AND ADDRESS:

Assistant Commissioner, Office of Investigations, U.S. Customs Service, 1300 Pennsylvania Avenue, NW., Washington, DC 20229.

NOTIFICATION PROCEDURE:

This system of records may not be accessed for purposes of determining if the system contains a record pertaining to a particular individual. (See 5 U.S.C. 552a (e)(4)(G) and (f)(1).)

Record access procedures:

This system of records may not be accessed under the Privacy Act for the purpose of inspection.

CONTESTING RECORD PROCEDURES:

Since this system of records may not be accessed for purposes of determining if the system contains a record pertaining to a particular individual and those records, if any, cannot be inspected, the system may not be accessed under the Privacy Act for the purpose of contesting the content of the record.

RECORD SOURCE CATEGORIES:

This system contains investigatory material compiled for law enforcement purposes whose sources need not be reported.

EXEMPTIONS CLAIMED FOR THE SYSTEM:

This system is exempt from 5 U.S.C. 552a (c)(3), (c)(4), (d)(1), (d)(2), (d)(3), (d)(4), (e)(1), (e)(2), (e)(3), (e)(4)(G), (H) and (I), (5) and (8), (f) and (g) of the Privacy Act pursuant to 5 U.S.C. 552a (j)(2) and (k)(2). (See 31 CFR 1.36.)

Treasury/CS .286

SYSTEM NAME:

Electronic Job Application Processing System—Treasury/Customs.

SYSTEM LOCATION:

Located in U.S. Customs Headquarters Offices, 1300 Pennsylvania Avenue, NW, Washington DC. 20229 and at contractor's premises (contact the system administrator for the contractor address).

CATEGORIES OF INDIVIDUALS COVERED IN THE SYSTEM:

Individuals applying for job vacancies within the United States Customs Service.

CATEGORIES OF RECORDS IN THE SYSTEM:

Vacancy announcements, applications, applicant resumes, certificates of eligibles, rating information, test data, interview results and answers to Knowledge, Skill and Ability questions. Applicant data includes but is not limited to, name, address, social security number (SSN) and date of birth (DOB).

AUTHORITY FOR MAINTENANCE OF THE SYSTEM:

5 U.S.C. 301; Treasury Department Order No. 165, Revised, as amended.

PURPOSE(S):

The purpose of this electronic system of records is to more efficiently acquire, process, rate and rank job applicants for positions with the U.S. Customs Service. This system should result in positions being filled more quickly with the most qualified applicant.

ROUTINE USES OF RECORDS MAINTAINED IN THE SYSTEM, INCLUDING CATEGORIES OF USERS, AND THE PURPOSE OF SUCH USES:

These records may be used to: (1) Disclose pertinent information to appropriate Federal, State, local, or foreign agencies responsible for investigating or prosecuting the violations of, or for enforcing or implementing, a statute, rule, regulation, order, or license, where the disclosing agency becomes aware of an indication of a violation of civil or criminal law or regulation; (2) Disclose information to a Federal, State, or local agency maintaining civil, criminal or other relevant enforcement information or other pertinent information relevant to the requesting agency's or the Customs Service's hiring or retention of an individual, or issuance of a security clearance, license, contract, grant or other benefit; (3) Disclose information to a court, magistrate, or administrative tribunal in the course of presenting evidence, including disclosures to opposing counsel or witnesses in the course of civil discovery, litigation, or settlement negotiations, in response to a subpoena where relevant or potentially relevant to a proceeding, or in connection with criminal law proceedings; (4) Provide information to third parties during the course of an investigation to the extent necessary to obtain information pertinent to an investigation; (5) Disclose information to an agency contractor for the purpose of compiling, organizing, analyzing, programming, utilizing or otherwise refining records subject to the same limitations applicable to officers and employees of the U.S. Customs Service under the Privacy Act; (6) Provide information to the National Archives and Records Administration for use in records management inspections conducted under authority of 44 U.S.C. 2904 and 2908; (7) Disclose information to officials of the Merit Systems Protection Board, the Office of the Special Counsel, the Federal Labor Relations Authority, the Equal Employment Opportunity Commission, or the Office of Personnel Management when requested in performance of their authorized duties; (8) Disclose information to a Congressional office in response to an inquiry made at the request of the individual to whom the record pertains, and (9) provide information to officials of labor organizations recognized under the Civil Service Reform Act when relevant and necessary to their duties of exclusive representation concerning personnel policies, practices, and matters affecting work conditions.

POLICIES AND PRACTICES FOR STORING, RETRIEVING, ACCESSING, RETAINING, DISPOSING OF RECORDS IN THE SYSTEM:

STORAGE:

Magnetic media.

RETRIEVABILITY:

Records are indexed by name and Social Security Number.

SAFEGUARDS:

Records are accessed through Internet firewalls by authorized Customs employees through IRE Virtual Private Network (VPN) and a secure connection. The host servers are protected by controlled access procedures, which includes card key entry control and cipher locks.

RETENTION AND DISPOSAL:

Merit promotion case files are maintained for two years after the closing date of the announcement, or the final disposition of appeals, whichever is later in accordance with National Archives and Records Administration GRS-1.

SYSTEM MANAGER(S) AND ADDRESS:

Director, Staffing Policy, Office of Human Resources, U.S. Customs Service, 1300 Pennsylvania Ave., NW., Washington, DC. 20229.

NOTIFICATION PROCEDURE:

See Customs appendix A.

RECORD ACCESS PROCEDURE:

See Customs appendix A.

CONTESTING RECORD PROCEDURES:

See Customs appendix A.

RECORD SOURCE CATEGORIES:

Job applicants, and present and past employers, and other federal agencies.

EXEMPTIONS CLAIMED FOR THE SYSTEM:

None.

Appendix A—U. S. Customs Service

I. Notification, Record Access and Amendment Procedures

Notification and Record Access Procedures: Requests by an individual to be notified if the system of records contains records pertaining to him and requesting access to the records shall be in writing with envelope and letter clearly marked “Privacy Act Request” and directed to the Assistant Commissioner, Office of Regulations and Rulings, U.S. Customs Service, Rm. 3.4A, Ronald Reagan Bldg., 1300 Pennsylvania Avenue, NW, Washington, DC 20229, or to the Customs Management Center Director of the region in which the records are located (see addresses below).

The request may be presented in person between the hours of 9 a.m. and 4:30 p.m. Where the request is presented in person, the requester shall present adequate identification to establish his identity, and a comparison of his signature and those in the records may be made where the records contain the signature of the person to whom the records pertain. If an individual is unable to provide the requisite documents for identification purposes, he may be required to make a signed statement asserting identity and stipulating that he understands that knowingly or willfully seeking or obtaining access to records about another person under false pretenses is punishable by a fine of not more than $5,000.

Where the request is made in writing, it shall be accompanied by a notarized statement executed by the requester asserting identity and stipulating that he understands that knowingly or willfully seeking or obtaining access to records about another person under false pretenses is punishable by a fine of not more than $5,000. A comparison of his signature and those in the records may be made where the records contain the signature of the person to whom the records pertain.

Amendment Procedures: Requests by an individual contesting the context of a record within a system of records shall be in writing with the envelope and letter clearly marked “Privacy Act Amendment” and directed to the Assistant Commissioner, Office of Regulations and Rulings, U.S. Customs Service, 1300 Pennsylvania Avenue, NW, Washington, DC 20229, or to the Director of the Customs Management Center of the region in which the records are located. (See addresses below.)

II. Location

Addresses of Headquarters, U.S. Customs Service, Customs Management Centers, Regional Directors (Internal Affairs), Port Directors of Customs, and Customs Office of Enforcement field offices:

Headquarters U.S. Customs Service: 1300 Pennsylvania Avenue, NW, Washington, DC 20229.

Customs Management Centers

Arizona—4740 North Oracle Road, Suite 310, Tucson, AZ 85705, (520) 670-5900.

Caribbean Area—#1 La Puntilla St., Room 203, San Juan PR 00901, (787) 729-6950.

East Great Lakes—4455 Genesee St., Buffalo, NY 14225, (716) 626-0400.

East Texas—2323 S. Shepherd St., Suite 1200, Houston, TX 77019, (713) 313-2843.

Gulf—423 Canal St., Room 337, New Orleans, LA 70130, (504) 670-2404.

Mid-America—610 S. Canal St. Suite 900, Chicago, IL 60607, (312) 353-4733.

Mid Atlantic—103 S. Gay St., Suite 208, Baltimore, MD 21202, (410) 962-6200.

Mid Pacific—33 New Montgomery St., Suite 1601, San Francisco, CA 94105, (415) 744-1530,

New York—6 World Trade Center, Room 716, New York, NY 10048, (212) 466-4444.

North Atlantic—10 Causeway St., Room 801, Boston, MA 02222, (617) 565-6210.

North Florida—1624 E. Seventh Ave., Suite 301, Tampa, FL 33605, (813) 228-2381.

North Pacific—90332 N.E. Alderwood Rd., Portland, OR 97220, (503) 326-7625.

Northwest Great Plains—1000 Second Ave., Suite 2000, Seattle, WA 98104, (206) 553-6944.

South Atlantic—1691 Phoenix Blvd., Suite 270, College Park, GA 30349, (770) 994-2306

South Florida—909 SE First Ave. Suite 980, Miami, FL 33131, (305) 536-6600.

South Pacific—One World Trade Center, Suite 705, Long Beach, CA 90831 (562) 980-3100.

South Texas—PO Box 3130, Laredo, TX 78044, (956) 718-4161

Southern California—610 W. Ash St., Suite 1200, San Diego, CA 92101, (619) 557-5455.

West Great Lakes—613 Abbott St., 3rd Floor, Detroit, MI 48226, (313) 226-2955.

West Texas/New Mexico—9400 Viscount Blvd., Suite 104, El Paso, TX 79925, (915) 540-5800.

Office of Internal Affairs Field Offices

Regional Director (Internal Affairs), 10 Causeway Street, Boston, MA 02110.

Resident Agent in Charge (Internal Affairs), 6 World Trade Center, New York, N.Y. 10048.

Resident Agent in Charge (Internal Affairs), 1000 Bricknell Avenue, Miami, FL 33101.

Resident Agent in Charge (Internal Affairs), 423 Canal Street, New Orleans, LA 70112.

Special Agent in Charge (Internal Affairs), 2323 S. Shepherd Street, Houston, TX 77002.

Resident Agent in Charge (Internal Affairs), 610 S. Canal Street, Chicago, IL. 60603.

Special Agent in Charge (Internal Affairs), One World Trade Center, Long Beach, CA 90815

Customs Service/Area Ports Offices

Anchorage: 605 West Fourth Avenue, Room 205, Anchorage, AK 99501 (907) 271-2675.

Atlanta: 700 Doug Davis Drive, Atlanta, GA 30354 (404) 763-7020.

Baltimore: 40 S. Gay St, Baltimore, MD 21202 (410) 962-2666.

Baton Rouge: 5353 Essen Lane, Baton Rouge, LA 70809 (504) 389-0261.

Blaine: 9901 Pacific Highway, Blaine, WA 98230 (360) 332-5771.

Boston: 10 Causeway Street, Boston, MA 02222-1059 (617) 565-6147.

Buffalo: 111 West Huron Street, Buffalo, NY 14202-2378 (716) 551-4373.

Calais: 1 Main Street, Calais, ME 04619 (207) 454-3621.

Calexico: PO Box 632, Calexico, CA 92231 (619) 357-7310.

Champlain: 198 West Service Road, Champlain, NY 12919-8314 (518) 298-8347.

Charleston: 200 East Bay Street, Charleston, SC 29401 (803) 727-4296.

Charlotte: 1801-K Cross Beam Drive, Charlotte, NC 28217 (704) 329-6101.

Charlotte/Amalie: Main Post Ofc-Sugar Estate, St. Thomas, VI 00801 (809) 774-2911.

Chicago: 610 South Canal Street, Chicago, IL 60607 (312) 353-6100.

Christiansted: Church Street PO Box 249, Christianstedt/ St.Croix, VI 00820 (809) 773-1490.

Cleveland: 55 Erieview Plaza, 6th Floor, Cleveland, OH 44114. (216) 891-3804

Dallas/Ft. Worth: PO Box 619050, DFW Airport, TX 75261-4818 (972) 574-2170.

Denver: 4735 Oakland Street, Denver, CO 80239 (303) 361-0715.

Derby Line: Interstate 91, Derby Line, VT 05830 (802) 873-3489.

Detroit: 477 Michigan Avenue, Detroit, MI 48226 (313) 226-3178.

Douglas: 1st Street & Pan American Avenue, Douglas, AZ 85607 (602) 364-8486.

Duluth: 515 West 1 St Street, Duluth, MN 55802-1390 (218) 720-5201.

El Paso: 9400 Viscount Boulevard, El Paso, TX 79925 (915) 540-5800.

Grand Rapids: 6450 Air Cargo Dr., Grand Rapids, MI 49512 (616) 456-2515.

Great Falls: 21 Third St., N., Suite 201, Great Falls, MT 59401 (406) 453-7631.

Greenville/Spartanburg: 150-A West Phillips Road, Greer, SC 29650 (864) 877-8006.

Harrisburg: Harrisburg International Airport, Bldg 135, Middletown, PA 17057-5035 (717) 782-4510.

Hartford: 135 High Street, Hartford, CT 06103 (203) 240-4306.

Highgate Springs: 480 Welcome Center Rd., Swanton, VT 05488 (802) 868-2778.

Honolulu: 1001 Bishop St., Suite 2500, Pacific Tower Bldg. Honolulu, HI 968813 (808) 522-8060.

Houlton: RR 3, Box 5300, Houlton, ME 04730 (207) 532-2131.

Houston/Galveston: 3549 San Edigo, Suite 700, Houston, TX 27055 (713) 985-6712.

Jacksonville: 2831 Talleyrand Avenue, Jacksonville, FL 32206 (904) 232-3476.

Kansas City: 2701 Rockcreek Parkway, N. Kansas City, Mo 64116 (816) 374-6424.

Laredo/Columbia: PO Box 3130, Laredo, TX 78044 (210) 726-2267.

Los Angeles: 300 South Ferry Street, Room 1001, Terminal Island, CA 90731 (310) 514-6001.

Los Angeles Airport Area: 300 South Ferry Street, Terminal Island, CA 90731 (310) 514-6029.

Los Angeles/Long Beach Seaport Area: 300 South Ferry Street, Terminal Island, CA 90731 (310) 514-6002.

Louisville: 601 West Broadway, Room 43, Louisville, KY 40202 (502) 582-5186.

Miami Airport: 6601 Northwest 25th Street, Miami, FL 33222-5280 (305) 869-2800.

Miami Seaport: 1500 Port Blvd, Miami, FL 33132 (305) 536-5261.

Milwaukee: PO Box 37260, Milwaukee, WI 53237-0260 (414) 571-2860.

Minneapolis: 330 2nd Ave. South, Suite 560, Minneapolis, MN 55401 (612) 348-1690.

Mobile: 150 North Royal Street, Mobile, AL 36602 (205) 441-5106.

Nashville: 322 Knapp Blvd., Suite 160, Nashville, TN 31277-0008 (615) 736-5861.

New Orleans: 423 Canal Street, New Orleans, LA 70130 (504) 589-6353.

New York: 6 World Trade Center, New York, NY 10048 (212) 466-4444.

New York-JFK Area: Bldg #77, Jamaica, NY 11430 (718) 553-1542.

New York-NY/Newark Area: Hemisphere Center, Rm 200, Rts. 1 & 9 South, Newark, NJ 07114 (201) 645-3760.

Nogales: 9 North Grand Avenue, Nogales, AZ 85621 (520) 287-1410.

Norfolk: 200 Granby Street, Norfolk, VA 23510 (804) 441-3400.

Ogdensburg: 127 N. Water Street, Ogdensburg, NY 13669 (315) 393-0660.

Orlando: 5390 Bear Road, Orlando, FL 32827 (407) 825-4301.

Oroville: 33643 Hwy 97, Oroville, WA 98844 (509) 476-2955.

Pembina: 112 West Stoutsman, Pembina, ND 58271 (701) 825-6201.

Philadelphia: 2nd & Chestnut Streets, Room 102, Philadelphia, PA 19106 (215) 597-4605.

Phoenix: 1315 S. 27th Street, Phoenix, AZ 85034 (602) 379-3516.

Otay Mesa: 9777 via De La Amistad, San Diego, CA 92173 (619) 661-3305.

Port Huron: 526 Water Street, Room 301, Port Huron, MI 48060 (810) 985-7125.

Portland, ME: 312 Fore Street, Portland, ME 04112 (207)780-3326.

Portland, OR: PO Box 55580, Portland, OR 97238 (503) 326-2865.

Providence: 49 Pavilion Avenue, Providence, RI 02905 (401) 941-6326.

Raleigh/Durham: 120 Southcenter Court, Suite 500, Morrisville, NC 27560 (919) 467-3552.

Richmond: 4501 Williamsburg Rd., Suite G, Richmond, VA 23231 (804) 226-9675.

San Antonio: 9800 Airport Boulevard, Room 1103, San Antonio, TX 78216 (210) 821-6965.

San Diego: 610 West Ash Street, San Diego, CA 92188 (619) 557-6758.

San Francisco: 555 Battery Street, San Francisco, CA 94111 (415) 744-7700.

San Juan: #1 La Puntilla, San Juan, PR 00901 (809) 729-6965.

San Luis: PO Box H, San Luis, AZ 85349 (602) 627-8854.

Sault Ste. Marie: International Bridge Plaza, Sault Ste Marie, MI 49783 (906) 632-7221.

Savannah: 1 East Bay Street, Savannah, GA 31401 (912) 447-9400.

Seattle: 1000 2nd Avenue, Seattle, WA 98104-1049 (206) 553-0770.

Seattle Airport: SEA-TAC International Airport, Seattle, WA 98158 (206) 553-7960.

Seattle Waterfront: S. Novada St., Suite 100, Seattle, WA 98134 (206) 553-1581.

San Ysidro: 720 E. San Ysidro Blvd., San Ysidro, CA 92073 (619) 662-7201.

St. Albans: PO Box 1490, St. Albans, VT 05478 (802) 524-7352.

St. Louis: 4477 Woodson Road, Suite 100, St. Louis, MO 63134-3716 (314) 428-2662.

Syracuse: 4034 S. Service Road, Hancock International Airport, Syracuse, NY 13212 (315) 455-8446.

Tacoma: 2202 Tacoma Rd., Tacoma, WA 98421 (206) 593-6336.

Tampa: 1624 E. 7th Ave., Tampa, FL 33607 (813) 228-2381.

Tucson: 7150 South Tucson Boulevard, Tucson, AZ 85706 (520) 670-6461.

Washington, DC: PO Box 17423, Washington, DC 20041 (703) 318-5900.

Wilmington: 1 Virginia Avenue, Wilmington, NC 28401 (919) 815-4601.

Customs Investigations Field Offices

Special Agent in Charge, Room 801, 10 Causeway Street, Boston, MA 02222.

Resident Agent in Charge, P.O. Box 368, Derby Line, Vermont, 05830.

Resident Agent in Charge, P.O. Box 400, Houlton, Maine 04730.

Resident Agent in Charge, P.O. Box 4688 (DTS), Portland, Maine 04112.

Resident Agent in Charge, Federal Building, Suite 318, 150 Court Street, New Haven, CT 06510.

Resident Agent in Charge, P.O. Box 68, Rouses Point, New York 12979.

Special Agent in Charge, 40 South Gay Street, Room 424, Baltimore, Maryland 21202.

Resident Agent in Charge, Second and Chestnut Street, Room 200, Philadelphia, PA 19106.

Resident Agent in Charge, Room 826, Federal Building 1000 Liberty Avenue, Pittsburgh, PA 15222.

Special Agent in Charge, 6 World Trade Center, Room 716, New York, N.Y. 10048

Deputy Special Agent in Charge, JFK International Airport, Building 75, 2nd Floor, Jamaica, N.Y. 11430.

Resident Agent in Charge, Airport International Plaza, Suite 400, Routes 1 and 9 South, Newark, N.J. 07114.

Resident Agent in Charge, Leo O'Brien Federal Building, North Pearl Street, Room 746, Albany, N.Y. 12207.

Resident Agent in Charge, 575 Johnson Avenue, 2nd floor, Bohemia, New York 11716.

Special Agent in Charge, 423 Canal Street, Room 337, New Orleans, LA 70130.

Resident Agent in Charge 8312 Florida Boulevard, Suite 216B, Baton Rouge, LA 70806.

Resident Agent in Charge, Air Investigations, P.O. Box 980, Belle Chase, LA 70037.

Resident Agent in Charge, 600 Beacon Parkway West, Suite 725, Birmingham, AL 35209.

Resident Agent in Charge, P.O. Box 700, Dauphin Island, AL 36528.

Resident Agent in Charge, Security Building, Room 600, 2301 14th Street, Gulfport, MS 39501.

Resident Agent in Charge, Station 1, P.O. Box 10182, Houma, LA 70363.

Resident Agent in Charge, 100 West Capitol Street, Suite 1418, Jackson, MS 39269.

Resident Agent in Charge, 825 Kaliste Saloom, Brandywine, II, Suite 200, Lafayette, LA 70508.

Resident Agent, 811 Bayou Pines Drive, Lake Charles, LA 70601.

Resident Agent in Charge, 10825 Financial Parkway, Suite 321, Little Rock, AR 72211.

Resident Agent in Charge, 951 Government Street, Suite 700, Mobile, AL 36604.

Resident Agent in Charge, 4721 Trousdale Drive, Suite 216, Nashville, TN 37220.

Resident Agent in Charge, 610 Texas Street, Suite 610, Shreveport, LA 71101.

Special Agent in Charge, 4141 N. Saur, Houston Parkway, East, Houston, TX 77032.

Resident Agent in Charge, 421 Cold Avenue, SW, Albuquerque, NM 87103.

Resident Agent in Charge, P.O. Box 9640, Alpine, TX 79830.

Resident Agent in Charge, P.O. Box 99, Austin, TX 78767.

Resident Agent in Charge, P.O. Box 4500, Brownsville, TX 78521.

Resident Agent in Charge, P.O. Box 2159, Corpus Christi, TX 78403.

Resident Agent in Charge, 400 South Record Street, Suite 800, Dallas TX 75242.

Resident Agent in Charge, P.O. Box 1169, Del Rio, TX 78841.

Resident Agent in Charge, P.O. Box 1818, Deming NM 88030.

Resident Agent in Charge, P.O. Box 1076, Douglas, AZ 86508.

Resident Agent in Charge, 160 Garrison Street, Eagle Pass, TX 78852.

Special Agent in Charge, 6501 Boeing Drive, Building G, El Paso, TX 79925.

Resident Agent in Charge, P.O. Box 12, Falcon Heights, TX 78545.

Resident Agent in Charge, P.O. Box HH, Flagstaff, AZ 86001.

Resident Agent in Charge, P.O. Box 570, Galveston, TX 77553.

Resident Agent in Charge, P.O. Box 2128, Laredo, TX 78044.

Resident Agent in Charge, P.O. Box 7150, Las Cruces, NM 88006.

Resident Agent in Charge, P.O. Drawer 189, Lukeville, AZ 85341.

Resident Agent in Charge, 1701 West Business 83, Suite 508, McAllen, TX 78501.

Resident Agent in Charge, 3500 NW 56th Street, Suite 200, Oklahoma City, OK 73112.

Resident Agent in Charge, 3010 North 2nd Street, Suite 201, Phoenix, AZ 85012.

Resident Agent in Charge, 4550 75th Street, Port Arthur, TX 77642.

Resident Agent in Charge, P.O. Drawer H, Presidio, TX 79845.

Resident Agent in Charge, 1802 NE Loop 410, Suite 302, San Antonio, TX 78217.

Resident Agent in Charge, P.O. Box 458, Sells, AZ 85634.

Special Agent in Charge, 555 East River Road, Tucson, AZ 85704.

Resident Agent in Charge, P.O. Box 5757, Yuma, AZ 85364.

Special Agent in Charge, P.O. Box 1309 MPO, Los Angeles, CA 90053.

Resident Agent in Charge, P.O. Box 100199, Anchorage, AK 99501.

Resident Agent in Charge, P.O. Box 535, Astoria, OR 97103.

Resident Agent in Charge, P.O. Box 1360, Blaine, WA 98230.

Resident Agent in Charge (Calexico) 1681 West Main Street, Suite 306, El Centro, CA 92243.

Resident Agent in Charge, P.O. Box 209, Coos Bay, OR 97420.

Resident Agent in Charge, P.O. Box 465, Eureka, CA 95502.

Resident Agent in Charge, P.O. Box 12465, Fresno, CA 93778.

Resident Agent in Charge (Guam), P.O. Box 2508, Agana, Guam 96910.

Resident Agent in Charge, (LAX), 222 North Sepulveda Boulevard, Suite 200, El Secundo, CA 90245.

Resident Agent in Charge, P.O. Box 329, Oceanside, CA 92054.

Resident Agent in Charge (Orange County), 15941 Red Hill Avenue, Suite 200, Tustin, CA 92680.

Resident Agent in Charge, P.O. Box 6155, Oxnard, CA 93031.

Resident Agent in Charge, Federal Office Building, 138 West First Street, Room 216, Port Angeles, WA 98352.

Resident Agent in Charge, P.O. Box 2841, Portland, OR 97208

Resident Agent in Charge, 1755 E. Plumb Lane, Airport Plaza, Suite 229, Reno, NV 89502.

Resident Agent in Charge, P.O. Box 214666, Sacramento, CA 95821.

Special Agent in Charge, 401 West A Street, Suite 305, San Diego, CA 90101.

Special Agent in Charge, 1700 Montgomery Street, Suite 445, San Francisco, CA 94111.

Resident Agent in Charge (SFO), San Francisco International Airport, P.O. Box 251747, San Francisco, CA 94128.

Resident Agent in Charge, Courthouse and Federal Building, 280 South First Street, Suite 190, San Jose, CA 95113.

Resident Agent in Charge, 406 Virginia Avenue, San Ysidro, CA 92073.

Special Agent in Charge, Federal Office Building, 909 First Avenue, Room 4100, Seattle, WA 98174.

Resident Agent in Charge, West 904 Riverside, Room 332, Spokane, WA 92210.

Special Agent in Charge, 610 South Canal Street, Room 851, Chicago, IL 60607.

Resident Agent in Charge (Cincinnati) Suite 200, 207 Grandview Drive, Fort Mitchell, KY 41017.

Resident Agent in Charge (Cleveland) Commerce Place, 7123 Pearl Road, Room 305, Middleburg Heights, OH 44130.

Resident Agent in Charge, 78 E. Chestnut Street, Room 411, Columbus, OH 42315.

Special Agent in Charge, P.O. Drawer 3609, Denver, CO 80294.

Special Agent in Charge, McNamara Federal Building, 477 Michigan Avenue, Room 350, Detroit, MI 48226.

Resident Agent in Charge, P.O. Box 791, Great Falls, MT 59403

Resident Agent in Charge, P.O. Box 51366, Indianapolis, IN 46251.

Resident Agent in Charge, 2701 Rockcreek Parkway, Suite 206, North Kansas City, MO 64117.

Resident Agent in Charge, P.O. Box 92847, Milwaukee, WI 53202.

Resident Agent in Charge, Federal Office Building, 212 Third Avenue South, Room 154, Minneapolis, MN 55401.

Resident Agent in Charge, P.O. Box 192, Pembina, ND 58271.

Resident Agent in Charge, 114 Market Street, Room 942, St. Louis, MO 63101.

Resident Agent in Charge, 1745 W. 1700 S, Room 1124, Salt Lake City, UT 84104.

[FR Doc. 01-25008 Filed 10-17-01; 8:45 am]

BILLING CODE 4820-02-P